POSTAL SERVICE

39 CFR Part 111

Changes to the Domestic Mail Manual to Implement Docket No. R2001-1

AGENCY: Postal Service.

ACTION: Final rule.

SUMMARY: This final rule sets forth the Domestic Mail Manual (DMM) standards adopted by the Postal Service to implement the rate, fee, and classification changes for all classes of mail and special services included in the Decision of the Governors of the Postal Service in Postal Rate Commission Docket No. R2001-1.

EFFECTIVE DATE: This final rule is effective at 12:01 a.m. on June 30, 2002.

FOR FURTHER INFORMATION CONTACT: Sherry Freda, Mail Preparation and Standards, 703-292-3648.

SUPPLEMENTARY INFORMATION: On September 24, 2001, the United States Postal Service, in conformance with sections 3622 and 3623 of the Postal Reorganization Act (39 U.S.C. 101 et. seq.), filed a request for a recommended decision by the Postal Rate Commission (PRC) on proposed rate, fee, and classification changes. The PRC designated this filing as Docket No. R2001-1 and issued a notice of filing in Order No. 1324 on September 26, 2001.

On October 25, 2001, the PRC directed the participants to consider the possibility of a settlement. Noting the extraordinary national events experienced during September, and the potential effects that changed circumstances might have on the Postal Service's request, the PRC requested all participants consider whether substantial agreement on issues and objectives might permit a beneficial resolution of the proceeding.

Counsel for the Postal Service, the Office of the Consumer Advocate, and participating intervenors discussed the issues presented by this case at conferences on October 30 and November 16, 2001, to which all intervenors and the Office of the Consumer Advocate were invited. The Postal Service also consulted with intervenors individually and in smaller groups.

On December 17, 2001, the Postal Service filed a Stipulation and Agreement for settlement of Docket No. R2001-1, together with a motion for the establishment of preliminary procedures and a schedule. On December 26, 2001, the Postal Service with concurrence of its Board of Governors agreed to changes in the terms of the Stipulation and Agreement. These changes included specifying June 30, 2002, rather than June 2, 2002, as the earliest effective date for rate, fee, and classification changes. The revision also restored the rates for intra- and inter-BMC Parcel Post back to the levels originally proposed in the September 24, 2001, request. Between December 26, 2001, and January 17, 2002, 50 parties adhered to the terms of the revised settlement by signing the agreement.

On January 17, 2002, the Postal Service filed a second revised Stipulation and Agreement that included several relatively minor changes in the rates proposed for the Enhanced Carrier Route (ECR) subclass of Standard Mail. In all other respects, the Stipulation and Agreement remained the same. Subsequently, six additional parties adhered to the settlement agreement. Only one participant opposed the settlement.

On January 30, 2002, the Postal Service published for comment in the Federal Register a proposed rule (67 FR 4562) that provided information on the implementation rules for the rate, fee, and classification changes the Postal Service proposed to adopt if the requested changes in Docket No. R2001-1 were recommended by the PRC and approved by the Board of Governors of the Postal Service.

On February 13, 2002, the Postal Service filed a third revised Stipulation and Agreement that withdrew certain proposed changes concerning the listings of combinations of special services. In all other respects, the Stipulation and Agreement remained the same.

On March 6, 2002, the Postal Service filed the original signatures of the participants in Docket No. R2001-1 who signed the Stipulation and Agreement. A total of 57 parties including the Postal Service signed the settlement agreement. Six parties of record did not sign the agreement, but did not oppose it. Only one party opposed the settlement.

On March 22, 2002, pursuant to 39 U.S.C. 3624, the PRC issued its recommended decision on the Postal Service's request to the Governors of the Postal Service. On April 8, 2002, the Board of Governors approved the recommended decision and established an implementation date of June 30, 2002, on which the adopted rates, fees, and classifications will take effect. This final rule contains the DMM standards adopted by the Postal Service to implement the decision of the Governors.

A notice announcing the Governors' decision and the issuance of final Domestic Mail Classification Schedule and Rate Schedule changes is contained in a separate notice to be published in the Federal Register.

Part A of this document identifies and responds to the comments received on the proposed rule and also summarizes the changes contained in this final rule that were not part of the proposed rule. Part B of this document summarizes the revisions to the DMM by class of mail and special service category. Part C summarizes the changes by DMM module and section. The actual changes to the DMM, which will take effect on June 30, 2002, appear at the end of this final rule.

As information, the DMM language in this final rule incorporates all revisions to the DMM from previously published Federal Register final rules that have taken effect on or before March 31, 2002. As a result, the numbering and the language of the DMM sections in this final rule have been synchronized with the language in the current DMM 56.

Mailers are advised that the Postal Service is providing a 6-month phase-in period through January 1, 2003, for meeting the requirements for mail preparation and tray labeling of nonmachinable First-Class Mail and Standard Mail.

Part A—Comments on the Proposed Rule and Changes in the Final Rule

On January 30, 2002, the Postal Service published a proposed rule in the Federal Register (67 FR 4562) that provided information on the implementation rules for the rate, fee, and classification changes that the Postal Service proposed to adopt if its requested changes in Docket No. R2001-1 were approved. The Postal Service solicited comments on the proposed rule from members of the general public and responses from 12 parties were received. The parties providing responses represented two industry associations, two mailers, six mailing agents, and two individuals. A summary of the comments received by subject matter is detailed in items 1 through 7. Item 8 summarizes the changes contained in the final rule that were not part of the proposed rule.

1. Express Mail

Only one comment related to Express Mail. The commenter emphasized that the wording in DMM D500.1.5 pertaining to Express Mail refunds must not be misapplied to transportation failures of a routine nature (e.g., equipment failures, canceled flights). For Express Mail refunds that are denied due to a transportation breakdown, the commenter maintained that the breakdown must occur in a substantial portion of the network (causing a massive disruption) and not be an isolated or routine incident. The Postal Service agrees with this comment and notes that this was the intent of the text in the proposed rule, which is also adopted in this final rule.

2. Periodicals

Three of the commenters, who represented one mailer, one mailing agent, and one industry association, provided comments on several items related to Periodicals.

One commenter requested a clarification of the new per piece pallet discounts, asking whether the discounts are cumulative or exclusive. To clarify, the pallet discounts are exclusive and cannot be applied to the same addressed piece. A $0.005 discount applies to each addressed nonletter piece on nondestination entry pallets and a $0.015 discount applies to each addressed nonletter piece on destination entry pallets. However, a per piece pallet discount may be claimed in addition to any destination entry rate and discount (DADC, DSCF, DDU) for which an addressed piece may also qualify.

Regarding the Ride-Along classification, two commenters expressed an opinion that while they are pleased that the Ride-Along classification will become a permanent classification, the $0.024 per piece increase was too high. It is important to note the experimental rate of $0.10 had been in place since February 2000. The $0.024 increase represents the cumulative increases in rates for R2000-1 implemented in January 2001, the modified rates implemented in July 2001, and the implementation of R2001-1. It must also be noted that modifying the Ride-Along rate would require action by the Postal Rate Commission, which is outside the scope of this rulemaking.

One commenter asked about the eligibility of multiple sheets enclosed in an envelope mailed at the Ride-Along rate. To clarify, multiple sheets (e.g., coupons) can be enclosed within an envelope and mailed at the Ride-Along rate, providing all other standards for Ride-Along are met. The same commenter asked, for multiple editions, if the required marking could be included in the identification statement so long as the editions in which a Ride-Along is included are defined in the identification statement. This was allowed during the experiment and will continue to be allowed.

A further comment on Ride-Along asked for clarification to the standard for Ride-Along pieces contained within unbound publications. The DMM text in this final rule has been amended to clarify that a loose Ride-Along enclosure with an unbound publication does not have to be glued or permanently fastened within the host piece but must be combined with and inserted within the publication.

One commenter recommended that co-located SCF/ADC facilities be defined and designated. As information, the Postal Service did not intend to allow DSCF rate eligibility for mail on DADC pallets. The proposed standard for DSCF rate eligibility published in the January 30, 2002, Federal Register (67 FR 4562) indicated that the DSCF rate was applicable to mail on DADC pallets at co-located SCF and ADC facilities. The standards in E250 reflect this rate eligibility for addressed pieces deposited at such facilities. However, the Postal Service plans to change this standard appropriately in the next rate case.

One commenter expressed support for the revision that will no longer require mailers to present hard copy Form 3553, Coding Accuracy Support System (CASS) Summary Report, with each postage statement. The commenter further suggested a similar revision be extended to the requirements for standardized presort documentation and the documentation required for Periodicals mailings using the simplified address format. While the Postal Service understands that the mailing lists for Periodicals mailings are generally consistent from issue to issue, standardized documentation is needed to support the postage rates and discounts claimed on the postage statements. It should be noted that documentation of postage is not required if the pieces are separated by rate and zone when presented for acceptance. For mailings using simplified address, the required documentation shows that the mailer is using up-to-date saturation density information. Therefore, the Postal Service does not intend to change the standards for the submission of postage and saturation density documentation at this time.

One commenter raised issues regarding drop shipment discount eligibility in circumstances when the mail is not entered at the destination facility. The Postal Service recognizes that there are circumstances when the entry discount would apply even though the mail is not entered at the destination facility. For example, for barcoded letter-size Periodicals, the ADC entry discount would apply for mail entered at an ADC listed in L004 or a facility listed in L801. Another example of this may occur when 5-digit sacks are entered at the delivery unit. In this example, providing the mail is sorted to carrier routes at the local office (e.g., because either the ZIP Code is not an AFSM 100 automated zone or the pieces are not compatible with AFSM 100 processing) and does not have to be taken to another facility for sorting, the mail would qualify for the SCF discount.

One commenter expressed concern that the proposed rule changed eligibility standards for residential customer simplified address mailings. The Postal Service does not intend to change the standards for simplified address mailings in DMM E230.3.4.

One commenter questioned the legal responsibilities of mailers when they sign a postage statement certifying that address quality and other rate requirements have been met. The responsibilities of mailers have not changed. Postage statements have always required that mailers sign the form to certify that their mailings meet postal eligibility standards.

3. Standard Mail

Eight respondents provided comments related to Standard Mail. These commenters represented one mailer, five mailing agents, and one industry association. Comments related to the nonmachinable surcharge are discussed separately in item 6.

a. Automation Requirements for High Density and Saturation Letters

The Postal Service received six comments regarding the new requirement that pieces mailed at Enhanced Carrier Route (ECR) high density and saturation letter rates be automation-compatible and bear a delivery point barcode. Mailers who choose not to make their letter-size pieces automation-compatible or choose not to barcode will pay the ECR high density or saturation nonletter rate.

The proposed classification changes for high density and saturation letters were submitted to the Postal Rate Commission as part of the original rate case filing and are factored into the overall rate design for ECR letters. The new requirements are specified in the Domestic Mail Classification Schedule (DMCS), which is the legal document that supports the standards in the DMM. Comments about rate design and DMCS language are handled as part of the proceedings of the Postal Rate Commission and are outside the scope of this rulemaking. However, we will address some of the concerns raised by the commenters.

As a whole, the commenters opposed the additional requirements for high density and saturation rate letters, and they questioned the operational justifications behind including this requirement in the rate case filing. Some commenters predicted that the additional costs of installing barcoding technology or tabbing machines is greater than the “penalty” imposed by paying the nonletter rate. Therefore, mailers will find it more cost efficient to pay the nonletter rate. Commenters asserted that this rate structure will not give mailers an incentive to produce automation-compatible mailpieces. One commenter asked if mailers were consulted on this classification change before it was proposed to the Postal Rate Commission and asked that implementation be postponed to provide the mailing industry with more time to comment and respond to the changes.

Two commenters asked that the automation requirements be waived for pieces entered at the destination delivery unit (DDU). It is the understanding of these commenters that very little automated sortation is performed at delivery units.

The cost savings and operational efficiencies that will be captured through these automation requirements have been factored into the rate design for all high density and saturation rate letters, including those that receive the DDU discount. While it is true that little automated sortation is performed at the delivery unit, a significant volume of ECR letters is backhauled to the sectional center facility (SCF) for processing and sequencing. Therefore, the Postal Service receives operational benefits from these pieces being barcoded and automation-compatible.

No comments were received in response to the proposed DMM language for implementing these changes. Therefore, effective with rate implementation, all pieces claimed at high density or saturation letter rates must be automation-compatible and must bear a delivery point barcode. Letters that do not meet these requirements may be mailed at high density or saturation nonletter rates.

b. Automation Heavy Letters

The Postal Service received two comments asking for clarification on issues related to raising the weight limit for Standard Mail automation letters to 3.5 ounces.

Two commenters asked for clarification on the weight increments for calculating postage for pieces between 3.3 and 3.5 ounces. As for all postage calculations, the single-piece weight is expressed in decimal weights and rounded off to four digits (see DMM P013.1.3). For example, if a piece weighs 3.444411 ounces, then the pound rate postage would be calculated using 3.4444 ounces as the weight.

The same two commenters asked how residual (nonbarcoded) pieces from a regular Standard Mail heavy automation letter mailing would be treated. Pieces in a heavy automation mailing that cannot be barcoded will be treated as under current standards for automation letters. Pieces that are not barcoded cannot be mailed at automation rates and must be mailed at Presorted rates. Because there is no provision to apply the 3.5 ounce weight limit to Presorted letters, pieces that weigh more than 3.3 ounces must be mailed at the Presorted piece/pound rates. These residual pieces would be reported on a separate postage statement but, like today, they will not need to meet a separate 200-piece or 50-pound minimum (see DMM E620.1.2). Mailers also have the option of mailing residual pieces at the First-Class Mail single-piece rate.

Raising the weight limit for Presorted letters to 3.5 ounces would require action by the Postal Rate Commission and is outside the scope of this rulemaking.

Current DMM E620.1.2 requires that residual pieces be part of the same mailing job and reported on the same postage statement as the rest of the ECR or automation rate mailing. The Postal Service has developed new postage statements for heavy automation letters (Forms 3602-HR, -HP, -NHR, and -NHP) that do not include space for calculating postage for residual pieces mailed at Presorted rates. Therefore, a mailing job that contains heavy automation or heavy ECR letters and Presorted piece/pound rate letters would be reported on separate postage statements (although some facsimiles produced by presort software will combine these two into one). To accommodate this change, DMM E620.1.2 has been revised as part of this final rule to remove the requirement that residual pieces be reported on the same postage statement.

4. Package Services

Two commenters, who represented one mailing agent and one industry organization, provided comments on four items related to Package Services. Three of the items concerned Bound Printed Matter and the other involved Media Mail.

a. Bound Printed Matter

One commenter proposed that the Postal Service define a Bound Printed Matter (BPM) parcel as any piece that is more than 1-1/4 inches thick at its thickest point. The definition quoted by the commenter was a BPM parcel is defined as “any piece that is in a box or, if not in a box, is more than 1¼-inch thick at its thickest point.” This definition is applicable only when Delivery Confirmation or Signature Confirmation service is added to a First-Class Mail or Package Services parcel (see DMM C100.5.0 and C700.1.0h). In all other circumstances, the existing criteria in DMM C050 will continue to be used to define a parcel, including a BPM parcel.

One commenter raised a question about the requirement that BPM pieces be sorted to the 5-digit level to qualify for DSCF rates. The Postal Service maintains its position that BPM must be sorted to 5-digits in order to qualify for DSCF rates.

The Postal Service proposed that BPM flats meet the standards in DMM C820 for flat sorting machine (FSM) 881 processing. One commenter stated that the standards in DMM C820 for FSM 1000 processing are not included in the formulation of the automated flat sorting machine (AFSM) 100 standards and that they should be. The Postal Service did not include the standards in DMM C820 for FSM 1000 processing in the eligibility requirements for the barcode discount for automation BPM flats because FSM 1000 standards are not consistent with the design of the AFSM 100. As information, the DMM language in this final rule does not incorporate revisions to the DMM standards for automation flats because this issue was not filed as part of Docket No. R2001-1. Therefore, the comment is outside the scope of this rulemaking. At a future date, the Postal Service will publish standards for the AFSM 100 in a separate Federal Register notice for public comment.

One commenter stated that upon completion of the testing of the AFSM 100, new standards are likely to be used for defining when BPM flats can be processed on the FSM 881. It is anticipated this change would affect the weight maximum for flats in particular. Since this issue was not filed as part of Docket No. R2001-1, the comment is outside the scope of this rule making. However, the Postal Service will publish for public comment the maximum weight for BPM flats at a future date in a separate Federal Register notice.

b. Media Mail and Library Mail

One commenter believes the Postal Service should reinstate the option for preparing Media Mail in sacks to qualify for Presorted 5-digit or basic rates based on a minimum 1,000 cubic inches of mail. This option was eliminated for both Media Mail and Library Mail with the implementation of Docket No. R2000-1, which took effect on January 7, 2001. The Postal Service is not opposed to this suggestion and as part of this final rule reinstates the option for preparing sacks based on a minimum of 1,000 cubic inches of mail for both Media Mail and Library Mail.

5. Special Services

The two individuals who responded both commented on items related to the proposal for adding an electronic option for return receipt service.

Unrelated to these comments, the Postal Service has decided to delay implementation of the proposed electronic option until a future date. Consequently, the electronic option will not be available as proposed, and it is not included in this final rule.

6. Nonmachinable Surcharge

Three respondents representing one individual, one mailing agent, and one industry association provided comments on the nonmachinable surcharge. One commenter asked for clarification of some of the criteria for nonmachinable letters published as proposed DMM C050.2.2.

For item 2.2d, the commenter asked if a key that is affixed to a card or piece of cardboard inserted in an envelope would be nonmachinable and requested that the standard be reworded to read “loose keys and coins.”

The Postal Service agrees that loose keys in an envelope would cause a piece to be nonmachinable and has made the suggested change to DMM C050.2.2d in this final rule. Mailers should note that a “non-bulky key” (such as a house key) firmly affixed to a piece of stiff paper inserted into an envelope would be machinable; no surcharge would apply. A bulky key (such as a vehicle key with thick plastic at the top) in an envelope would pay the surcharge, regardless of whether or not that key was affixed to anything, due to the uneven thickness of the piece.

For item 2.2f, the commenter requested that the standard be reworded to show that the minimum thickness requirement should apply to the “majority of the surface area of a mailpiece.” The commenter cited an example of a piece of business correspondence inserted into a #10 envelope. The majority of the surface of the piece is greater than .009 inches thick, but there is a small margin around the edges of the piece that is less than .009 inches thick. The commenter also questioned why the minimum thickness criteria applies to pieces of a certain size (as proposed, pieces more than 4¼ inches high or 6 inches long would have to be at least 0.009 inches thick).

The Postal Service included a minimum thickness criteria because very flimsy mailpieces (such as a single sheet of unenveloped newsprint) cannot be processed efficiently on automated sorting equipment. This is especially true as pieces increase in height and length. These pieces must be handled manually. We believe that the standard as written is adequate to achieve this goal. The Postal Service does not measure the thickness of a mailpiece at the very edge. We will monitor the implementation of this criterion to ensure that mailers are not being assessed the surcharge on pieces that meet the thickness requirement for machinable pieces.

Two commenters asked if the nonmachinable surcharge would apply to residual pieces from a Standard Mail automation flats mailing.

Any piece mailed at the Presorted letter piece rate that meets one or more of the criteria in C050.2.2 would be subject to the nonmachinable surcharge. This includes pieces that are residual pieces from any automation mailing, including a mailing of automation flats.

For example, a barcoded piece that is 8½ by 5½ inches and bears an address parallel to the shorter edge could be mailed as a Standard Mail automation flat. Pieces in this mailing that cannot be barcoded can be mailed at Presorted rates; the mailer would then have the option of paying the letter piece rate plus the nonmachinable surcharge (because the address is parallel to the shorter dimension) or the nonletter piece rate. Like today, these residual pieces will not need to meet a separate 200-piece or 50-pound minimum (see DMM E620.1.2). Mailers also have the option of mailing residual pieces at the First-Class Mail single-piece rate.

7. Pallet Load Minimum for Trays

One commenter stated that the proposed change to DMM M041.5.0 has the effect of raising the minimum number of letter trays needed to make a pallet. The commenter believes that today's standard (three layers of letter trays) can be met with 14 2-foot trays (28 linear feet).

The intent of this rule change is to create a measurement that mailers and postal employees can use to objectively determine whether the pallet minimum has been met. Under the current standard, mailers use a combination of 1-foot and 2-foot trays to create three full layers of letter trays on a pallet. Analysis by the Postal Service has determined that the minimum number of trays to create three layers is 36 linear feet. We understand that some mailers do not properly layer letter trays and can create three layers with fewer than 36 linear feet (by stacking trays around the edges of the pallet with a hole in the middle). Stacking trays this way gives the appearance of meeting the requirement of three layers but, in fact, does not.

We believe that a measurement that is objective and easy to understand, such as linear feet, will ensure that the pallet minimum is applied more consistently. However, in consideration of comments from the mailing industry, we will retain the current standard and add the linear feet measurement as an option. Therefore, in this final rule, DMM M041.5.0 has been revised to show that the pallet minimum is three layers of trays or 36 linear feet of trays. A mailer must make a pallet for a particular presort destination when they have six layers of trays or 72 linear feet of trays.

8. Other Changes and Clarifications in the Final Rule

The following information summarizes the DMM changes contained in the final rule, but which were not published as part of the proposed rule.

a. First-Class Mail

M032.2.4b was revised to replace references to upgradable mail with references to machinable mail. Barcoded tray labels will be allowed, but will not be required, for trays of First-Class Mail machinable letters. Zebra codes must not be used on trays of First-Class Mail machinable letters. Zebra codes indicate that the tray contains automation rate prebarcoded mail.

b. Standard Mail

M032 was revised to show that barcoded tray labels will be required on trays of Enhanced Carrier Route (ECR) high-density and saturation letters. Barcoded tray labels will not be required for letter-size pieces mailed at the nonletter rate.

M032.2.4b was revised to replace references to upgradable mail with references to machinable mail. Barcoded tray labels will be allowed, but will not be required, for trays of Standard Mail machinable letters. Zebra codes must not be used on trays of Standard Mail machinable letters. Zebra codes indicate that the tray contains automation rate prebarcoded mail.

The rate tables in DMM R600.1.1 and 3.1 were changed to eliminate the rate cell for mixed AADC automation letters entered at the destination sectional center facility (DSCF). This is because mixed or working trays must be entered at the origin facility, and not all of the pieces in the mixed AADC tray would be addressed for delivery within the SCF service area. In addition, the DSCF discount is available for pieces mailed at the AADC rate only when those pieces are in a 3-digit tray (e.g., a less-than-full 3-digit origin tray). It is not available for pieces mailed at the AADC rate that are in an AADC tray. No changes to DMM E650.6.0 are required to implement this change.

The proposed rule stated that ECR high density and saturation letter rate pieces that are not automation-compatible and are not barcoded could be mailed at the high density and saturation nonletter rates, or at the basic rate. Our intention in offering the basic rate was to give mailers more options, but after additional analysis it seems unlikely, given the rate differentials, that a mailer would ever choose to mail these letters at the basic rate. Therefore, we have eliminated that option from DMM E630.3.2 and E630.4.2.

The option to allow mailers to qualify for ECR high density rates on routes with fewer than 125 possible deliveries has been added back into DMM E630.3.0. That option was removed in the proposed rule because we thought that any mailer covering 100% of a carrier route would choose to claim the lower saturation rates. We have since learned that some mailers use this method to qualify for high density rates (they forgo the saturation rate because of operational efficiencies such as preparing pieces with identical markings).

c. Special Services

A service enhancement for registered mail and certified mail is included in the final rule. Mailers will be able to access delivery information over the Internet at www.usps.com by entering the article number shown on the mailing receipt. No delivery record will be provided by the Postal Service.

d. Postage Payment

In P910.3.3, the manifest rate category abbreviations for First-Class Mail and Standard Mail were changed.

In P960.3.2, the MLOCR rate and postage markings were changed for First-Class Mail pieces that weigh between 10 and 13 ounces.

Part B—Summary of Changes by Class of Mail

The following information details the R2001-1 changes organized by class of mail or special service category. This information is intended as an overview only and should not be viewed as defining every DMM revision adopted in this final rule.

1. Express Mail

a. Express Mail Rate Highlights

Overall, Express Mail rates will increase an average of 9.4%. The most significant change to the Express Mail rate structure will be to the flat-rate envelope. Currently, the rate for the Express Mail flat-rate envelope is the same as the applicable 2-pound rate. The rate for the flat-rate envelope will be the ½ pound rate, which is the lowest available rate for each Express Mail service offering. The rate for the flat-rate envelope will decrease for Post Office to Addressee service from $16.25 to $13.65, but the size of the envelope will remain the same. The Express Mail flat-rate envelope will continue to be the EP 13F envelope that is available from the Postal Service.

The indemnity included in the price of Express Mail will be reduced from $500 to $100 for both merchandise and document reconstruction. This adjustment will more closely align with general industry practice. The fee for every $100 increment of additional merchandise insurance desired above the standard $100 and up to $5,000 will be $1.00.

b. Express Mail Rate Structure

There will be no changes to the rate structure of Express Mail.

c. Express Mail Preparation Changes

There will be no changes to mail preparation requirements for Express Mail.

2. Priority Mail

a. Priority Mail Rate Highlights

Overall, Priority Mail rates will increase an average of 13.5%. Currently, the rate for the Priority Mail flat-rate envelope is the same as the 2-pound rate. Because of the rezoning of all rates from 2 to 5 pounds, the rate for the flat-rate envelope will be tied to the 1-pound rate. The 1-pound rate will increase from $3.50 to $3.85 and remain an unzoned rate. The rate for the flat-rate envelope will decrease from $3.95 to $3.85, but the size of the envelope will remain the same. The Priority Mail flat-rate envelope will continue to be the EP 14F envelope that is available from the Postal Service.

b. Priority Mail Rate Structure

Currently, Priority Mail rates are not zoned for pieces weighing 5 pounds and under, but they are zoned for pieces weighing more than 5 pounds. Weight increments over 1 pound and up to 5 pounds will be zoned to more accurately reflect actual costs to the Postal Service for transportation and handling.

c. Priority Mail Preparation Changes

There will be no changes to mail preparation requirements for Priority Mail.

3. First-Class Mail

a. First-Class Mail Rate Highlights

Overall, First-Class Mail rates will increase an average of 7.9%. The single-piece 1-ounce First-Class Mail rate will increase from $0.34 to $0.37, and the single-piece card rate from $0.21 to $0.23. The additional ounce rate for single-piece First-Class Mail will remain at $0.23. There will be a lower additional ounce rate for Presorted and automation First-Class Mail.

Business mailers will see larger automation presort discounts. The carrier route automation discount and the nonautomation presort discount will remain at current levels. The proposed increase in automation discounts and the proposed half-cent reduction in the workshare additional-ounce rate will result in more attractive rate incentives, especially for large-volume First-Class Mail users who presort and mail heavier pieces.

The presort mailing fee will increase from $125 to $150.

b. First-Class Mail Rate Structure and Mail Preparation

(1) Lower Additional Ounce for Presorted and Automation Rates

Currently, there is a single additional ounce rate for all pieces mailed at First-Class Mail rates. For Presorted and automation pieces weighing more than two ounces, a heavy piece discount is deducted.

The Postal Service will implement a lower additional ounce rate for workshare First-Class Mail. Pieces mailed at single-piece rates will pay $0.23 for each additional ounce; pieces mailed at any workshare rate will pay $0.225 for each additional ounce. This change affects only postage rates.

(2) Automation Basic Rate Split Into Two New Rates

For automation cards and letters, the current rate structure contains a 5-digit, 3-digit, and basic rate. The new rate structure will split the basic rate into an automated area distribution center (AADC) rate (for all pieces in an AADC tray) and a mixed AADC rate (for all pieces in a mixed AADC tray). The AADC rate also will apply to pieces in a less-than-full 3-digit tray. There are no sortation changes for automation cards and letters. The 5-digit sort level will still be optional; all other sort levels will be required.

For automation flats, the current rate structure contains a 5-digit, 3-digit, and basic rate. The new rate structure will split the basic rate into an area distribution center (ADC) rate (for all pieces in an ADC package or tray) and a mixed ADC rate (for all pieces in a mixed ADC package or tray). The ADC rate also will apply to pieces in a less-than-full 3-digit tray. There are no sortation changes for automation flats. The 5-digit sort level still will be optional; all other sort levels will be required.

(3) Nonmachinable Surcharge

The definition of the current nonstandard surcharge will be expanded to include certain physical criteria that could make a mailpiece nonmachinable. Pieces that are nonmachinable are excluded from automated processing and must be handled manually. Nonmachinable pieces also may impede mail flow or damage the mail or mail processing equipment. Manual pieces are considerably more costly to process than machinable letters.

The criteria for nonmachinable letter-size pieces will be listed in DMM C050.2.2. The nonmachinable surcharge will apply to single-piece and Presorted rate letters that weigh 1 ounce or less and meets one or more of the criteria in that section. Machinable pieces are not subject to any restrictions regarding the OCR read area or barcode clear zone.

The nonmachinable surcharge also will apply to single-piece, Presorted, and automation rate nonletters (flats and parcels) that weigh 1 ounce or less if any one of the following applies:

a. The piece is greater than ¼-inch thick.

b. The length is more than 11½ inches or the height is more than 6⅛ inches.

c. The aspect ratio (length divided by height) is less than 1.3 or more than 2.5.

The nonmachinable surcharge will be $0.12 for single-piece rate pieces and $0.055 for Presorted and automation rate pieces.

The nonmachinable criteria in C050.2.2 do not apply to pieces mailed at any card rate.

The nonmachinable surcharge will apply to letter-size pieces (but not card rate pieces) for which the mailer has chosen the manual only (“do not automate”) option. For card rate pieces, a mailer can specify manual handling, but they will not be charged a surcharge.

This change is consistent with the addition of a nonmachinable surcharge for Standard Mail.

In conjunction with this change, trays of machinable and nonmachinable letters will be prepared and labeled differently. The preparation for machinable letters will be similar to the current preparation for upgradable letters (e.g., no packaging, optional 5-digit sort level); the preparation for nonmachinable pieces will be similar to the current package-based preparation for Presorted letters. The current weight limit for upgradable letters (2.5 ounces) will be replaced with a weight limit of 3.3 ounces for machinable letters. Letters heavier than 3.3 ounces and less than ¼-inch thick will use the nonmachinable preparation and labeling but will not pay the surcharge (because it applies only to pieces that weigh 1 ounce or less).

On tray labels, the current “NON BC” (“not barcoded”) designation will be replaced with one of two designations: “MACH” for machinable pieces or “MANUAL” for nonmachinable pieces. Although card rate pieces will not be subject to the surcharge, mailers will be required to show on the tray label whether or not those pieces are machinable (for instance, a double card that is not tabbed is not machinable). The “MANUAL” designation will help the Postal Service direct trays of mail to the appropriate mail processing operation. As is currently required, mailers who choose the “do not automate” option will show “MANUAL” on Line 2 of the tray label.

Barcoded tray labels are allowed, but are not required, for trays of First-Class Mail machinable letters. Zebra codes must not be used on trays of First-Class Mail machinable letters (zebra codes indicate that the tray contains automation rate prebarcoded mail).

Software vendors should note that machinable and nonmachinable (manual) letters will use different content identifier numbers (CINs) (see M032 Exhibit 1.3a).

There are no preparation or labeling changes for Presorted flats or parcels subject to the surcharge.

Mail preparation instructions for Presorted letter-size pieces subject to the nonmachinable surcharge will be included in DMM M130. Preparation instructions for automation flats subject to the nonmachinable surcharge will not change (see current DMM M820).

The nonmachinable surcharge will be assessed on any piece mailed out as a different class of mail and returned as First-Class Mail (for instance, Standard Mail endorsed “Return Service Requested”) if the piece weighs 1 ounce or less and meets the criteria for nonmachinability in C050.2.2. Pieces returned at First-Class Mail card rates will not be subject to the nonmachinable surcharge.

The nonmachinable surcharge will take effect when new rates are implemented; however, mailers have until January 1, 2003, to comply with the mail preparation and tray labeling changes.

(4) Delivery Confirmation and Signature Confirmation for First-Class Mail Parcels

The Postal Service will add two new special service options for First-Class Mail parcels: Delivery Confirmation and Signature Confirmation. Both services will be available in manual (retail) and electronic options. The fees for Delivery Confirmation will be $0.55 (retail) and $0.13 (electronic). The fees for Signature Confirmation will be $1.80 (retail) and $1.30 (electronic).

For the purposes of adding Delivery Confirmation or Signature Confirmation, a First-Class Mail parcel is defined as any piece that:

(a) Has an address side with enough surface area to fit the delivery address, return address, postage, markings and endorsements, and special service label; and

(b) Is in a box or, if not in a box, is greater than ¾-inch thick at its thickest point.

This definition will provide mailers many different packaging options for their First-Class Mail parcels.

(5) Containerization and Labeling

For letter-size pieces, a full tray will be defined as one that is 100% full, with a range between 75% and 100%. The recommended default for presort software will be 85%. In addition, after the minimum volume for rate eligibility is reached (i.e., 150 pieces for a 3-digit area), overflow will be optional for all sort levels of letter trays. Also, mailers will be required to use as few trays as possible: Under current standards, a mailer could prepare one full 1-foot tray plus one less-than-full 1-foot tray; new standards will result in the preparation of a single less-than-full 2-foot tray.

On all First-Class Mail letter trays, “LTRS” will change to “LTR” and “CR-RTS” will change to “CR-RT.” This change is necessary to allow more room for other information on the tray label. Mailers have until January 1, 2003, to comply with these labeling changes.

(6) Documentation

Mailers will no longer be required to present a hard copy Form 3553, Coding Accuracy Support System (CASS) Summary Report, with their mailings. Instead, mailers or mailer agents will continue to keep this documentation on file for 1 year from the date of mailing and make it available to the Postal Service on 24-hour notice.

Software vendors and mailers should note that changes will be made to manifest keyline rate codes (DMM P910.3.0) and MLOCR rate markings (DMM P960.3.0) to reflect the new First-Class Mail rate categories.

4. Periodicals

a. Periodicals Rate and Fees Highlights

The overall average increase for Periodicals will be 10.0%. Outside-County postage will increase on average 10.3%, while In-County postage will increase on average 1.7%. The destination delivery unit (DDU) discount will increase (from $0.017 to $0.018), while the destination sectional center facility (DSCF) discount will remain at $0.008. The new destination area distribution center (DADC) discount will be $0.002. The new pallet discount will be $0.015 per addressed piece for destination entry pallets and $0.005 per addressed piece for all other pallets (nondestination entry).

Original entry and additional entry application fees will increase from $350 to $375 and from $50 to $60, respectively, while the fees for reentry and news agent registry will remain at $40.

b. Periodicals Rate Structure

(1) Changes

Changes to the rate design for Periodicals are as follows:

(a) New destination area distribution (DADC) advertising pound rate and a per piece discount for each Outside-County addressed piece.

(b) Destination rates and discounts will be limited to mail entered at the actual destination entry facility (DADC, DSCF, and DDU), unless designated otherwise by the Postal Service.

(c) A new per piece pallet discount for each addressed nonletter-size piece (flat-size or irregular parcels) prepared in packages on pallets (nondestination entry) that contain at least 250 pounds of mail. This discount will apply to all pallet levels. The discount will not apply to pieces in sacks on pallets or in trays on pallets.

(d) A new destination entry per piece pallet discount will apply to each addressed piece of nonletter-size mail (flat-size or irregular parcels) prepared in packages on any destination entry pallet of at least 250 pounds of mail. The discount is not available for pieces in sacks or trays on pallets. For destination delivery units that cannot accept pallets, mailers may claim the pallet discount on DDU mail of at least 250 pounds to the DDU when presented as prescribed by the USPS.

In conjunction with the nonmachinable surcharge, a Periodicals mailpiece returned to the sender at First-Class Mail rates is subject to the nonmachinable surcharge if the piece weighs 1 ounce or less and meets one or more of the nonmachinable characteristics in C050.2.2.

(2) Periodicals Ride-Along

The Ride-Along experiment will become a permanent classification. There will be no changes in the current eligibility standards. However, publishers will no longer be required to complete a data collection questionnaire, provide a sample mailpiece in addition to the marked copy, or submit Form 3541-X (postage statement). Form 3541-X will be discontinued and mailers will use Form 3541. The standards for Ride-Along will be relocated to new DMM E260. The Ride-Along rate will increase from $0.10 to $0.124 per piece.

(3) Containerization

For letter-size pieces, a full tray will be defined as one that is 100% full, with a range between 75% and 100%.The recommended default for presort software will be 85%. In addition, after the minimum volume for rate eligibility is reached (i.e., 150 pieces for a 3-digit area), overflow will be optional for all sort levels of letter trays. Also, mailers will be required to use as few trays as possible. Under current standards, a mailer could prepare one full 1-foot tray plus one less-than-full 1-foot tray; new standards will result in the preparation of a single less-than-full 2-foot tray.

We have added an option to measure the minimum volume of trays on pallets in linear feet. The pallet minimum can be met with three layers of trays or 36 linear feet of trays. A mailer must make a pallet for a particular presort destination when they have six layers of trays or 72 linear feet of trays.

(4) Documentation

Mailers will no longer be required to present a hard copy Form 3553, Coding Accuracy Support System (CASS) Summary Report, with their mailings. Instead, mailers or mailer agents will continue to keep this documentation on file for 1 year from the date of mailing and make it available to the Postal Service on 24-hour notice.

5. Standard Mail

a. Standard Mail Rate Highlights

Overall, Standard Mail rates will increase an average of 7.1%. On average, rates for flat-size mail will increase more than rates for letter-size mail. Regular and nonprofit rates will increase an average of 7.5% and Enhanced Carrier Route (ECR) rates will increase an average of 6.2%. Greater destination entry discounts will provide an incentive for mailers to use their own or third-party transportation to move Standard Mail closer to the point of delivery.

The annual mailing fee will increase from $125 to $150.

b. Standard Mail Rate Structure and Mail Preparation

(1) Automation Basic Letter Rate Split Into Two New Rates

For automation letter-size pieces, the current rate structure contains 5-digit, 3-digit, and basic rates. The new rate structure splits the basic rate into an AADC rate (for all pieces in an AADC tray) and a mixed AADC rate (for all pieces in a mixed AADC tray). The AADC rate also will apply to all pieces in any less-than-full origin or entry 3-digit or 3-digit scheme tray. There will not be any sortation changes for automation letter-size pieces. The 5-digit sort level will still be optional; all other sort levels will be required.

The destination sectional center facility (DSCF) discount is not available for pieces mailed at the mixed AADC rate. This is because mixed or working trays must be entered at the origin facility, and no pieces in the mixed AADC tray would be addressed for delivery within the SCF service area. In addition, the DSCF discount is available for pieces mailed at the AADC rate only when those pieces are in an origin or entry 3-digit tray. It is not available for pieces mailed at the AADC rate that are in an AADC tray.

Unlike in First-Class Mail, where the ADC and mixed ADC rates will apply to automation flats, there will not be any changes to the rate structure for Standard Mail automation flats.

(2) Nonmachinable Surcharge

A nonmachinable surcharge will apply to some Standard Mail letter-size pieces mailed at Presorted rates; the definition will include certain physical criteria that could make a mailpiece nonmachinable. Pieces that are nonmachinable are excluded from automated processing and must be handled manually. Nonmachinable pieces also may impede mail flow or damage the mail or mail processing equipment. Manual letters are considerably more costly to process than machinable letters.

The criteria for nonmachinable letter-size pieces will be listed in DMM C050.2.2. The nonmachinable surcharge will apply to Presorted rate letter-size pieces (including cards) that weigh 3.3 ounces or less and meet one or more of the criteria in that section. Machinable pieces are not subject to any restrictions regarding the OCR read area or barcode clear zone. This classification change is consistent with the nonmachinable surcharge for First-Class Mail.

Unlike First-Class Mail, where the nonmachinable surcharge will apply to flats, the Postal Service is not adding a nonmachinable surcharge to Standard Mail flats. The Standard Mail rate structure includes separate rates for letters and nonletters and factors in the extra costs of handling nonmachinable nonletters.

The nonmachinable surcharge will be $0.04 per piece for regular Presorted rate pieces and $0.02 per piece for nonprofit Presorted rate pieces (see DMM R600).

The nonmachinable surcharge will apply to Presorted rate letter-size pieces for which the mailer has chosen the “manual only” (do not automate) option.

The nonmachinable surcharge will not apply to pieces mailed at any ECR rate or to automation rate letters (which are by definition machinable).

In conjunction with this change, trays of machinable and nonmachinable letters will be prepared and labeled differently.

The preparation for machinable letters will be similar to the current preparation for upgradable letters (e.g., no packaging, optional 5-digit sort level); the preparation for nonmachinable pieces will be similar to the current package-based preparation for Presorted letters. The current weight limit for upgradable letters (2.5 ounces) will be replaced with a weight limit of 3.3 ounces for machinable letters.

On tray labels, the current “NON BC” (“not barcoded”) designation will be replaced with one of two designations: “MACH” for machinable pieces or “MANUAL” for nonmachinable pieces. The “MANUAL” designation will help the Postal Service direct the trays of mail to the appropriate mail processing operation. As is currently required, mailers who choose the “do not automate” option will show “MANUAL” on Line 2 of the tray label.

Barcoded tray labels are allowed, but are not required, for trays of Standard Mail machinable letters. Zebra codes must not be used on trays of Standard Mail machinable letters (zebra codes indicate that the tray contains automation rate prebarcoded mail).

Software vendors should note that machinable and nonmachinable (manual) letters will use different content identifier numbers (CINs) (see M032 Exhibit 1.3a).

Mail preparation instructions for Standard Mail pieces subject to the nonmachinable surcharge will be included in DMM M610.

In a mailing of nonmachinable letter-size pieces, residual Standard Mail pieces sent at First-Class Mail rates will be subject to the First-Class Mail nonmachinable surcharge only if the pieces weigh 1 ounce or less. Heavier pieces will not be subject to the First-Class Mail nonmachinable surcharge, even though those same pieces would have been subject to the Standard Mail nonmachinable surcharge if they had remained in the Standard Mail mailing. Additionally, residual Standard Mail pieces mailed at First-Class Mail card rates will not be subject to the nonmachinable surcharge.

Mailers should note that residual pieces from a Standard Mail automation flats mailing could be subject to the nonmachinable surcharge if the residual is mailed at Presorted letter piece rates. For example, a barcoded piece that is 8½” by 5½” inches and bears an address parallel to the shorter edge could be mailed as an automation flat. Pieces in this job that cannot be barcoded would fall to Presorted rates; the mailer would then have the option of paying the letter piece rate plus the nonmachinable surcharge (because the address is parallel to the shorter dimension) or the nonletter piece rate.

Standard Mail pieces that are returned as First-Class Mail (for instance, an undeliverable piece endorsed “Return Service Requested”) will be charged the nonmachinable surcharge if the piece weighs 1 ounce or less and meets the criteria for nonmachinability in C050.2.2. The nonmachinable surcharge also will be figured into the calculation for the weighted fee for pieces that weigh 1 ounce or less. The nonmachinable surcharge will not be charged on pieces returned at First-Class Mail card rates.

The nonmachinable surcharge will take effect when new rates are implemented; however, mailers have until January 1, 2003, to comply with the mail preparation and tray labeling changes.

(3) Heavier Letters Are Eligible for Automation Rates

The maximum weight limit for automation letters will increase from 3.3 ounces to 3.5 ounces (inclusive). These pieces will be charged postage equal to the automation piece/pound rate and receive a discount equal to the automation nonletter piece rate (3.3 ounces or less) minus the corresponding automation letter piece rate (3.3 ounces or less) for the appropriate sort level. This change applies to regular and nonprofit automation letters, and to automation carrier route letters.

Mailers who choose to take this discount for heavy automation letters will be required to use a new postage statement designed for this purpose. On the permit imprint postage statement, the discount is precalculated and has been deducted from the piece rate. The example below follows that same model. Mailers should note that for nonprofit 5-digit automation letters the discount is larger than the piece rate; therefore, subtracting the discount from the piece rate results in a negative number.

Mailers who choose the postage affixed (metered postage) option will be required to affix the full postage amount to each piece (see DMM P600.2.2).

As an example, a regular automation letter weighing 3.45 ounces that is sorted in a 3-digit tray for DSCF entry will be charged:

| Calculation for 1 piece | Calculation for 10,000 pieces
Nonletter piece rate (more than 3.3 ounces), ⅗ rate | $0.115 | $1,150.00
Minus |  |
A discount that equals the ⅗ nonletter piece rate (3.3 ounces or less) for DSCF entry minus the 3-digit letter piece rate (3.3 ounces or less) for DSCF entry (0.235 minus 0.177) | −.058 | −580.00
Equals |  |
Adjusted piece rate (as will appear on permit imprint postage statement) | 0.057 | 570.00
Plus |  |
Pound rate (more than 3.3 ounces), ⅗ rate, DSCF entry (3.45 ounces divided by 16 ounces equals 0.215625 pounds, rounded to 0.2156 pounds, multiplied by $0.583 per pound) | 0.1256948 | 1,256.948
Equals total postage | 0.1827 | 1,826.948

This change will allow mailers to avoid the substantial rate increase for letter-size pieces exceeding 3.3 ounces. Under the current rate schedule, once an automation letter exceeds the 3.3-ounce maximum weight, the piece becomes subject to the piece/pound rates.

There are no mail preparation changes that accompany this change; these heavy letters will be required to meet the current standards for heavy automation letters in DMM C810.7.5 and will use the existing mail preparation sequence and labeling for automation letters. Current standards for mixed-rate mailings will not change. Residual pieces from a heavy automation letter mailing that cannot be barcoded can be mailed at single-piece First-Class Mail rates or prepared as a Presorted Standard Mail letter mailing with postage paid at the piece/pound rate (for pieces over 3.3 ounces). Like today, these residual pieces will not need to meet a separate 200-piece or 50-pound minimum (see DMM E620.1.2) and will be reported on separate postage statements.

(4) Barcode Requirement for ECR Letter-Size Pieces

ECR letter-size pieces mailed at high-density and saturation piece (letter) rates will be required to meet the physical standards for automation-compatible mail in DMM C810 and will be required to have a delivery point barcode. Pieces using simplified address will not be required to have a delivery point barcode and therefore will not need to meet the physical standards for automation'compatible mail to qualify for letter rates.

This change will apply to both ECR and Nonprofit ECR.

Requiring high density and saturation letters to be prebarcoded gives the Postal Service operational flexibility and eliminates the need to barcode these pieces if they are sent to delivery point sequencing (DPS). The requirement for automation-compatibility corresponds to the requirement for a delivery point barcode'for the Postal Service to read the barcode, the piece must be compatible with automated mail sorting equipment. These requirements will not apply to detached address labels (DALs) that accompany flat-size pieces or irregular parcels. Even though the DAL itself is letter-size, technically it is the label for the larger piece.

Pieces that do not meet the physical standards in C810 or that do not contain a delivery point barcode will be subject to the corresponding ECR high density or saturation nonletter rate. Pieces that are letter-size but claimed at the nonletter rates will be marked, sorted, and trayed as letters.

There are no changes to the sequencing requirements, markings, or sortation for Enhanced Carrier Route pieces. Tray labels will change to reflect whether the pieces in the tray are barcoded (“BC”), not barcoded but machinable (“MACH”), or nonmachinable, regardless of whether the pieces are barcoded (“MANUAL” or “MAN”). These designations help the Postal Service direct the trays of mail to the appropriate mail processing operation. Mailers will be required to use barcoded tray labels.

Pieces with a simplified address format do not contain the necessary address elements to generate a delivery point barcode. To qualify for the saturation letter rate, those pieces will not have to bear a delivery point barcode, will not have to be automation-compatible, and will be labeled “MAN” (even if the pieces are machinable).

Pieces with exceptional or “occupant” addresses (A040) do contain enough address elements to generate a delivery point barcode and therefore must be automation-compatible and must bear a delivery point barcode in order to claim the high density or saturation letter rates.

Software vendors should note that within each of the three processing options (BC/MACH/MAN), the same content identifier number (CIN) will be used for all direct carrier route trays (see DMM Exhibit M032.1.3a).

Mailers will not be permitted to combine barcoded and nonbarcoded pieces into the same mailing. Therefore, nonbarcoded pieces will have to be presented as a separate mailing, but will not need to meet a separate 200-piece or 50-pound minimum volume requirement.

The new requirements for high density and saturation letter rates will take effect the day new rates are implemented; however, mailers have until January 1, 2003, to comply with the tray labeling changes.

(5) Heavier Automation-Compatible ECR Letters Are Eligible for Letter Rates

The maximum weight limit for automation-compatible ECR letters will increase from 3.3 ounces to 3.5 ounces (inclusive). These pieces will be charged postage equal to the nonletter piece/pound rate and receive a discount equal to the nonletter piece rate (3.3 ounces or less) minus the corresponding letter piece rate (3.3 ounces or less) for the appropriate sort level. This change applies to regular and nonprofit ECR saturation and high density letters.

For regular ECR, the discount will be $0.005 per piece for high density letters and $0.008 per piece for saturation letters. For nonprofit ECR, the discount will be $0.008 per piece for high density letters and $0.009 per piece for saturation letters.

This change also will apply to pieces mailed at the ECR automation basic rate, but the calculation is slightly different because there are no corresponding piece/pound and nonletter rates with which to perform the calculation. These pieces will be charged postage equal to the basic ECR piece/pound rate and receive a discount equal to the basic nonletter rate minus the automation basic letter rate. For regular ECR, the discount will be $0.023 per piece. For nonprofit ECR, the discount will be $0.015 per piece.

As a result of other classification changes (see item 4 above), all pieces mailed at high density and saturation letter rates will be barcoded and automation-compatible; therefore, this change is consistent with the change for regular Standard Mail regular automation letters. This change will not apply to letter-size pieces that are mailed at the nonletter rates (i.e., pieces that are not automation-compatible or do not have a barcode).

This change will not apply to pieces mailed at the ECR basic letter rate (because the letter and nonletter rates are the same, there is no discount to subtract).

Mailers who choose to take this discount for heavy ECR letters will be required to use a new postage statement designed for this purpose. On the permit imprint postage statement, the discount is precalculated and has been deducted from the piece rate. The example below follows that same model.

Mailers who choose the postage affixed (metered postage) option will be required to affix the full postage amount to each piece (see P600.2.2).

As an example, a high density letter weighing 3.45 ounces that is prepared for DSCF entry will be charged:

| Calculation for 1 piece | Calculation for 10,000 pieces
Nonletter piece rate (more than 3.3 ounces), high density | $0.043 | $430.00
Minus |  |
A discount that equals the high density nonletter piece rate (3.3 ounces or less) for DSCF entry minus the high density letter piece rate (3.3 ounces or less) for DSCF entry (0.143 minus 0.138) | −.005 | −50.00
Equals |  |
Adjusted piece rate (as will appear on permit imprint postage statement) | 0.038 | 380.00
Plus |  |
Pound rate (more than 3.3 ounces), high density, DSCF entry (3.45 ounces divided by 16 ounces equals 0.215625 pounds, rounded to 0.2156, multiplied by $0.485 per pound) | 0.104566 | 1,045.66
Equals postage per piece | 0.1426 | 1,425.66

This change will allow mailers to avoid the substantial rate increase for letter-size pieces exceeding 3.3 ounces. Under the current rate schedule, once an ECR letter exceeds the 3.3-ounce maximum weight, the piece becomes subject to the piece/pound rates.

There are no mail preparation changes that accompany this change; these heavy letters will be required to meet the current standards for heavy automation letters in DMM C810.7.5 and will use the existing mail preparation sequence and labeling for ECR letters.

(6) Containerization and Labeling

For letter-size pieces, the definition of a full tray will change from the current threshold of 75% to 100%, with a range between 75% and 100%. The recommended default for presort software will be 85%. In addition, after the minimum volume for rate eligibility is reached (i.e., 150 pieces for a 3-digit area), overflow will be optional for all sort levels of letter trays. Also, mailers will be required to use as few trays as possible. Under current standards, a mailer could prepare one full 1-foot tray plus one less-than-full 1-foot tray; new standards will result in the preparation of a single less-than-full 2-foot tray.

We have added an option to measure the minimum volume of trays on pallets in linear feet. The pallet minimum can be met with three layers of trays or 36 linear feet of trays. A mailer must make a pallet for a particular presort destination when they have six layers of trays or 72 linear feet of trays.

On all Standard Mail letter trays, “LTRS” will change to “LTR” and “CR-RTS” will change to “CR-RT.” This change is necessary to allow more room for other information on the tray label. Mailers have until January 1, 2003, to comply with these labeling changes.

(7) Documentation

Mailers will no longer be required to present a hard copy Form 3553, Coding Accuracy Support System (CASS) Summary Report, with their mailings. Instead, mailers or mailer agents will continue to keep this documentation on file for 1 year from the date of mailing and make it available to the Postal Service on 24-hour notice.

Software vendors and mailers should note that changes are proposed for manifest keyline rate codes (DMM P910.3.0) and MLOCR rate markings (DMM P960.3.0) to reflect the new Standard Mail rate categories.

6. Package Services

There are four subclasses of Package Services: Parcel Post, Bound Printed Matter, Media Mail, and Library Mail. Each subclass is addressed separately in items 7 through 10.

7. Parcel Post

a. Parcel Post Rate Highlights

Parcel Post rates will increase an average of 6.4%. The nonmachinable surcharge for Inter-BMC Parcel Post will increase from $2.00 to $2.75 per parcel. The Intra-BMC and DBMC nonmachinable surcharges will remain at their current levels: $1.35 for Intra-BMC parcels and $1.45 for DBMC parcels. The Parcel Post Origin BMC Presort and BMC Presort discounts will increase from $0.90 to $1.17 and $0.23 to $0.28 per piece, respectively. The barcoded discount for qualifying Parcel Post (including Parcel Select) machinable parcels will remain at $0.03 per piece. The destination entry mailing fee will increase from $125.00 to $150.00. The Parcel Post pickup fee will increase from $10.25 to $12.50.

b. Parcel Post Rate Structure

Three changes will be made. First, a separate rate will be available for parcels weighing less than 1-pound. Second, Parcel Select pieces will be eligible for no-fee electronic Delivery Confirmation. The final change will create a DSCF rate for nonmachinable parcels sorted to 3-digit ZIP Code prefixes and entered at destination SCFs. Nonmachinable DSCF Parcel Select pieces will be subject to a surcharge of $1.09 per parcel in addition to the applicable DSCF rate.

c. Parcel Post Mail Preparation Changes

Except for a new 3-digit nonmachinable parcel preparation option added for DSCF rate mail, there will be no other changes to the preparation requirements for Parcel Post and Parcel Select.

8. Bound Printed Matter

a. Bound Printed Matter Rate Highlights

The Bound Printed Matter (BPM) rates will increase an average of 9.0%. There are two major changes to BPM rates: separate rates for BPM flats and parcels, and a new POSTNET barcoded discount for single-piece rate and Presorted rate BPM flats. The parcel barcode discount for BPM single-piece and Presorted rate machinable parcels will remain at $0.03 per piece. The destination entry mailing fee will increase from $125.00 to $150.00.

b. Bound Printed Matter Rate Structure

Rates for flat-size BPM will be lower than the rates for BPM parcels in all three rate categories (single-piece, Presorted, and carrier route) and in the three available destination entry rates (DDU, DSCF, and DBMC). A $0.03 discount will be available for single-piece and Presorted rate BPM flats prepared with a POSTNET barcode. To qualify for the barcoded discount, BPM flats will be required to meet the standards in DMM C820 for flat sorting machine (FSM) 881 processing.

c. Bound Printed Matter Mail Preparation Changes

BPM barcoded flats will be prepared using the standards in DMM M820.

9. Media Mail

a. Media Mail Rate Highlights

Media Mail rates will increase an average of 4.0%. The mailing fee for Presorted Media Mail will increase from $125.00 to $150.00.

b. Media Mail Rate Structure

There will be one fundamental change to the Media Mail rate structure. The 5-digit rate will be retained, but the BMC rate will be renamed the basic rate.

c. Media Mail Preparation Changes

There will be three changes to the preparation requirements for Media Mail. First, Media Mail will no longer be sorted to the 5-digit and BMC levels. Media Mail will now be sorted to the 5-digit, 3-digit, ADC or BMC, and mixed ADC or mixed BMC levels, as appropriate. This adjusts the presort requirements for Media Mail to reflect current postal processing. Machinable parcels will continue to be presorted to BMCs using the new basic rate level.

The second change eliminates the requirement for separate minimum volumes for each presort level and reduces the minimum volume requirement for a mailing from 500 to 300 pieces. To qualify for Presorted Media Mail rates, mailers will be required to have a minimum of 300 properly prepared and presorted pieces. Pieces in the mailing that meet 5-digit rate requirements will be eligible for the 5-digit rate. The remaining pieces in the mailing will be eligible for the basic rate.

The last change reinstates the option to allow mailers to prepare sacks of Media Mail using a minimum of 1,000 cubic inches of mail.

10. Library Mail

a. Library Mail Rate Highlights

Library Mail rates will increase an average of 3.3%. The mailing fee for Presorted Library Mail will increase from $125.00 to $150.00.

b. Library Mail Rate Structure

There will be one fundamental change to the Library Mail rate structure. The 5-digit rate will be retained, but the BMC rate will be renamed the basic rate.

c. Library Mail Preparation Changes

There will be three changes to the preparation requirements for Library Mail. First, Library Mail will no longer be sorted to the 5-digit and BMC levels. Library Mail will now be sorted to the 5-digit, 3-digit, ADC or BMC, and mixed ADC or mixed BMC levels, as appropriate. This adjusts the presort requirements for Library Mail to reflect current postal processing. Machinable parcels will continue to be presorted to BMCs using the new basic rate level.

The second change eliminates the requirement for separate minimum volumes for each presort level and reduces the minimum volume requirement for a mailing from 500 to 300 pieces. To qualify for Presorted Library Mail, mailers will be required to have a minimum of 300 properly prepared and Presorted pieces. Pieces in the mailing that meet the 5-digit rate requirements will be eligible for the 5-digit rate. The remaining pieces in the mailing will be eligible for the basic rate.

The last change reinstates the option to allow mailers to prepare sacks of Library Mail using a minimum of 1,000 cubic inches of mail.

11. Special Services and Other Services

a. Special Services Highlights

(1) Bulk Parcel Return Service (DMM S924)

The annual accounting fee for bulk parcel return service (BPRS) will increase from $375 to $475. The annual permit fee will increase from $125 to $150 and the per piece charge will increase from $1.62 to $1.80. See DMM R900.3.0.

(2) Business Reply Mail (DMM S922)

The per piece charge for the high volume Qualified Business Reply Mail (QBRM) category with the quarterly fee will decrease from $0.01 to $0.008. The QBRM quarterly fee of $1,800 for that category will remain the same. The basic QBRM per piece charge for the category without the quarterly fee will increase from $0.05 to $0.06. The non-QBRM per piece fee with an advance deposit account will remain at $0.10. The annual permit fee for all business reply mail (BRM) will increase from $125 to $150. The monthly fee for bulk weight averaged nonletter-size BRM will increase from $600 to $750, while the per piece charge of $0.01 will remain the same. The annual accounting fee for advanced deposit accounts will increase from $375 to $475. The regular BRM per piece charge without an annual accounting fee will increase from $0.35 to $0.60 per piece. See DMM R900.4.0.

(3) Certificate of Mailing (DMM S914)

Certificate of mailing fees will increase. For individual pieces, the original certificate will increase from $0.75 to $0.90, the firm mailing book (Form 3877) will increase from $0.25 to $0.30 for each piece listed, and the charge for a duplicate copy will increase from $0.75 to $0.90.

For bulk pieces (Form 3606), fees for the first 1,000 pieces or fraction thereof will increase from $3.50 to $4.50. Each additional 1,000 pieces or fraction thereof will increase from $0.40 to $0.50, and the charge for a duplicate copy will increase from $0.75 to $0.90. Additionally, mailpieces listed on Form 3877 and having postage paid with permit imprint will be permitted to pay the certificate of mailing fee using the permit imprint account. Under this option mailers will no longer be required to affix the fees to Form 3877. See DMM R900.6.0.

(4) Certified Mail (DMM S912)

The certified mail fee will increase from $2.10 to $2.30. A service enhancement will allow mailers to access delivery information over the Internet at www.usps.com. See DMM R900.7.0.

(5) Collect on Delivery (DMM S921)

There will be no change to the current collect on delivery (COD) fees. See DMM R900.8.0.

(6) Delivery Confirmation (DMM S918)

Retail (manual) and electronic Delivery Confirmation options will be extended to First-Class Mail parcels. For Package Services, Delivery Confirmation will be restricted to parcels only and will no longer be available for flat-size mail. For First-Class Mail parcels, the fee will be $0.13 for the electronic option and $0.55 for the retail option. The fee for the retail option for Priority Mail will increase from $0.40 to $0.45. For Standard Mail, the fee for the electronic option will increase from $0.12 to $0.13. For Parcel Select, the electronic option will be included in postage. For all other Package Services, the fee will increase from $0.12 to $0.13 for the electronic option and from $0.50 to $0.55 for the retail option. See DMM R900.9.0.

For the purposes of adding Delivery Confirmation to First-Class Mail or Package Services, a parcel will be defined as any piece that has an address side with sufficient surface area to fully display the delivery address, return address, postage, markings and endorsements, and Delivery Confirmation label. The parcel will be required to be in a box or, if not in a box, will be required to be more than ¾-inch thick at its thickest point.

(7) Express Mail Insurance (DMM S500)

Insurance coverage included with Express Mail service will be lowered from $500 to $100. Incremental fees will be applied at $1.00 per each $100 of desired merchandise insurance coverage over $100. Document reconstruction maximum liability will decrease from $500 to $100. See DMM R900.11.0.

(8) Insurance (DMM S913)

The fee for unnumbered insurance (value up to $50) with no insured number applied will increase from $1.10 to $1.30. The fee for numbered insurance service over $50 and up to $100 (insured number applied) will increase from $2.00 to $2.20. The incremental fee of $1.00 for each $100 in value over $100 and up to $5,000 will remain the same. See DMM R900.12.0.

(9) Merchandise Return Service (DMM S923)

The annual accounting fee for merchandise return service will increase from $375 to $475. The annual permit fee will increase from $125 to $150. See DMM R900.14.0.

(10) Money Orders (DMM S020)

There will be two classification changes for money orders. The first change will increase the maximum amount from $700 to $1,000 for both domestic and APO/FPO money orders. The second change will introduce a two-level fee structure for domestic money orders. The fee for amounts of $0.01 to $500 will be $0.90, and the fee for amounts of $500.01 to $1,000 will be $1.25. The inquiry fee will increase from $2.75 to $3.00. The $0.25 fee for APO/FPO money orders will remain the same. See DMM R900.16.0.

(11) Parcel Airlift (DMM S930)

Parcel Airlift (PAL) fees will increase. For parcels weighing not more than 2 pounds, the fee will increase from $0.40 to $0.45. For parcels not more than 3 pounds, the fee will increase from $0.75 to $0.85. For parcels not more than 4 pounds, the fee will increase from $1.15 to $1.25. For parcels over 4 pounds but not more than 30 pounds, the fee will increase from $1.55 to $1.70. See DMM R900.17.0.

(12) Registered Mail (DMM S911)

All registered mail fees will increase. The fee for registered mail with no declared value will increase from $7.25 to $7.50. The fee for registered mail valued between $0.01 and $100 will increase from $7.50 to $8.00. The incremental fee for registered mail with insurance per declared value level will increase from $0.75 to $0.85. The handling charge per $1,000 in value or fraction thereof for items valued over $25,000 also will increase from $0.75 to $0.85. A service enhancement will allow mailers to access delivery information over the Internet at www.usps.com. See DMM R900.21.0

(13) Restricted Delivery (DMM S916)

The fee for restricted delivery will increase from $3.20 to $3.50. See DMM R900.22.0.

(14) Return Receipt (DMM S915)

The fee for regular return receipt service will increase from $1.50 to $1.75. The fee for return receipt after mailing will decrease from $3.50 to $3.25. See DMM R900.23.0.

(15) Return Receipt for Merchandise (DMM S917)

The fee for return receipt for merchandise will increase from $2.35 to $3.00. See DMM R900.24.0.

(16) Signature Confirmation (DMM S919)

Retail (manual) and electronic Signature Confirmation options will be extended to First-Class Mail parcels. For Package Services, Signature Confirmation will be restricted to parcels only and will no longer be available for flat-size mail. The fees will increase from $1.25 to $1.30 for the electronic option and from $1.75 to $1.80 for the retail option.

For the purposes of adding Signature Confirmation to First-Class Mail or Packages Services, a parcel will be defined as any piece that has an address side with sufficient surface area to fully display the delivery address, return address, postage, markings and endorsements, and Signature Confirmation label. The parcel will be required to be in a box or, if not in a box, will be required to be more than ¾-inch thick at its thickest point. See DMM R900.26.0.

(17) Special Handling (DMM S930)

The fees for special handling will increase from $5.40 to $5.95 for pieces weighing up to 10 pounds and from $7.50 to $8.25 for pieces weighing over 10 pounds. See DMM R900.27.0.

b. Other Services Highlights

(1) Address Correction Service (DMM F030)

The fee for manual address correction service (ACS) notices will increase from $0.60 to $0.70. The fee for automated ACS will remain the same at $0.20. See DMM R900.1.0.

(2) Address Sequencing Service (DMM A920)

The fee for carrier sequencing of address cards service will increase from $0.25 to $0.30 per card. See DMM R900.2.0.

(3) Caller Service (DMM D920)

The caller service fee for each separation provided per semiannual period will increase from $375 to $412. The fee for each reserved call number per calendar year will increase from $30 to $32. See DMM R900.5.0.

(4) Mailing List Services (DMM A910)

The charge for correction of mailing lists will increase from $0.25 to $0.30 per correction. The minimum per list charge also will increase from $7.50 to $9.00 per list. The charge for sortation of mailing lists on cards into groups labeled by 5-digit ZIP Code will increase from $73 to $100. The charge for address changes for election boards will increase from $0.23 to $0.27. See DMM R900.13.0.

(5) Meter Service (DMM P030)

The fee for on-site meter service (per employee, per visit) will increase from $31 to $35. The fee for meter resetting and/or examination will increase from $4.00 to $5.00 per meter. The $4.00 fee for checking in or out of service (per meter) will remain the same. See DMM R900.15.0.

(6) Permit Imprint (DMM P040)

The permit imprint application fee will increase from $125 to $150.

(7) Pickup Service (DMM D010)

The fee for pickup service, available for Express Mail, Priority Mail, and Parcel Post, will increase from $10.25 to $12.50 (per pickup). See DMM R900.18.0.

(8) Post Office Box Service (DMM D910)

Overall, post office (PO) box fees will increase. A new PO box fee category will be introduced for PO box service in the lowest-cost cities and highest-cost rural areas. This new fee group will provide a bridge to eventually move high-cost and low-cost ZIP Codes toward more appropriate fee assignments. PO box key duplication or replacement (after first two keys) will increase from $4.00 to $4.40 each. PO box lock replacement will increase from $10 to $11.

There will be no change to the no-fee PO box service (Group E). See DMM R900.20.0.

(9) Shipper Paid Forwarding (DMM F010)

The accounting fee will increase from $375 to $475. See DMM R900.25.0.

(10) Stamped Cards and Stamped Envelopes

The fee for stamped cards will remain the same. Special stamped envelopes (i.e., those with holograms or patch-in stamps) are no longer offered. The fees for the other types of available stamped envelopes will remain the same.

Part C—Summary of Changes to the Domestic Mail Manual

The following information details the R2001-1 changes organized by DMM module. This information is intended as an overview only and should not be viewed as defining every DMM change adopted in this final rule. The actual DMM changes appear in this notice after Part C.

A Addressing

A010 will be amended to remove references to upgradable mail and to include a preferred location for addresses on letter-size pieces.

The title of A800 will be changed to show the standards apply to all automation-compatible mail, not just mail claimed at automation rates.

A950 will be revised to clarify that the mailer's signature on a postage statement certifies the mail meets the requirements for the rates claimed and to change the requirements for filing Form 3553, Coding Accuracy Support System (CASS) Summary Report. Mailers will no longer be required to submit Form 3553 with each mailing. They will have to retain the form on file for 1 year from the date of mailing and make it available to the Postal Service on 24-hour notice.

C Characteristics and Content

C010 will be amended to show that Standard Mail Enhanced Carrier Route (ECR) letters are subject to the standards for mailpiece dimensions and to remove information about the First-Class Mail nonstandard surcharge. C050 will be amended to add the nonmachinable characteristics for letters. Exhibit C050.2.0 will be renumbered as Exhibit C050.1.0.

C100.2.7 will be amended to implement the change to the Domestic Mail Classification Schedule (DMCS) for pieces eligible for the First-Class Mail card rates. C100.4.0 will be revised to reflect changes to the nonmachinable surcharge (formerly the nonstandard surcharge) for some First-Class Mail letters and flats.

C700 will be amended to note that mailpieces meeting any of the characteristics listed in C700.2.0 and that are mailed at the DSCF Parcel Select rate will be subject to the $1.09 nonmachinable surcharge listed in R700.1.6.

C810 will be amended to remove references to upgradable First-Class Mail and Standard Mail, to increase the weight limit for Standard Mail automation and ECR letters to 3.5 ounces, and to clarify that signing a postage statement certifies the mail meets the requirements for the rates claimed.

C820 will be amended to add a weight limit for Bound Printed Matter flats claimed at automation flat rates.

C830 will be deleted. C830 contains standards for upgradable mail, including address placement, OCR read area, fonts, and reflectance. Effective June 30, 2002, the upgradable preparation for letters will be replaced with a machinable preparation; the machinable preparation has no requirements for address placement, OCR read area, etc.

C840 will be amended to remove references to upgradable mail.

D Deposit, Collection, and Delivery

D210.3.4 will be amended to reflect the change that the destination sectional center facility (DSCF) rate will apply to eligible mail entered at the DSCF under exceptional dispatch. D210.4.0 will be revised to show that the DSCF rate will not apply to mail entered at airport mail facilities (AMFs).

The provisions for Periodicals contingency entries will be deleted in D230.2.2 and 4.6.

D500 will be amended to include several additional provisions that affect postage refund requests for Express Mail when the service guarantee is not met.

E Eligibility

E100

E110.3.0 will be amended to clarify the eligibility of pieces mailed at First-Class Mail card rates.

E120.2.2 will be amended to change the current Priority Mail flat rate from the 2-pound rate to a 1-pound rate, regardless of the weight of the material placed in the flat-rate envelope. E120.2.4 reflects changes to the postage for keys and identification devices. When they weigh more than 13 ounces but not more than 1 pound, they will be returned at the 1-pound Priority Mail rate plus the fee shown in R100.10.0. Keys and identification devices that weigh more than 1 pound but not more than 2 pounds will be charged the 2-pound Priority Mail rate for zone 4 plus the fee in R100.10.0.

E130 will be amended to show that the nonmachinable surcharge will apply to keys and identification devices, certain letter-size and flat-size pieces mailed at single-piece and Presorted rates, and all pieces where the mailer chooses the “manual only” (do not automate) preparation option. It also will be amended to clarify that signing a postage statement certifies the mail meets the requirements for the rates claimed.

E140 will be amended to reorganize the information about rate application into two separate sections: one for cards and letter-size mail (2.0) and one for flat-size mail (3.0). E140.2.0, Rate Application for Cards and Letters, will be amended to replace the basic rate with the new AADC and mixed AADC rates. E140.3.0, Rate Application for Flats, will be amended to replace the basic rate with the new ADC and mixed ADC rates and to clarify the definition of a piece that is subject to the nonmachinable surcharge. E140 will be amended to clarify that signing a postage statement certifies the mail meets the requirements for the rates claimed.

E200

E217.1.0 and 3.0 will be amended to reflect references to the new destination area distribution center (DADC) rates and discounts for Outside-County and Outside-County Science-of-Agriculture rates. E217.5.0 will be restructured for clarity and amended to include standards for the new per piece pallet and per piece destination entry pallet discounts.

The standards for combining multiple publications or editions in E220.3.0 and E230.4.0 will be consolidated into new M230. E220 and E240 will be amended to clarify that signing a postage statement certifies the mail meets the requirements for the rates claimed.

E250 is revised in its entirety to clarify standards for all destination entry Periodicals mailings; to include the new destination area distribution center (DADC) entry rates and discounts; and to reflect that for rate eligibility DSCF pieces must be deposited at the DSCF or a USPS-designated facility. E250.1.1 clarifies that for rate eligibility, an individual package, tray, sack, or pallet may contain pieces claimed at different destination entry rates and discounts.

New E260 (former G094) will describe the standards for the Periodicals Ride-Along classification and rate, which will become a permanent classification. All of G094 will be moved except for 2.0 and 3.0. Former 2.0, which contains the rate information, will appear as part of R200. Former 3.0 will be deleted, as publishers will no longer be required to submit additional documentation with Ride-Along mailings.

E500

E500 will be amended to change the current 2-pound Express Mail flat rate to the new ½-pound rate regardless of the weight of the material placed in the flat-rate envelope.

E600

E610.8.0 will be amended to remove references to upgradable Standard Mail.

E620 will be amended to remove references to upgradable mail and to show that the nonmachinable surcharge may apply to letter-size pieces that weigh 3.3 ounces or less and to all pieces where the mailer chooses the “manual only” (do not automate) option. E620.1.2 is amended to remove the requirement that residual volumes must appear on the same postage statement.

E630 will be reorganized for clarity. Standards will be added to show that letter-size pieces mailed at saturation and high density letter rates must be automation-compatible and must have a delivery point barcode. New language will be added to explain the discount for automation-compatible pieces that weigh between 3.3 and 3.5 ounces.

E640 will be amended to replace the basic automation letter rate with the new AADC and mixed AADC rates and to add the discount for automation letters that weigh between 3.3 and 3.5 ounces. E640.2.0 will be amended to add the discount for ECR basic automation letters that weigh between 3.3 and 3.5 ounces.

E620 and E640 will be amended to clarify that signing a postage statement certifies the mail meets the requirements for the rates claimed.

E700

E712.1.1b will be revised to add a weight limit for BPM flats claiming the barcoded discount. E712.1.4, which excluded BPM flats from eligibility to receive an automation rate, will be removed. E712.2.0 will be amended to add a new standard for BPM automation flats. E712.2.0e will be added to include a barcoded discount for automation flats. E712.3.0 will be amended to clarify that the mailer's signature on the postage statement certifies the mail meets the requirements for the rates claimed.

E713 and E714 will be revised in their entirety to reflect the format used for BPM in E712. E713 and E714 will be amended to change references from “BMC rate” to “basic rate” and from “500 pieces” to “300 pieces.”

E751.1.1 will be amended to add provisions to require mail on pallets for 3-digit ZIP Code prefixes to be entered at the SCF. E751.1.4a will be amended to clarify that nonmachinable parcels sorted to 3-digit ZIP Code prefixes must be entered at a designated SCF. In E751.2.2c, d, and e, references will be added to allow the preparation of “3-digit sacks” and “3-digit pallets.” E751.5.0 and E753 will be amended to change the references from “BMC rate” to “basic rate.”

F Forwarding and Related Services

F010.4.0 will be amended to remove references to nonstandard mail. F010.5.2 will be amended to show that the nonmachinable surcharge can be charged on Periodicals returned at First-Class Mail single-piece rates. F010.5.3 will be amended to show that the First-Class Mail single-piece nonmachinable surcharge is included in the calculation of the weighted fee for returned pieces and is charged on some returned Standard Mail pieces. F010.6.0 will be amended to include these same changes.

F030.1.6 will be amended to clarify the circumstances under which address notices are not provided by the Postal Service.

G General Information

G091.4.0 will be revised to clarify that First-Class Mail automation letter-size pieces and parcels, First-Class Mail automation cards, Standard Mail automation letter-size pieces, and Standard Mail nonprofit automation letter-size pieces using NetPost Mailing Online will be eligible for the mixed AADC rate. First-Class Mail automation flat-size pieces will be eligible for the mixed ADC rate. Flat-size pieces at the regular and nonprofit Standard Mail automation rates will be eligible for the basic rates. First-Class Mail that is not eligible for any automation rate will be subject to the applicable single-piece rates.

The Ride-Along classification will be made a permanent classification. Therefore, the standards currently in G094 will be relocated to new E260.

L Labeling Lists

The titles and summaries, as appropriate, of labeling lists L001, L800, L802, and L803 will be amended to reflect new mail preparation options.

Note: New labeling list L006 and the accompanying 5-digit metro pallet sort for packages of flats took effect on March 31, 2002. Notice of this change was published in Postal Bulletin 22066 (12-27-01).

M Mail Preparation and Sortation

M000

M011.1.3 will be amended to show that a full letter tray is defined as one that is between 75% and 100% full. M011.1.4 will be amended to remove references to upgradable mailings, to show that machinable and nonmachinable pieces cannot be part of the same mailing, and to show that ECR letter rate pieces cannot be part of the same mailing as nonletter rate pieces. M012.2.0 will be revised to update information about multi-line optical character reader (MLOCR) markings. M012.3.3 will be revised to include additional rate markings for BPM Presorted automation flats and BPM carrier route flats. M012.4.5 will be deleted to remove references to upgradable mail.

The summary for M020 will be amended to include references to Media Mail and Library Mail. M020.1.6 will be amended to include Media Mail and Library Mail in the package size requirements. In addition, the maximum weight for packages in sacks will be 20 pounds unless otherwise noted, and packages of BPM automation flats must meet the preparation requirements in M820. M020.2.0 will be amended to include additional standards for packaging Media Mail and Library Mail. M020.2.1 will be amended to remove references to the upgradable preparation for First-Class Mail and Standard Mail and to show that nonmachinable and “manual only” pieces must be packaged. M020.2.2 will be amended to require that Media Mail and Library Mail pieces meet specific weight limits when placed in sacks or on pallets.

The container labeling requirements in M031.5.0 will be amended to revise the Line 2 codes for “carrier routes,” “letters,” and “machinable” and to add a new Line 2 code for “manual.” Exhibit M032.1.3a will be amended to change the content identifier number (CIN) codes for the new machinable and nonmachinable preparation for First-Class Mail and Standard Mail letter-size pieces. The exhibit also will be amended to add new CIN codes for Standard Mail ECR letters and designate CIN codes for certain Package Services flat-size pieces. M033.2.0 will be amended to clarify standards for filling letter trays.

M041.5.0 will be amended to show that the minimum volume for letter trays on pallets is measured in linear feet, not by the number of layers of tray on the pallet. M041.5.5 will be amended to clarify the maximum load of a pallet. M045.3.2 will be amended to show that pallets with carrier route mail must show whether the mail is barcoded, machinable, or manual. M045.3.3 through 3.5 will show revised titles that will additionally encompass Media Mail and Library Mail. M045.6.0 will be removed and included in the aforementioned sections. M050.4.1 will be amended to show that signing a postage statement certifies the mail meets the requirements for the rates claimed.

M100

M130 will be substantially revised to show the packaging, traying, and labeling standards for machinable, nonmachinable, and “manual only” letter-size mail.

M200

To reduce redundancy, the standards for combining multiple publications or editions in M210.6.0 and M220.6.0 will be consolidated and relocated in new M230.

M600

M610 will be substantially revised to show the packaging, traying, and labeling standards for machinable, nonmachinable, and “manual only” letter-size mail. M630 will be revised to show the new Line 2 labeling for trays of ECR letter-size pieces.

M700

M710.2.1 will be revised to add provisions for a 3-digit sort level for nonmachinable parcels claiming DSCF rates.

M730 and M740 will be amended to change references from “BMC rate” to “basic rate” and to include separate preparation standards for Media Mail and Library Mail flats, irregular parcels, and machinable parcels. The option to prepare sacks based on a minimum of 1,000 cubic inches of mail is restored for both Media Mail and Library Mail and is reflected in M730 and M740.

M800

M810.1.0 will be amended to replace references to the automation basic rate for letter-size pieces with the new AADC and mixed AADC rates. M810.2.0 will be amended to show the new Line 2 labeling format for First-Class Mail and Standard Mail carrier route automation letters.

M820.1.0 will be amended to replace references to the automation basic rate for flat-size pieces with the new ADC and mixed ADC rates. M820.6.1 will be revised to provide packaging and sacking standards for flat-size pieces eligible for the Bound Printed Matter automation rates.

P Postage and Payment Methods

P000

P011.1.0 will be amended to reflect that the nonstandard surcharge will be replaced with the new nonmachinable surcharge. P012.2.0 will be amended to require standardized documentation for Bound Printed Matter flats entered at automation rates. P012.2.0 will be amended to add new rate level abbreviations for the AADC, ADC, mixed AADC, and mixed ADC rates. P012.3.0 will be amended to reflect references to the new DADC rate for Periodicals.

P012.4.0 will be amended to clarify the standards for facsimile postage statements. P013.1.0 is amended to clarify the rate calculation and computation standards. P013.2.0 will be amended to reflect the new zoning of Priority Mail rates affecting all pieces over 1 pound and up to 5 pounds. This section will also be amended to reflect that each addressed Express Mail or Priority Mail flat-rate envelope will be charged the Express Mail rate for 1/2-pound or the Priority Mail rate for 1 pound, as applicable, regardless of the actual weight.

P013.8.0 will be amended to show how to calculate postage for Standard Mail automation rate letter-size pieces and ECR automation-compatible letter-size pieces that weigh more than 3.3 ounces.

P014.5.0 will be amended to expand the circumstances under which the Postal Service may deny Express Mail postage refund requests when the service guarantee is not met.

P021.3.1 will be amended to note the availability of stamped cards.

P100

P100.4.0 and 5.0 will be amended to change “nonstandard surcharge” to “nonmachinable surcharge.”

P200

P200.1.5 will be amended to include requirements for separating DADC entry pieces if the mailing is not presented with mailing documentation at the time of postal verification. New P200.1.8 will contain the standards relocated from P200.2.4 for the waiving of the nonadvertising rates.

P600

P600.2.0 will be amended to include standards for the new nonmachinable surcharge for Standard Mail and to add calculations for automation and ECR heavy letters.

P900

P910 will be amended to add new rate category abbreviations for the AADC, ADC, mixed AADC, and mixed ADC rates for First-Class Mail and Standard Mail.

P950 will be revised in its entirety to clarify the standards that apply to plant-verified drop shipment (PVDS).

P960 will be amended to clarify when MLOCR markings must appear on mailpieces and to add new markings for the AADC, ADC, mixed AADC, and mixed ADC rates for First-Class Mail and Standard Mail.

R Rates and Fees

The entire R Module will be revised to reflect the new rates and fees for all classes of mail and special services.

S Special Services

S020 will be amended to increase the maximum amount of a single money order from $700 to $1,000.

S010 and S500 will be amended to reduce the indemnity included in the base price of Express Mail service from $500 to $100.

S911 and S912 will be amended to include the new service enhancement for registered mail and certified mail. This enhancement will allow mailers to obtain delivery information over the Internet at www.usps.com by entering the article number shown on the mailing receipt.

S918 and S919 will be amended to extend Delivery Confirmation and Signature Confirmation to First-Class Mail parcels, and also to limit this service to parcels only in the Package Services mail class. S918 and S919 will also specify that for the purposes of adding Delivery Confirmation or Signature Confirmation service to First-Class Mail or Package Services, a parcel will be required to meet the definition in C100.5.0 or C700.1.0, as appropriate.

List of Subjects in 39 CFR Part 111

Postal Service.

For the reasons discussed above, the Postal Service hereby adopts the following amendments to the Domestic Mail Manual (DMM), which is incorporated by reference in the Code of Federal Regulations (CFR). See 39 CFR part 111.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the following sections of the Domestic Mail Manual (DMM) as follows:

A Addressing

A000 Basic Addressing

A010 General Addressing Standards

1.0 ADDRESS CONTENT AND PLACEMENT

* * * * *

[Renumber 1.3 through 1.6 as 1.4 through 1.7, respectively. Add new 1.3 to show the preferred location for an address on a letter-size piece (this information has been pulled out of C830.1.1). Also renumber Exhibit A010.4.5 as A010.1.3 and rename it as “Recommended Address Placement.”]

1.3 Recommended Placement

On a letter-size piece, the recommended address placement is within the optical character reader (OCR) read area, which is a space on the address side of the mailpiece defined by these boundaries (see Exhibit 1.3):

a. Left: ½ inch from the left edge of the piece.

b. Right: ½ inch from the right edge of the piece.

c. Top: 2-¾ inches from the bottom edge of the piece.

d. Bottom: ⅝ inch from the bottom edge of the piece.

[In renumbered 1.4, amend the title and content of to replace “nonstandard” with “nonmachinable.” No other changes to the text.]

* * * * *

2.0 ZIP CODE

* * * * *

[Amend the title and text of 2.3 to remove obsolete information about the DPBC numeric equivalent.]

2.3 Numeric DPBC

A numeric equivalent of a delivery point barcode (DPBC) consists of five digits followed by a hyphen and seven digits as specified in C840. The numeric equivalent is formed by adding three digits directly after the ZIP+4 code.

[Remove 2.4, Class and Rate Standards.]

* * * * *

4.0 RETURN ADDRESS

* * * * *

[Remove 4.5, Upgradable Mail.]

* * * * *

[Amend the title of A800 to show that the unit contains standards that apply to any barcoded pieces, not just mail claimed at automation rates.]

A800 Addressing for Barcoding

1.0 ACCURACY

* * * * *

1.3 Numeric DPBC

[Amend 1.3 to remove obsolete information about the DPBC numeric equivalent.]

A numeric equivalent of the delivery point barcode (DPBC) consists of five digits followed by a hyphen and seven digits as specified in C840. The numeric equivalent is formed by adding three digits directly after the ZIP+4 code.

* * * * *

A950 Coding Accuracy Support System (CASS)

* * * * *

3.0 DATE OF ADDRESS MATCHING AND CODING

3.1 Update Standards

[Amend 3.1 to clarify that signing a postage statement certifies that the mail meets the requirements for the rates claimed to read as follows:]

Unless Z4CHANGE is used, all automation and carrier route mailings bearing addresses coded by any AIS product must be coded with current CASS-certified software and the current USPS database. Coding must be done within 90 days before the mailing date for all carrier route mailings and within 180 days before the mailing date for all non-carrier route automation rate mailings. All AIS products may be used immediately on release. New product releases must be included in address matching systems no later than 45 days after the release date. The overlap in dates for product use allows mailers adequate time to install the new data files and test their systems. Mailers are expected to update their systems with the latest data files as soon as practicable and need not wait until the “last permissible use” date to include the new information in their address matching systems. The mailer's signature on the postage statement certifies that this standard has been met when the corresponding mail is presented to the USPS. The “current USPS database” product cycle is defined by the following matrix.

* * * * *

5.0 DOCUMENTATION

5.1 Form 3553

[Amend 5.1 to show that mailers must complete and retain Form 3553 and annotate the postage statement with the date that address matching is performed, and to show that signing a postage statement certifies that the mail meets the requirements for the rates claimed.]

Unless excepted by standard, the mailer must complete a Form 3553 for each mailing claimed at all automation rates and all carrier route rates. A computer-generated facsimile may be used if it contains the required data elements in a format similar to the USPS form. The data recorded on Form 3553 must refer only to the address list used to produce the mailing with which it is presented. The postage statement must be annotated in the block(s) provided to reflect the date when address matching and coding were performed. When a mailing is produced using multiple lists, the mailer must show the earliest (oldest) date of address matching and coding (this information is shown on Form 3553, Section B2). The mailer certifies compliance with this standard when signing the corresponding postage statement.

5.2 Retention Period

[Amend 5.2 to show that Form 3553 does not have to be submitted with the mailing, but must be retained by the mailer or mailer's agent for 1 year.]

Form 3553 and other documentation must be retained by the mailer or the mailer's agent for 1 year from the date of mailing and be made available to the USPS on 24-hour notice.

* * * * *

5.5 Using a Single List

[Amend 5.5 by adding retention requirements to read as follows:]

When a mailing is produced using all or part of a single address list, the mailer must retain one Form 3553 and other required documentation reflecting the summary output information for the entire list, as obtained when the list was coded. When the same address list is used for other mailings within 180 days of the date it was matched and coded, a copy of the Form 3553 must be retained with the documentation for each mailing.

5.6 Using Multiple Lists

[Amend 5.6 by adding retention requirements to read as follows:]

When a mailing is produced using multiple address lists, the mailer must retain a consolidated Form 3553 summarizing the individual summary output and/or facsimile Forms 3553 for each list used (and other required documentation). As an alternative, the mailer may combine the addresses selected from the multiple lists into a single new list, reprocess the addresses using CASS-certified address matching software, and retain one Form 3553 for the summary output generated by that process. [Remove current 5.7, redesignate 5.8 as 5.7, and revise to read as follows:]

5.7 Using CASS Certificate

If the name of the CASS-certified company entered on Form 3553 does not appear on the list published by the USPS, a copy of the CASS certificate for the software used also must be retained by the mailer with the documentation.

* * * * *

C Characteristics and Content

C000 General Information

C010 General Mailability Standards

1.0 MINIMUM AND MAXIMUM DIMENSIONS

* * * * *

1.3 Length and Height

[Delete item b and renumber current item c as item b. There are no other changes to the text. Standard Mail Enhanced Carrier Route pieces will be subject to the standards pertaining to length and height.]

* * * * *

[Remove 1.6, Nonstandard Surcharge.]

* * * * *

6.0 SPECIAL MAILING ENVELOPES

6.1 Window Envelope

[Amend 6.1 to remove references to upgradable mail:]

Any window envelope used for letter-size or flat-size mail must meet the following standards and, for automation-compatible mail, the physical standards in C800:

* * * * *

C020 Restricted or Nonmailable Articles and Substances

* * * * *

C024 Other Restricted or Nonmailable Matter

* * * * *

[Delete 18.0, Odd-Shaped Items in Letter-Size Mailpieces. Renumber 19.0 and 20.0 as 18.0 and 19.0, respectively.]

* * * * *

C050 Mail Processing Categories

1.0 BASIC INFORMATION

[Amend 1.0 to add a reference to new Exhibit 1.0 (redesignated Exhibit 2.0).]

Every mailpiece is assigned to one of the mail processing categories in the following sections. These categories are based on the physical dimensions of the piece, regardless of the placement (orientation) of the delivery address on the piece. Exhibit 1.0 shows the minimum and maximum dimensions for some mail processing categories.

[Redesignate Exhibit 2.0, Mail Dimensions, as Exhibit 1.0.]

[Amend section 2.0 to add the characteristics for nonmachinable letters and to clarify the requirements for automation letters to read as follows:]

2.0 LETTER-SIZE MAIL

2.1 Minimum and Maximum Size

Letter-size mail is:

a. Not less than 5 inches long, 3½ inches high, and 0.007-inch thick.

b. Not more than 11½ inches long, 6⅛ inches high, and ¼-inch thick.

2.2 Nonmachinable Criteria

A letter-size piece is nonmachinable if it has one or more of the following characteristics (see C010.1.1 for how to determine the length, height, top, bottom, and sides of a mailpiece):

a. Has an aspect ratio (length divided by height) of less than 1.3 or more than 2.5.

b. Is polybagged, polywrapped, or enclosed in any plastic material.

c. Has clasps, strings, buttons, or similar closure devices.

d. Contains items such as pens, pencils, or loose keys or coins that cause the thickness of the mailpiece to be uneven.

e. Is too rigid (does not bend easily when subjected to a transport belt tension of 40 pounds around an 11-inch diameter turn).

f. For pieces more than 4¼ inches high or 6 inches long, the thickness is less than 0.009 inch.

g. Has a delivery address parallel to the shorter dimension of the mailpiece.

h. For folded self-mailers, the folded edge is perpendicular to the address, regardless of the use of tabs, wafer seals, or other fasteners.

i. For booklet-type pieces, the bound edge (spine) is the shorter dimension of the piece or is at the top, regardless of the use of tabs, wafer seals, or other fasteners.

2.3 Automation Rates

Letters and cards mailed at automation rates must meet the standards in C810.

* * * * *

C100 First-Class Mail

* * * * *

2.0 CARDS CLAIMED AT CARD RATES

[Amend 2.7 to read as follows:]

2.7 Tearing Guides

A card may have perforations as long as they do not eliminate or interfere with any address element, postage, or postal markings and do not compromise the physical integrity of the card.

* * * * *

[Amend the title and content of 4.0 to reflect the new nonmachinable surcharge for some First-Class Mail letters and flats to read as follows:]

4.0 NONMACHINABLE PIECES

Letter-size pieces that weigh 1 ounce or less and meet one or more of the nonmachinable characteristics in C050.2.2 may be subject to the nonmachinable surcharge (see E130 and E140). Nonletters (flats and parcels) that weigh 1 ounce or less are subject to the nonmachinable surcharge if any one of the following applies (see C010.1.1 for how to determine the length and height of a mailpiece):

a. The piece is greater than ¼-inch thick.

b. The length is more than 11½ inches or the height is more than 6⅛ inches.

c. The aspect ratio (length divided by height) is less than 1.3 or more than 2.5. [Redesignate section 5.0, Facing Identification Mark (FIM), as 6.0. Add new 5.0, Parcels, to read as follows:]

5.0 PARCELS

For the purposes of adding Delivery Confirmation or Signature Confirmation, a First-Class Mail parcel is defined as any piece that:

a. Has an address side with enough surface area to fit the delivery address, return address, postage, markings and endorsements, and special service label; and,

b. Is in a box or, if not in a box, is more than ¾-inch thick at its thickest point.

* * * * *

C200 Periodicals

Summary

[Revise the summary in C200 to read as follows:]

C200 describes permissible mailpiece components (e.g., enclosures, attachments, and supplements), impermissible or prohibited components, and mailpiece construction.

* * * * *

C600 Standard Mail

1.0 DIMENSIONS

1.1 Basic Standards

These standards apply to Standard Mail:

* * * * *

[Redesignate items 1.1c and 1.1d as items 1.1d and 1.1e, respectively. Redesignate Exhibit 1.1d as Exhibit 1.1e. Add new item 1.1c to require that Enhanced Carrier Route letters must meet the physical standards for automation-compatible mail in C810 and barcode readability in C840.]

c. ECR pieces mailed at high-density and saturation letter rates must meet the standards for automation-compatible mail in C810 and barcoding in C840.

* * * * *

[Redesignate 3.0, Postal Inspection, and 4.0, Enclosures, as 4.0 and 5.0, respectively. Add new 3.0, Nonmachinable Pieces, to reflect the new nonmachinable surcharge for some Standard Mail letters to read as follows:]

3.0 NONMACHINABLE PIECES

Letter-size pieces that weigh 3.3 ounces or less and meet one or more of the nonmachinable characteristics in C050.2.2 may be subject to the nonmachinable surcharge (see E620).

* * * * *

C700 Package Services

1.0 PACKAGE SERVICES

* * * * *

[insert new item 1.0h to read as follows:]

h. For the purposes of adding Delivery Confirmation or Signature Confirmation, a Package Services parcel is defined as any piece that:

(1) Has an address side with enough surface area to fit the delivery address, return address, postage, markings and endorsements, and special service label; and,

(2) Is in a box or, if not in a box, is more than ¾-inch thick at its thickest point.

* * * * *

[Amend the title of 2.0 to read as follows:]

2.0 NONMACHINABLE SURCHARGE

[Amend the first sentence of 2.0 to read as follows:]

Mailpieces described in this section that are mailed at the Inter-BMC/ASF Parcel Post, Intra-BMC/ASF Parcel Post, DSCF Parcel Select, or DBMC Parcel Select rates are subject to the applicable nonmachinable surcharge in R700 unless the applicable special handling fee is paid.* * *

* * * * *

[Amend the title of C800 by adding “Machinable” to read as follows:]

C800 Automation-Compatible and Machinable Mail

C810 Letters and Cards

1.0 BASIC STANDARDS

[Amend 1.0 to show that some ECR letters must meet the standards for automation-compatible mail in this unit.]

Letters and cards claimed at automation rates and at some Standard Mail Enhanced Carrier Route rates must meet the standards in 2.0 through 8.0. Pieces claimed at First-Class Mail automation card rates also must meet the standards in C100. Unless prepared under 7.2 through 7.4, each mailpiece must be prepared either as a sealed envelope (the preferred method) or, if unenveloped, must be sealed or glued on all four sides.

2.0 DIMENSIONS

* * * * *

2.4 Maximum Weight

[Amend 2.4 to replace the weight limit for upgradable letters with the weight limit for machinable letters, to raise the weight limit for Standard Mail automation heavy letters and ECR heavy letters to 3.5 ounces, and to add a weight limit for ECR high density and saturation letters.]

Maximum weight limits are as follows:

a. First-Class Mail:

(1) Machinable Presorted: 3.3 ounces (0.2063 pound).

(2) Automation (see 7.5 for pieces heavier than 3 ounces): 3.3 ounces (0.2063 pound).

b. Periodicals automation (see 7.5 for pieces heavier than 3 ounces): 3.3 ounces (0.2063 pound).

c. Standard Mail:

(1) Machinable Presorted: 3.3 ounces (0.2063 pound).

(2) Automation (see 7.5 for pieces heavier than 3 ounces): 3.5 ounces (0.2188 pound).

(3) Enhanced Carrier Route high density and saturation and automation carrier route (see 7.5 for pieces heavier than 3 ounces): 3.5 ounces (0.2188 pound).

* * * * *

8.0 ENCLOSED REPLY CARDS AND ENVELOPES

8.1 Basic Standard

Amend the first paragraph of 8.1 to clarify that signing a postage statement certifies that the mail meets the requirements for the rates claimed to read as follows:]

All letter-size reply cards and envelopes (business reply mail (BRM), courtesy reply mail (CRM), and meter reply mail (MRM)) provided as enclosures in automation First-Class Mail, Periodicals, and Standard Mail and addressed for return to a domestic delivery address must meet the applicable standards for automation-compatible mail in C810. The mailer's signature on the postage statement certifies that this standard, and the standards listed below, have been met when the corresponding mail is presented to the USPS:

* * * * *

C820 Flats

* * * * *

2.0 DIMENSIONS AND CRITERIA FOR FSM 881 PROCESSING

* * * * *

2.4 Maximum Weight

[Amend 2.4 to add a weight limit for BPM flats by adding new item d to read as follows:]

d. For Bound Printed Matter flat-size pieces claiming the barcode discount, 16 ounces.

* * * * *

[Delete C830 in its entirety. C830 contains standards for upgradable mail, including address placement, OCR read area, fonts, and reflectance. Effective June 30, 2002, the upgradable preparation for letters will be replaced with a machinable preparation; the machinable preparation has no requirements for address placement, OCR read area, etc. References to C830 throughout the DMM will be amended.]

C840 Barcoding Standards for Letters and Flats

* * * * *

2.0 BARCODE LOCATION FOR LETTER-SIZE PIECES

2.1 Barcode Clear Zone

[Amend the first paragraph in 2.1 to remove references to show that Standard Mail Enhanced Carrier Route pieces must have a barcode clear zone and to remove references to upgradable mail.]

Each letter-size piece in an automation rate mailing or claimed at an Enhanced Carrier Route saturation or high density rate must have a barcode clear zone unless the piece bears a DPBC in the address block. The barcode clear zone and all printing and material in the clear zone must meet the reflectance standards in 5.0. The barcode clear zone is a rectangular area in the lower right corner of the address side of cards and letter-size pieces defined by these boundaries:

* * * * *

2.2 General Standards

[Amend 2.2 to show that these standards for delivery point barcodes also would apply to Enhanced Carrier Route saturation and high density rate pieces.]

Automation rate pieces and pieces claimed at an Enhanced Carrier Route saturation or high density rate that weigh 3 ounces or less may bear a DPBC either in the address block or in the barcode clear zone. Pieces that weigh more than 3 ounces must bear a DPBC in the address block.

* * * * *

5.0 Reflectance

5.1 Background Reflectance

[Amend 5.1 to delete item c to remove references to upgradable mail. No other changes to the text.]

* * * * *

5.4 Dark Fibers and Background Patterns

[Amend 5.4 to include references to Enhanced Carrier Route saturation and high density rate pieces. Delete item c to remove references to upgradable mail.]

Dark fibers or background patterns (e.g., checks) that produce a print contrast ratio of more than 15% when measured in the red and green portions of the optical spectrum are prohibited in these locations:

a. The area of the address block or the barcode clear zone where the barcode appears on a card-size or a letter-size piece mailed at automation rates or at Enhanced Carrier Route saturation or high density rates.

b. The area of the address block or the area of the mailpiece where the barcode appears on a flat-size piece in an automation rate mailing.

* * * * *

[Amend the title and summary text of C850 by replacing “Standard Mail” and “Package Services” with “Parcels” to read as follows:]

C850 Barcoding Standards for Parcels

Summary

C850 describes the technical standards for barcoded parcels. It defines parcel barcode characteristics, location, and content.

1.0 General

1.1 Basic Requirement

[Amend 1.1 to remove references to specific classes of mail to read as follows:]

Every parcel eligible for a barcode discount must bear a properly prepared barcode that represents the correct ZIP Code information for the delivery address on the mailpiece plus the appropriate verifier character suffix or application identifier prefix characters as described in 1.0 through 4.0. The combination of appropriate ZIP Code and verifier or application identifier characters uniquely identifies the barcode as the postal routing code.

* * * * *

1.4 Use With Delivery Confirmation and Signature Confirmation Services

[Amend 1.4 to remove references to specific classes of mail to read as follows:]

A mailer may qualify for the machinable parcel barcode discount and may apply Delivery Confirmation and Signature Confirmation barcodes in one of the following ways:

* * * * *

[Amend item 1.4c to delete references to specific classes of mail (to allow integrated barcodes for First-Class Mail parcels) to read as follows:]

c. A single integrated barcode may be used by Delivery Confirmation electronic option mailers who choose to combine Delivery Confirmation or Signature Confirmation service with insurance. Mailers printing their own barcodes and using the electronic option must meet the specifications in S918, S919, and Publication 91 with these modifications:

(1) The text above the barcode must identify the other service requested.

(2) The service-type code in the barcode must identify the class of mail and/or type of special service combined with Delivery Confirmation or Signature Confirmation.

* * * * *

D Deposit, Collection, and Delivery

* * * * *

D200 Periodicals

D210 Basic Information

* * * * *

3.0 EXCEPTIONAL DISPATCH

* * * * *

3.4 Destination Rates

[Amend 3.4 by deleting the first sentence and revising the remaining sentence to read as follows:]

Copies of Periodicals publications deposited under exceptional dispatch may be eligible for and claimed at the destination sectional center facility (DSCF) or destination delivery unit (DDU) rates if the applicable standards in E250 are met.

* * * * *

4.0 DEPOSIT AT AMF

4.1 General

[Amend 4.1 by deleting the reference to SCF rates to read as follows:]

A publisher that airfreights copies of a Periodicals publication to an airport mail facility (AMF) must be authorized additional entry at the verifying office (i.e., the post office where the copies are presented for postal verification). Postage must be paid at that office unless an alternative postage payment method is authorized. Copies presented at an AMF may be eligible for the delivery unit rate, subject to the applicable standards.

* * * * *

D230 Additional Entry

* * * * *

2.0 Distribution plan

* * * * *

[Remove 2.2, Contingency Entries, and redesignate 2.1 as 2.0.]

* * * * *

4.0 USE OF ENTRY

* * * * *

[Remove 4.6, Contingency Entry and redesignate 4.7 as 4.6.]

* * * * *

D500 Express Mail

* * * * *

1.0 SERVICE OBJECTIVES AND REFUND CONDITIONS

1.1 Express Mail Same Day Airport Service

[Revise 1.1 to read as follows:]

For Express Mail Same Day Airport Service, the USPS refunds the postage for an item not available for customer pickup at destination by the time specified when the item was accepted at origin, unless the delay was caused by one of the situations in 1.6.

1.2 Express Mail Custom Designed Service

[Revise 1.2 to read as follows:]

For Express Mail Custom Designed Service, the USPS refunds the postage for an item not available for customer pickup at destination or not delivered to the addressee within 24 hours of mailing, unless the item was mailed under a service agreement that provides for delivery more than 24 hours after scheduled presentation at the point of origin or if the delay was caused by one of the situations in 1.6.

1.3 Express Mail Next Day and Second Day Services

[Revise 1.3 to read as follows:]

For Express Mail Next Day Service, the USPS refunds the postage for an item not available for customer pickup at destination or for which delivery to the addressee was not attempted, subject to the standards for this service, unless the delay was caused by one of the situations in 1.6.

1.4 Express Mail Military Service

[Revise 1.4 to read as follows:]

For Express Mail Military Service (EMMS) items presented at APO/FPO facilities before the published cutoff time are delivered the second day after acceptance. If presented after the published cut-off time, such items are delivered the third day after acceptance. For EMMS, the USPS refunds postage for an item not available for customer pickup at the APO/FPO of address or for which delivery to the addressee was not attempted domestically within the times specified by the standards for this service, unless the item was delayed by Customs; the item was destined for an APO/FPO that was closed on the intended day of delivery (delivery is attempted the next business day); or the delay was caused by one of the situations in 1.6.

* * * * *

1.6 Postage Not Refunded

[Revise 1.6 to add the additional limitations for Express Mail refunds to read as follows:]

Postage refunds may not be available if delivery was attempted within the times required for the specific service, or if the delay of the item was caused by any of the following reasons:

a. Properly detained for law enforcement purpose; strike or work stoppage; delayed because of an incorrect ZIP Code or address; forwarding or return service was provided after the item was made available for claim; delivery was attempted within the times required for the specific service; delay or cancellation of flights. Attempted delivery occurs under any of these situations when the delivery is physically attempted, but cannot be made; the shipment is available for delivery, but the addressee made a written request that the shipment be held for a specific day or days; the delivery employee discovers that the shipment is undeliverable as addressed before leaving on the delivery route.

b. As authorized by USPS headquarters, when the delay was caused by governmental action beyond the control of the USPS or air carriers; war, insurrection, or civil disturbance; breakdown of a substantial portion of the USPS transportation network resulting from events or factors outside the control of the USPS; or acts of God.

* * * * *

E Eligibility

E000 Special Eligibility Standards

* * * * *

E070 Mixed Classes

* * * * *

2.0 ATTACHMENTS OF DIFFERENT CLASSES

* * * * *

2.2 Rate Qualification

If a Periodicals, Standard Mail, or Package Services host piece qualifies for:

* * * * *

[Amend item d by revising the first sentence and removing the second sentence to read as follows:]

d. A destination entry rate (DDU, DSCF, DADC, or DBMC), a Standard Mail attachment is eligible for the comparable destination entry rate. The attachment need not meet the volume standard that would apply if mailed separately. A rate including a destination entry discount may not be claimed for an attachment unless a similar rate is available and claimed for the host piece.

* * * * *

E100 First-Class Mail

E110 Basic Standards

* * * * *

[Revise 3.0 to read as follows:]

3.0 CARD RATE

To be eligible for a card rate, a stamped card, postcard, and each part of a double (reply) card must meet the physical standards in C100. The reply half of a double card need not bear postage when originally mailed, but it must bear postage at the applicable rate when returned, unless prepared as business reply mail (S922) or as a merchandise return service label (S923.5.4).

* * * * *

E120 Priority Mail

* * * * *

2.0 RATES

* * * * *

2.2 Flat-Rate Envelope

[Amend 2.2 by changing “2-pound” to “1-pound” to read as follows:]

Any amount of material that can be mailed in the special flat-rate envelope available from the USPS is subject to the 1-pound Priority Mail rate, regardless of the actual weight of the mailpiece.

* * * * *

2.4 Keys and Identification Devices

[Amend 2.4 to show that the 2-pound rate is a zoned rate, to read as follows:]

Keys and identification devices (e.g., identification cards or uncovered identification tags) that weigh more than 13 ounces but not more than 1 pound are returned at the 1-pound Priority Mail rate plus the fee shown in R100.10.0. Keys and identification devices weighing more than 1 pound but not more than 2 pounds are mailed at the 2-pound Priority Mail rate for zone 4 plus the fee in R100.10.0. The key or identification device must bear, contain, or have securely attached the name and complete address of a person, organization, or concern, with instructions to return the key or identification device to that address and a statement guaranteeing payment of postage due on delivery.

E130 Nonautomation Rates

* * * * *

2.0 SINGLE-PIECE RATE

* * * * *

2.2 Keys and Identification Devices

[Amend 2.2 to change “nonstandard” to “nonmachinable” to read as follows:]

Keys and identification devices (e.g., identification cards or uncovered identification tags) that weigh 13 ounces or less are mailed at the applicable single-piece letter rate plus the fee in R100.10.0, and if applicable, the nonmachinable surcharge. The keys and identification devices must bear, contain, or have securely attached the name and complete address of a person, organization, or concern, with instructions to return the piece to that address and a statement guaranteeing payment of postage due on delivery.

* * * * *

[Add new 2.4 to show that letter-size pieces may be subject to the nonmachinable surcharge to read as follows:]

2.4 Nonmachinable Surcharge—Letter-Size Pieces

The nonmachinable surcharge in R100.11.0 applies to letter-size pieces:

a. That weigh 1 ounce or less and meet one or more of the nonmachinable characteristics in C050.2.2. Pieces mailed at the card rate are not subject to the nonmachinable surcharge.

b. For which the mailer chooses the manual only (“do not automate”) option. Pieces mailed at the card rate may choose this option but are not subject to the surcharge.

[Add new 2.5 to show that flats may be subject to the nonmachinable surcharge to read as follows:]

2.5 Nonmachinable Surcharge—Nonletters

Nonletters (flats and parcels) that weigh 1 ounce or less are subject to the nonmachinable surcharge in R100.11.0 if any one of the following applies (see C010.1.1 for how to determine the length and height of a mailpiece):

a. The piece is greater than ¼-inch thick.

b. The length is more than 11½ inches or the height is more than 6⅛ inches.

c. The aspect ratio (length divided by height) is less than 1.3 or more than 2.5.

3.0 PRESORTED RATE

* * * * *

3.3 Address Quality

[Amend the first paragraph of 3.3 to clarify that signing a postage statement certifies the mail meets the requirements for the rates claimed. There are no other changes to this section.]

The move update standards for address quality are listed below. The mailer's signature on the postage statement certifies that this standard has been met when the corresponding mail is presented to the USPS: * * *

3.4 ZIP Code Accuracy

[Amend 3.4 to clarify that signing a postage statement certifies that the mail meets the requirements for the rates claimed to read as follows:]

All 5-digit ZIP Codes included in addresses on pieces claimed at the Presorted rate must be verified and corrected within 12 months before the mailing date using a USPS-approved method. The mailer's signature on the postage statement certifies that this standard has been met when the corresponding mail is presented to the USPS. This standard applies to each address individually, not to a specific list or mailing. An address meeting this standard may be used in mailings at any other rate to which the standard applies during the 12-month period after its most recent update.

[Add new 3.5 to show that letter-size pieces may be subject to the nonmachinable surcharge to read as follows:]

3.5 Nonmachinable Surcharge—Letter-Size Pieces

Letter-size pieces that weigh 1 ounce or less and meet one or more of the nonmachinable characteristics in C050.2.2 are subject to the nonmachinable surcharge in R100.11.0. Pieces mailed at the card rate are not subject to the nonmachinable surcharge. Double cards that are not prepared in accordance with C810 are considered nonmachinable; they are not charged the surcharge but must be prepared according to the standards for nonmachinable pieces in M130. Pieces that weigh more than 3.3 ounces but still meet the dimensions for a letter must be prepared according to the standards for nonmachinable pieces in M130.

[Add new 3.6 to show that flat-size pieces may be subject to the nonmachinable surcharge:]

3.6 Nonmachinable Surcharge—Nonletters

Nonletters (flats and parcels) that weigh 1 ounce or less are subject to the nonmachinable surcharge in R100.11.0 if any one of the following applies (see C010.1.1 for how to determine the length and height of a mailpiece):

a. The piece is greater than ¼-inch thick.

b. The length is more than 11½ inches or the height is more than 6⅛ inches.

c. The aspect ratio (length divided by height) is less than 1.3 or more than 2.5.

[Add new 3.7 to show that the nonmachinable surcharge applies to pieces where the mailer chooses the manual only option to read as follows:]

3.7 Manual Only Option

The nonmachinable surcharge in R100.11.0 applies to any letter-size piece (except card rate pieces) for which a mailer chooses the manual only (“do not automate”) option. For card rate pieces, a mailer can specify manual handling, but a surcharge does not apply.

[Remove 4.0, Nonstandard Surcharge.]

E140 Automation Rates

1.0 BASIC STANDARDS

* * * * *

1.3 Address Quality

[Amend the first paragraph of 1.3 to clarify that signing a postage statement certifies the mail meets the requirements for the rates claimed to read as follows:]

The move update standards for address quality are listed below. The mailer's signature on the postage statement certifies that this standard has been met when the corresponding mail is presented to the USPS: * * *

1.4 Carrier Route Presort

[Amend 1.4 to clarify that signing a postage statement certifies the mail meets the requirements for the rates claimed to read as follows:]

Carrier route rates are available only for letter-size mail and only for those 5-digit ZIP Code areas identified with an “A” or “B” in the Carrier Route Indicators field of the USPS City State File used for address coding. Carrier route codes must be applied to mailings using CASS-certified software and the current USPS Carrier Route File scheme or another AIS product containing carrier route information, subject to A930 and A950. Carrier route and City State File information must be updated within 90 days before the mailing date. The mailer's signature on the postage statement certifies that this standard has been met when the corresponding mail is presented to the USPS.

* * * * *

[Remove 1.6, Nonstandard Surcharge.]

[Amend the title and text of 2.0 to reorganize rate application information for letters and to replace the basic rate with the AADC and mixed AADC rates.]

2.0 RATE APPLICATION—CARDS AND LETTERS

Automation rates apply to each piece that is sorted under M810 into the corresponding qualifying groups:

a. Pieces in full carrier route trays, in carrier route groups of 10 or more pieces each placed in 5-digit carrier routes trays, or in carrier route packages of 10 or more pieces each placed in 3-digit carrier routes trays qualify for the carrier route rate. Preparation to qualify for the carrier route rate is optional and need not be done for all carrier routes in a 5-digit area.

b. Groups of 150 or more pieces in 5-digit or 5-digit scheme trays qualify for the 5-digit rate. Preparation to qualify for the 5-digit rate is optional and need not be done for all 5-digit or 5-digit scheme destinations.

c. Groups of 150 or more pieces in 3-digit or 3-digit scheme trays qualify for the 3-digit rate.

d. Groups of fewer than 150 pieces in origin 3-digit or origin 3-digit scheme trays and all pieces in AADC trays qualify for the AADC rate.

e. All pieces in mixed AADC trays qualify for the mixed AADC rate. [Redesignate 2.2 and 2.3, describing rate application for flats, as new 3.0 and revise to replace the basic automation rate with the new AADC and mixed AADC rates and to add the nonmachinable surcharge.]

3.0 RATE APPLICATION—FLATS AND OTHER NONLETTERS

3.1 Package-Based Preparation

Automation rates apply to each piece that is sorted under M820.2.0 or M910.1.0 into the corresponding qualifying groups:

a. Pieces in 5-digit packages of 10 or more pieces qualify for the 5-digit rate. Preparation to qualify for the 5-digit rate is optional and need not be done for all 5-digit destinations.

b. Pieces in 3-digit packages of 10 or more pieces qualify for the 3-digit rate.

c. Pieces in ADC packages of 10 or more pieces qualify for the ADC rate.

d. Pieces in mixed ADC packages qualify for the mixed ADC rate.

3.2 Tray-Based Preparation

Automation rates apply to each piece that is sorted under M820.4.0 into the corresponding qualifying groups:

a. Groups of 90 or more pieces in 5-digit trays qualify for the 5-digit rate. Preparation to qualify for the 5-digit rate is optional and need not be done for all 5-digit destinations.

b. Groups of 90 or more pieces in 3-digit trays qualify for the 3-digit rate.

c. Groups of fewer than 90 pieces in origin 3-digit trays and all pieces in ADC trays qualify for the ADC rate.

d. All pieces in mixed ADC trays qualify for the mixed ADC rate.

[Add new 3.3 to show that flats may be subject to the nonmachinable surcharge to read as follows:]

3.3 Nonmachinable Surcharge

Pieces that weigh 1 ounce or less are subject to the nonmachinable surcharge in R100.11.0 if any one of the following applies (see C010.1.1 for how to determine the length and height of a mailpiece):

a. The piece is greater than ¼-inch thick.

b. The length is more than 11½ inches or the height is more than 6⅛ inches.

c. The aspect ratio (length divided by height) is less than 1.3 or more than 2.5.

* * * * *

E200 Periodicals

E210 Basic Standards

* * * * *

E217 Basic Rate Eligibility

[Amend 1.0 by subdividing the section and revising the text for clarity to read as follows:]

1.0 OUTSIDE-COUNTY RATES

1.1 Description

Outside-County rates apply to copies of an authorized Periodicals publication mailed by a publisher or news agent that are not eligible for In-County rates under 4.0. Outside-County rates consist of an addressed per piece charge, a zoned charge for the weight of the advertising portion of the publication, and a unzoned charge for the weight of the nonadvertising portion.

1.2 Nonrequester and Nonsubscriber Copies

For excess noncommingled mailings under E215, nonrequester and nonsubscriber copies are not eligible for Periodicals rates unless the publication is authorized under E212.2.0 and is not authorized to contain general advertising. Nonrequester and nonsubscriber copies in excess of the 10% allowance under E215 are subject to Outside-County rates when commingled with requester or subscriber copies, as appropriate.

* * * * *

3.0 OUTSIDE-COUNTY SCIENCE-OF-AGRICULTURE RATES

* * * * *

3.3 Other Rates

[Amend 3.3 by adding the new destination ADC rate, removing the last sentence, and rearranging sentences two and three to read as follows:]

All Outside-County rates and discounts apply, except for separate rates for DDU, DSCF, DADC, and zones 1 and 2. Nonsubscriber copies are subject to E215. Each piece must meet the standards for the rates or discounts claimed.

[Remove 3.4, Nonadvertising Discount, and redesignate 3.5 as 3.4.]

* * * * *

5.0 DISCOUNTS

[Amend 5.0 by restructuring for clarity and adding a reference for the new per piece pallet discounts for nonletter-size mail to read as follows:]

The following discounts are available:

a. Nonadvertising. The nonadvertising discount applies to the Outside-County piece rate and is computed under P013.

b. Destination Entry. Destination entry discounts are available under E250 for copies entered at specific USPS facilities.

c. Pallet. Outside-County rate nonletters (flats and irregular parcels) packaged and placed directly on pallets under the applicable standards in M045 are eligible for one of the pallet discounts in R200. Except for overflow pallets, each pallet must contain a minimum of 250 pounds of addressed pieces. Pieces taken to destination delivery units (DDUs) under the applicable standards in E250, that cannot accept pallets, need only meet the minimum weight requirement. To determine whether a 5-digit delivery facility can handle pallets, refer to the Drop Shipment Product maintained by the National Customer Support Center (NCSC) (see G043).

* * * * *

E220 Presorted Rates

1.0 BASIC INFORMATION

* * * * *

1.3 ZIP Code Accuracy

[Amend 1.3 to clarify that signing a postage statement certifies the mail meets the requirements for the rates claimed to read as follows:]

All 5-digit ZIP Codes in addresses on pieces claimed at the 5-digit, 3-digit, or basic rates must be verified and corrected within 12 months before the mailing date by a USPS-approved method. The mailer's signature on the postage statement certifies that this standard has been met when the corresponding mail is presented to the USPS. This standard applies to each address individually, not to a specific list or mailing. An address meeting this standard may be used in mailings at any other rate to which the standard applies during the 12-month period after its most recent update.

* * * * *

[Remove 3.0, Combining Multiple Publications or Editions. This section has moved to M230.]

* * * * *

E240 Automation Rates

1.0 BASIC STANDARDS

* * * * *

1.2 Enclosed Reply Cards and Envelopes

[Amend 1.2 to clarify that signing a postage statement certifies that the mail meets the requirements for the rates claimed to read as follows:]

All letter-size reply cards and envelopes provided as enclosures in automation rate Periodicals and addressed for return to a domestic delivery address must meet the standards in C810 for enclosed reply cards and envelopes. The mailer's signature on the postage statement certifies that this standard has been met when the corresponding mail is presented to the USPS.

* * * * *

[Revise E250 in its entirety to clarify standards for all destination entry Periodicals mailings; to include the new destination area distribution center (DADC) entry rates and discounts; and to reflect that DSCF pieces must be deposited at the DSCF or a USPS-designated facility.]

E250 Destination Entry

1.0 BASIC STANDARDS

1.1 Rate Application

Outside-County addressed pieces may qualify for destination area distribution center (DADC) or destination sectional center facility (DSCF) rates and discounts subject to the standards in 2.0 and 3.0, respectively. Carrier route rate addressed pieces may qualify for destination delivery unit (DDU) rates and discounts subject to the standards in 4.0. Any advertising portion may be eligible for DADC, DSCF, or DDU advertising pound rates based on the entry facility and the address on the piece. For each addressed piece, only one destination entry discount may be claimed. An individual package, tray, sack, or pallet may contain pieces claimed at different destination entry rates and discounts. Addressed pieces may also qualify for the destination entry pallet per piece discount in E217. In-County carrier route rate addressed pieces may qualify for the DDU discount subject to the standards in 4.0.

1.2 Documentation of Postage

Subject to P012, the mailer must be able to show compliance with eligibility requirements (e.g., by package, tray, sack, or pallet), and list the number of addressed pieces by presort level for each 5-digit and 3-digit ZIP Code destination as appropriate for the rates and discounts claimed. Documentation is not required if each addressed piece in the mailing is of identical weight, and are separated by zone, rate, and destination entry (if applicable), when presented for mailing.

2.0 DESTINATION AREA DISTRIBUTION CENTER (DADC)

2.1 Definition

For this standard, DADC includes the facilities listed in L004, or a USPS-designated facility.

2.2 General Eligibility

Addressed pieces meeting the standards in 1.0 and 2.0 are eligible for DADC rates when deposited at an ADC (or USPS-designated facility), and are addressed for delivery to one of the 3-digit ZIP Codes served by the facility where deposited.

2.3 Rates

DADC rates include a per piece discount off the addressed piece rate and, if applicable, an advertising pound rate. Pieces must meet the standards for any other rate and discount claimed.

3.0 DESTINATION SECTIONAL CENTER FACILITY (DSCF)

3.1 Definition

For this standard, DSCF includes the facilities listed in L005 and L006, or a USPS-designated facility.

3.2 General Eligibility

Addressed pieces meeting the standards in 1.0 and 3.0 are eligible for DSCF rates when deposited at an SCF (or USPS-designated facility), and are addressed for delivery to one of the 3-digit ZIP Codes served by the facility where deposited.

3.3 Rates

DSCF rates include a per piece discount off the addressed piece rate and, if applicable, an advertising pound rate. Pieces must meet the standards for any other rate and discount claimed.

4.0 DESTINATION DELIVERY UNIT (DDU)

4.1 Definition

For this standard, the DDU is the facility where the carrier cases mail for delivery to the addresses on the pieces in the mailing.

4.2 General Eligibility

Addressed pieces, including pieces under exceptional dispatch, meeting the standards in 1.0 and 4.0 are eligible for DDU rates when deposited at the facility where the carrier serving the delivery address on the mail is located.

4.3 Rates

DDU rates for Outside-County include a per piece discount off the addressed piece rate and, if applicable, an advertising pound rate. DDU rates for In-County consist of a per piece discount off the addressed piece rate and a pound charge. Outside-County and In-County pieces must meet the standards for any other rate and discount claimed.

4.4 Maximum Volume

The same mailer may not present for deposit more than four DDU rate mailings at the same delivery unit (or another acting as its agent) in any 24-hour period. This limit may be waived if local conditions permit. A mailer may ask for such a waiver when scheduling deposit of the mailings. There is no maximum for plant-verified drop shipments made under P950. This standard does not apply to mailings presented to the publication's authorized original entry, or additional entry, serving the place where the pieces were prepared for mailing, if that entry post office is also the facility at which the DDU rate pieces must be deposited.

4.5 Deposit Schedule

The mailer may schedule deposit of DDU rate mailings at least 24 hours in advance by contacting the district office in whose service area the destination facility is located. The mailer must follow the scheduled deposit time provided. The mailer may request standing appointments for renewable 6-month periods by written application to the district office in whose service area the destination facility is located. Mixed loads of Periodicals and Standard Mail or Package Services mail require advance appointments for deposit. For mail entered under exceptional dispatch, the application for exceptional dispatch required under D210 also serves as a request for standing appointments.

E260 Ride-Along

Summary

E260 describes the standards for the Periodicals Ride-Along classification.

1.0 BASIC ELIGIBILITY

1.1 Description

The standards in E260 apply to Standard Mail material paid at the Periodicals Ride-Along rate that is attached to or enclosed with Periodicals mail. All Periodicals subclasses may enclose eligible matter at the Ride-Along rate.

1.2 Basic Standards

Only one Ride-Along piece may be attached to or enclosed with an individual copy of Periodicals mail. The Ride-Along rate must be paid on each copy in the mailing, not addressed copies. If more than one Ride-Along piece is attached or enclosed, mailers have the option of paying Standard Mail postage for all the enclosures or attachments, or paying the Ride-Along rate for the first attachment or enclosure and Standard Mail rates for subsequent attachments and enclosures. Ride-Along pieces eligible under E260 must be eligible as Standard Mail and must:

a. Not exceed any dimension of the host publication.

b. Not exceed 3.3 ounces and must not exceed the weight of the host publication.

c. Not obscure the title of the publication or the address label.

1.3 Physical Characteristics

The host Periodicals piece and the Ride-Along piece must meet the following physical characteristics:

a. Construction:

(1) Bound publications. If contained within the host publication the Ride-Along piece must be securely affixed to prevent detachment during postal processing. If loose, the Ride-Along piece and publication must be enclosed together in a full wrapper, polybag, or envelope.

(2) Unbound publications. A loose Ride-Along enclosure with an unbound publication must be combined with and inserted within the publication in a manner that prevents detachment during postal processing. If the Ride-Along piece is included outside the unbound publication, the publication and the Ride-Along piece must be enclosed in a full wrapper, polybag, or envelope.

b. A Periodicals piece (automation and nonautomation) with the addition of a Ride-Along piece must remain uniformly thick and remain in the same processing category as before the addition of the Ride-Along attachment or enclosure.

c. A Periodicals piece with a Ride-Along that claims automation rates must meet the appropriate automation requirements in C810 or C820, must maintain the same processing category as before the addition of the Ride-Along attachment or enclosure and, for flat-size mail, must meet the flat sorting machine criteria under C820 (FSM 881 or FSM 1000). For example:

(1) If, due to the inclusion of a Ride-Along piece, an FSM 881-compatible host piece can no longer be processed on the FSM 881, but must be processed on an FSM 1000, then that piece must pay either the appropriate Periodicals nonautomation rate plus the Ride-Along rate, or the appropriate Periodicals automation rate for the host piece and the appropriate Standard Mail rate for the attachment or enclosure.

(2) If, due to the inclusion of a Ride-Along piece, an FSM 1000-compatible host piece can no longer be processed on the FSM 1000, but must be processed manually, then that piece must pay either the appropriate Periodicals nonautomation rate plus the Ride-Along rate, or the appropriate Periodicals nonautomation rate for the host piece and the appropriate Standard Mail rate for the attachment or enclosure.

(3) If, due to the inclusion of a Ride-Along piece, an automation letter host piece can no longer be processed as an automation letter, then that piece must pay the appropriate Periodicals nonautomation rate plus the Ride-Along rate, or the appropriate Periodicals nonautomation rate for the host piece and the appropriate Standard Mail rate for the attachment or enclosure.

1.4 Marking

The marking “Ride-Along Enclosed” must be placed on or in the host publication if it contains an enclosure or attachment paid at the Ride-Along rate. If placed on the outer wrapper, polybag, envelope, or cover of the host publication, the marking must be set in type no smaller than any used in the required “POSTMASTER: Send change of address * * *” statement. If placed in the identification statement, the marking must meet the applicable standards. The marking must not be on or in copies not accompanied by a Ride-Along attachment or enclosure.

* * * * *

E500 Express Mail

1.0 STANDARDS FOR ALL EXPRESS MAIL

* * * * *

1.6 Flat-Rate Envelope

[Amend 1.6 by changing “2-pound” to “½-pound” to read as follows:]

Material mailed in the special flat-rate envelope available from the USPS is subject to the postage rate for a ½-pound piece at the service level requested by the customer, regardless of the actual weight of the piece.

* * * * *

E600 Standard Mail

E610 Basic Standards

* * * * *

8.0 PREPARATION

Each Standard Mail mailing is subject to these general standards:

* * * * *

[Amend 8.0e to remove references to upgradable preparation to read as follows:]

e. Each piece must bear the addressee's name and delivery address, including the correct ZIP Code or ZIP+4 code, unless an alternative address format is used subject to A040. Detached address labels may be used subject to A060.

* * * * *

E620 Presorted Rates

1.0 BASIC STANDARDS

1.1 General

All pieces in a Presorted Regular or Presorted Nonprofit Standard Mail mailing must:

* * * * *

[Amend 1.1c to remove references to upgradable mailings:]

c. Bear a delivery address that includes the correct ZIP Code or ZIP+4 code, unless an alternative address format is used subject to A040. Pieces prepared with detached address labels are subject to additional standards in A060.

1.2 Residual Volume Requirement

[Amend 1.2 to remove the requirement that residual volumes must appear on the same postage statement.]

Pieces in an Enhanced Carrier Route rate mailing that has separately met a 200-piece or 50-pound minimum quantity requirement may be counted toward the minimum quantity requirement for a Presorted rate mailing, provided that the Enhanced Carrier Route rate mailing and the Presorted rate mailing are part of the same mailing job. Likewise, pieces in an automation rate mailing that has separately met a 200-piece or 50-pound minimum quantity requirement may be counted toward the minimum quantity requirement for a Presorted rate mailing, provided that the automation rate mailing and the Presorted mailing are part of the same mailing job. Pieces mailed at Presorted Standard Mail rates must not be counted toward the minimum volume requirements for an Enhanced Carrier Route rate or an automation rate mailing.

* * * * *

1.4 ZIP Code Accuracy

[Amend 1.4 to clarify that signing a postage statement certifies that the mail meets the requirements for the rates claimed to read as follows:]

All 5-digit ZIP Codes included in addresses on pieces claimed at Presorted Regular and Presorted Nonprofit rates must be verified and corrected within 12 months before the mailing date, using a USPS-approved method. The mailer's signature on the postage statement certifies that this standard has been met when the corresponding mail is presented to the USPS. This standard applies to each address individually, not to a specific list or mailing. An address meeting this standard may be used in mailings at any other rates to which the standard applies during the 12-month period after its most recent update.

2.0 RATES

[Amend 2.0 by combining i2.0a and 2.0b into new 2.0a and renumbering the remaining items accordingly. This is revised to remove references to upgradable mailings.]

Presorted Regular or Nonprofit Standard Mail rates apply to Regular or Nonprofit Standard Mail letters, flats, and machinable and irregular parcels weighing less than 16 ounces that are prepared under M045, M610, or (flat-size mail only) under M910, M920, M930, or M940. Basic Presorted rates apply to pieces that do not meet the standards for the ⅗ Presorted rates described below. Basic rate and ⅗ rate pieces prepared as part of the same mailing are subject to a single minimum volume standard. Pieces that do not qualify for the ⅗ rate must be paid at the basic rate and prepared accordingly. Pieces may qualify for the ⅗ rate if they are presented:

a. In quantities of 150 or more letter-size pieces for a single 3-digit area, prepared in 5-digit or 3-digit trays.

* * * * *

[Redesignate 4.0, Barcoded Discount, as 5.0. Add new 4.0 to show that some Presorted letters are subject to the nonmachinable surcharge to read as follows:]

4.0 NONMACHINABLE SURCHARGE

The nonmachinable surcharge in R600.6.0 applies to any letter-size piece (including cards):

a. That weighs 3.3 ounces or less and meets one or more of the nonmachinable characteristics in C050.2.2.

b. For which a mailer chooses the manual only (“do not automate”) option.

* * * * *

E630 Enhanced Carrier Route Rates

[Revise E630 in its entirety to reorganize and clarify the current standards and to add standards that require letter-size pieces claimed at high density or saturation rates to be automation-compatible and have delivery point barcodes. Please note that the exception to the sack minimum for saturation rate pieces currently in E630 has been moved to M620.4.1.]

1.0 BASIC STANDARDS

1.1 General

All pieces in an Enhanced Carrier Route Standard Mail mailing must:

a. Meet the basic standards for Standard Mail in E610.

b. Be part of a single mailing of at least 200 pieces or 50 pounds of pieces of Enhanced Carrier Route Standard Mail. Automation basic carrier route rate pieces are subject to a separate 200-piece or 50-pound minimum volume standard and may not be included in the same mailing as other Enhanced Carrier Route mail. Regular and Nonprofit mailings must meet separate minimum volumes.

c. Be sorted to carrier routes, marked, and documented under M045 (if palletized), M620, M920, M930, or M940.

d. Have a complete delivery address or an alternate address format.

e. Meet the address quality and coding standards in A800 and A950.

1.2 Maximum Size

Enhanced Carrier Route rate mail may not be more than 11¾ inches high, 14 inches long, or ¾-inch thick. Exception: Merchandise samples with detached address labels (DALs) may exceed these dimensions if the labels meet the standards in A060.

1.3 Preparation

Preparation to qualify for any Enhanced Carrier Route rate is optional and need not be performed for all carrier routes in a 5-digit area. An Enhanced Carrier Route mailing may include pieces at basic, high density, and saturation Enhanced Carrier Route rates. Automation basic carrier route rate pieces must be prepared as a separate mailing (see E640).

1.4 Carrier Route Information

Except for mailings prepared with a simplified address under A040, a carrier route code must be applied to each piece in the mailing using CASS-certified software and the current USPS Carrier Route File scheme, hard copy Carrier Route Files, or another AIS product containing carrier route information, subject to A930 and A950. Carrier route information must be updated within 90 days before the mailing date.

2.0 BASIC RATES

2.1 All Pieces

All pieces mailed at basic rates must be prepared in walk sequence or in line-of-travel (LOT) sequence according to LOT schemes prescribed by the USPS (see M050).

2.2 Letter-Size Pieces

Basic rates apply to each piece sorted under M045 or M620 and in a full carrier route tray or in a carrier route package of 10 or more pieces placed in a 5-digit carrier routes or 3-digit carrier routes tray.

2.3 Flat-Size Pieces

Basic rates apply to each piece in a carrier route package of 10 or more pieces that is:

a. Palletized under M045, M920, M930, or M940.

b. Placed in a carrier route sack containing at least 125 pieces or 15 pounds of pieces.

c. Placed in a merged 5-digit scheme, 5-digit scheme carrier routes, merged 5-digit, or 5-digit carrier routes sack.

2.4 Irregular Parcels

Basic rates apply to each piece in a carrier route sack or carton containing at least 125 pieces or 15 pounds of pieces, or in a 5-digit carrier routes sack or carton. DALs must be in carrier route packages of 10 or more pieces and prepared under A060.

3.0 HIGH DENSITY RATES

3.1 All Pieces

All pieces mailed at high density rates must:

a. Be prepared in walk sequence according to schemes prescribed by the USPS (see M050).

b. Meet the density requirement of at least 125 pieces for each carrier route. Multiple pieces per delivery address can count toward this density standard. Fewer pieces may be prepared for routes with fewer than 125 possible deliveries if a piece is addressed to every possible delivery on the route.

3.2 Letter-Size Pieces

High density rates apply to each piece that is automation-compatible according to C810, has a delivery point barcode under C840, and is in a full carrier route tray or in a carrier route package of 10 or more pieces placed in a 5-digit carrier routes or 3-digit carrier routes tray. Pieces that are not automation-compatible or are not barcoded are mailable at the high density nonletter rate. Pieces bearing a simplified address do not need to meet the standards in C810 and are not required to have a delivery point barcode.

3.3 Discount for Heavy Letters

Pieces that otherwise qualify for the high density letter rate and weigh more than 3.3 ounces but not more than 3.5 ounces pay postage equal to the piece/pound rate and receive a discount equal to the high density nonletter piece rate (3.3 ounces or less) minus the high density letter piece rate (3.3 ounces or less). If claiming a destination entry rate, the discount is calculated using the corresponding rates.

3.4 Flat-Size Pieces

High density rates apply to each piece in a carrier route package of 10 or more pieces that is:

a. Palletized under M045, M920, M930, or M940.

b. Placed in a carrier route sack containing at least 125 pieces or 15 pounds of pieces.

c. Placed in a merged 5-digit scheme, 5-digit scheme carrier routes, merged 5-digit, or 5-digit carrier routes sack.

3.5 Irregular Parcels

High density rates apply to each piece in a carrier route sack or carton containing at least 125 pieces or 15 pounds of pieces, or in a 5-digit carrier routes sack or carton. DALs must be in carrier route packages of 10 or more pieces and prepared under A060.

4.0 SATURATION RATES

4.1 All Pieces

All pieces mailed at saturation rates must:

a. Be prepared in walk sequence according to schemes prescribed by the USPS (see M050).

b. Meet the density requirement of at least 90% or more of the active residential addresses or 75% or more of the total number of active possible delivery addresses on each carrier route receiving this mail. Pieces bearing a simplified address must meet the coverage standards in A040. Multiple pieces per delivery address do not count toward this density standard.

4.2 Letter-Size Pieces

Saturation rates apply to each piece that is automation-compatible according to C810, has a delivery point barcode under C840, and is in a full carrier route tray or in a carrier route package of 10 or more pieces placed in a 5-digit carrier routes or 3-digit carrier routes tray. Pieces that are not automation-compatible or are not barcoded are mailable at the saturation nonletter rate. Pieces bearing a simplified address do not need to meet the standards in C810 and are not required to have a delivery point barcode.

4.3 Discount for Heavy Letters

Pieces that otherwise qualify for the saturation letter rate and weigh more than 3.3 ounces but not more than 3.5 ounces pay postage equal to the piece/pound rate and receive a discount equal to the saturation nonletter piece rate (3.3 ounces or less) minus the saturation letter piece rate (3.3 ounces or less). If claiming a destination entry rate, the discount is calculated using the corresponding rates.

4.4 Flat-Size Pieces

Saturation rates apply to each piece in a carrier route package of 10 or more pieces that is:

a. Palletized under M045, M920, M930, or M940.

b. Placed in a carrier route sack containing at least 125 pieces or 15 pounds of pieces.

c. Placed in a merged 5-digit scheme, 5-digit scheme carrier routes, merged 5-digit, or 5-digit carrier routes sack.

4.5 Irregular Parcels

Saturation rates apply to each piece in a carrier route sack or carton containing at least 125 pieces or 15 pounds of pieces, or in a 5-digit carrier routes sack or carton. DALs must be in carrier route packages of 10 or more pieces and prepared under A060.

5.0 RESIDUAL SHAPE SURCHARGE

Any piece that is prepared as a parcel or is not letter-size or flat-size as defined in C050 is subject to the residual shape surcharge.

E640 Automation Rates

1.0 REGULAR AND NONPROFIT RATES

* * * * *

1.2 Enclosed Reply Cards and Envelopes

[Amend 1.2 to clarify that signing a postage statement certifies the mail meets the requirements for the rates claimed.]

All letter-size reply cards and envelopes (business reply, courtesy reply, and meter reply mail) provided as enclosures in automation Regular or Nonprofit Standard Mail, and addressed for return to a domestic delivery address, must meet the standards in C810 for enclosed reply cards and envelopes. The mailer's signature on the postage statement certifies that this standard has been met when the corresponding mail is presented to the USPS.

1.3 Rate Application—Letter-Size Pieces

[Amend 1.3 to replace the basic rate with the AADC and mixed AADC rates.]

Automation rates apply to each piece that is sorted under M810 into the corresponding qualifying groups:

a. Groups of 150 or more pieces in 5-digit or 5-digit scheme trays qualify for the 5-digit rate. Preparation to qualify for that rate is optional and need not be done for all 5-digit or 5-digit scheme destinations.

b. Groups of 150 or more pieces in 3-digit or 3-digit scheme trays qualify for the 3-digit rate.

c. Groups of fewer than 150 pieces in origin or entry 3-digit or 3-digit scheme trays and groups of 150 or more pieces in AADC trays qualify for the AADC rate.

d. All pieces in mixed AADC trays qualify for the mixed AADC rate.

[Redesignate 1.4, Rate Application—Flats, as 1.5. Add new 1.4 for heavy automation letters to read as follows:]

1.4 Discount for Heavy Automation Letters

Automation letters that weigh more than 3.3 ounces but not more than 3.5 ounces pay postage equal to the automation piece/pound rate and receive a discount equal to the automation nonletter piece rate (3.3 ounces or less) minus the automation letter piece rate (3.3 ounces or less). If claiming a destination entry rate, the discount is calculated using the corresponding rates.

* * * * *

2.0 ENHANCED CARRIER ROUTE RATES

* * * * *

[Add new 2.6 to include the discount for ECR automation basic letters that weigh between 3.3 and 3.5 ounces.]

2.6 Discount for Heavy Letters

Pieces that otherwise qualify for the ECR automation basic letter rate and weigh more than 3.3 ounces but not more than 3.5 ounces pay postage equal to the ECR regular basic nonletter piece/pound rate and receive a discount equal to the regular basic nonletter piece rate (3.3 ounces or less) minus the automation basic letter piece rate. If claiming a destination entry rate, the discount is calculated using the corresponding rates.

E700 Package Services

E710 Basic Standards

* * * * *

E712 Bound Printed Matter

1.0 BASIC STANDARDS

1.1 Description

* * * * *

[Amend 1.1b to read as follows:]

b. Weigh no more than 15 pounds. Pieces might be subject to other minimum weights or dimensions based on the standards for specific rates.

* * * * *

[Remove 1.4, POSTNET Barcodes or Flats.]

2.0 RATES

BPM rates are based on the weight of a single addressed piece or 1 pound, whichever is higher, and the zone (where applicable) to which the piece is addressed. Rate categories are as follows:

* * * * *

[Amend the heading of item 2.0 by adding “Machinable Parcels” and revise the text to read as follows:]

d. Barcoded Discount—Machinable Parcels. The barcoded discount applies only to BPM machinable parcels (see C050.4.1) that bear a correct, readable barcode under C850 for the ZIP Code of the delivery address. The pieces must be part of a single-piece rate mailing of 50 or more BPM parcels or part of a presort rate mailing of at least 300 BPM parcels prepared under M045 and M720. The barcoded discount is not available for parcels mailed at Presorted DDU or DSCF rates, or for Presorted DBMC rate mailings entered at an ASF other than the Phoenix, AZ, ASF. Carrier route rate mail is not eligible for the barcoded discount.

[Add new item 2.0e to read as follows:]

e. Barcoded Discount—Flats. The barcoded discount applies only to BPM flat-size pieces that bear a correct, readable ZIP+4 or delivery point barcode (DPBC) under C840 for the ZIP+4 Code, or numeric DPBC of the delivery address. The pieces must be part of a single-piece rate mailing of 50 or more flat-size pieces or part of a presort rate mailing of at least 300 BPM flat-size pieces prepared under M045 and M820. The barcoded discount is not available for flat-size pieces mailed at Presorted DDU rates or carrier route rates. To qualify for the barcoded discount, the flat-size piece must meet the flat sorting machine requirements under C820.2.0.

3.0 ADDITIONAL STANDARDS FOR PRESORTED RATES

3.1 ZIP Code Accuracy

[Amend 3.1 to clarify that signing a postage statement certifies that the mail meets the requirements for the rates claimed to read as follows:]

All 5-digit ZIP Codes included in addresses on pieces claimed at Presorted rates must be verified and corrected within 12 months before the mailing date using a USPS-approved method. The mailer's signature on the postage statement certifies that this standard has been met when the corresponding mail is presented to the USPS. This standard applies to each address individually, not a specific list or mailing. An address meeting this standard may be used in mailings at any other rates to which the standard applies during the 12-month period after its most recent update.

[Redesignate current 3.2 as 3.3 and add new 3.2 to show CASS certification for automation rate mailings to read as follows:]

3.2 CASS Certification

Pieces claiming the barcode discount for flat-size mail must meet the address quality and coding standards in A800 and A950.

[Amend redesignated 3.3 by adding reference to flats to read as follows:]

3.3 Preparation

Pieces claiming the Presorted rates must be prepared under M045 or M722 or, for flats claiming the barcode discount under M820.

* * * * *

E713 Media Mail

[Redesignate former 2.0 as new 1.0.]

[Redesignate former 1.0 as new 2.0 and revise the title and text to read as follows:]

2.0 RATES

Media Mail rates are based on the weight of the piece without regard to zone. The rate categories and discounts are as follows:

a. Single-Piece Rate. The single-piece rate applies to pieces not mailed at a 5-digit or basic rate.

b. 5-Digit Presort Rate. The 5-digit rate applies to pieces that meet the additional requirements in 3.0 and are prepared and presorted to 5-digit scheme (machinable parcels only) or 5-digit destinations as specified in M730 or M041 and M045.

c. Basic Presort Rate. The basic rate applies to pieces that meet the additional requirements in 3.0 and are prepared and presorted as specified in M730 or M041 and M045.

d. Barcoded Discount. The barcoded discount applies to Media Mail machinable parcels (see C050.4.1) that are included in a mailing of at least 50 pieces of Media Mail. The pieces must be entered either at single-piece rates or basic rates and bear a correct, readable barcode for the ZIP Code shown in the delivery address as required by C850. The barcoded discount is not available for pieces mailed at 5-digit rates.

[Revise the title of 3.0 to read as follows:]

3.0 ADDITIONAL STANDARDS FOR PRESORTED RATES

3.1 Basic Information

[Amend 3.1 to read as follows:]

A Presorted Media Mail mailing must contain a minimum of 300 pieces claimed at any combination of 5-digit and basic rates. Those pieces in the mailing that meet the 5-digit presort requirements are eligible for the 5-digit presort rate and those pieces that meet the basic presort requirements are eligible for the basic rates, subject to the preparation standards in M730 or M045. Pieces in a mailing do not need to be identical in size and content. Such nonidentical pieces may be merged, sorted together, and presented as a single mailing either with the correct postage affixed to each piece in the mailing or with postage paid with a permit imprint if authorized by Business Mailer Support (BMS), USPS headquarters.

* * * * *

[Revise the title and text of 3.3 to read as follows:]

3.3 5-Digit Rate

To qualify for the 5-digit rate, a piece must be prepared and sorted to either 5-digit scheme (machinable parcels only) and 5-digit sacks under M730 or to 5-digit scheme (machinable parcels only) and 5-digit pallets under M045. All logical 5-digit packages on pallets must contain at least 10 pieces. Nonmachinable parcels may qualify for the 5-digit rate if prepared to preserve sortation by 5-digit ZIP Code as prescribed by the postmaster of the mailing office.

[Revise the title and text of 3.4 to read as follows:]

3.4 Basic Rate

All pieces prepared and sorted under M730 or M045 that are not eligible for the 5-digit rate qualify for the basic rate. Nonmachinable parcels may qualify for the basic rate if prepared to preserve sortation by BMC as prescribed by the postmaster of the mailing office.

[Remove former 3.5 and 3.6.]

E714 Library Mail

[Redesignate former 2.0 as 1.0.]

[Redesignate former 1.0 as new 2.0 and revise title and text to read as follows:]

2.0 RATES

Library Mail rates are based on the weight of the piece without regard to zone. The rate categories and discounts are as follows:

a. Single-Piece Rate. The single-piece rate applies to pieces not mailed at a 5-digit or basic rate.

b. 5-Digit Presort Rate. The 5-digit rate applies to pieces that meet the additional requirements of 3.0 and are prepared and presorted to 5-digit scheme (machinable parcels only) and 5-digit destinations as specified in M740 or M041 and M045.

c. Basic Presort Rate. The basic rate applies to pieces that meet the additional requirement in 3.0 and are prepared and presorted as specified in M740 or M041 and M045.

d. Barcoded Discount. The barcoded discount applies to Library Mail machinable parcels (see C050.4.1) that are included in a mailing of at least 50 pieces of Library Mail. The pieces must be entered either at single-piece rates or basic rates and bear a correct, readable barcode for the ZIP Code shown in the delivery address as required by C850. The barcoded discount is not available for pieces mailed at 5-digit rates.

[Revise the title of 3.0 to read as follows:]

3.0 ADDITIONAL STANDARDS FOR PRESORTED RATES

3.1 Basic Information

[Amend 3.1 to read as follows:]

A Presorted Library Mail mailing must contain a minimum of 300 pieces claimed at any combination of 5-digit and basic rates. Those pieces in the mailing that meet the 5-digit presort requirements are eligible for the 5-digit presort rate, and those pieces that meet the basic presort requirements are eligible for the basic rate, subject to the preparation standards in M740 or M045. Pieces in a mailing do not need to be identical in size and content. Such nonidentical pieces may be merged, sorted together, and presented as a single mailing either with the correct postage affixed to each piece in the mailing or with postage paid with a permit imprint if authorized by Business Mailer Support (BMS), USPS headquarters.

* * * * *

[Revise the title and text of 3.3 to read as follows:]

3.3 5-Digit Rate

To qualify for the 5-digit rate, a piece must be prepared and sorted to either 5-digit scheme (machinable parcels only) and 5-digit sacks under M740 or to 5-digit scheme (machinable parcels only) and 5-digit pallets under M045. All logical 5-digit packages on pallets must contain at least 10 pieces. Nonmachinable parcels may qualify for the 5-digit rate if prepared to preserve sortation by 5-digit ZIP Code as prescribed by the postmaster of the mailing office.

[Revise the title and text of 3.4 to read as follows:]

3.4 Basic Rate

All pieces prepared and sorted under M740 or M045 that are not eligible for the 5-digit rate qualify for the basic rate. Nonmachinable parcels may qualify for the basic rate if prepared to preserve sortation by BMC as prescribed by the postmaster.

[Remove former 3.5 and 3.6.]

[Remove E715, Bulk Parcel Post.]

E751 Parcel Select

1.0 BASIC STANDARDS

1.1 Definitions

[Amend item 1.1b by adding a sentence after the first one to read as follows:]

b. * * * Those 5-digit machinable parcels not required to be entered at a BMC under Exhibit 6.0 and all 3-digit nonmachinable parcels sorted to the 3-digit level and claimed at the DSCF rate must be deposited at an SCF listed in L005. * * *

* * * * *

1.4 DSCF and DDU Rates

For DSCF and DDU rates, pieces must meet the applicable standards in 1.0 through 6.0 and the following criteria:

[Amend item 1.4a by adding “5-digit scheme” and “5-digit” to the first sentence and adding a new sentence between the first and second sentences, to read as follows. The remainder of the text is unchanged.]

a. For DSCF rates, be part of a mailing of parcels sorted to 5-digit scheme or 5-digit destinations and deposited at a designated SCF under L005 (or at a BMC under Exhibit 6.0); addressed for delivery within the ZIP Code service area of that SCF under L005; and prepared under M041, M045, or M710. Nonmachinable parcels sorted to 3-digit ZIP Code prefixes and claimed at a DSCF rate must be entered at a designated SCF under L005 and are subject to the surcharge in R700.1.6. * * *

* * * * *

2.0 PREPARATION

* * * * *

2.2 Containers

[Amend 2.2c, 2.2d, and 2.2e by adding “3-digit sack” after each occurrence of “5-digit sack” and adding “3-digit pallet” after each occurrence of “5-digit pallet” to clarify the eligibility of these presort levels for nonmachinable parcels.]

* * * * *

E752 Bound Printed Matter

* * * * *

3.0 DESTINATION SECTIONAL CENTER FACILITY (DSCF) RATES

* * * * *

[Amend the title and text of 3.2 to add eligibility standards for Presorted automation flats to read as follows:]

3.2 Presorted and Automation Flats

Presorted flats and automation flats in sacks for the 5-digit, 3-digit, and SCF sort levels or on pallets at the 5-digit scheme, 5-digit, 3-digit, SCF, and ASF sort levels may claim DSCF rates. The mail must be entered at the appropriate facility under 3.1.

* * * * *

E753 Combining Package Services Parcels

[Amend 1.1 by replacing “BMC rates” with “basic rates.”]

* * * * *

F Forwarding and Related Services

F000 Basic Services

F010 Basic Information

* * * * *

4.0 BASIC TREATMENT

4.1 General

[Amend 4.1 to remove references to nonstandard mail to read as follows:]

Mail that is undeliverable as addressed is forwarded, returned to the sender, or treated as dead mail, as authorized for the particular class of mail. Undeliverable-as-addressed mail is endorsed by the USPS with the reason for nondelivery as shown in Exhibit 4.1. All nonmailable pieces are returned to the sender.

* * * * *

5.0 CLASS TREATMENT FOR ANCILLARY SERVICES

* * * * *

5.2 Periodicals

Undeliverable Periodicals (including publications pending Periodicals authorization) are treated as described in the chart below and under these conditions:

* * * * *

[Amend item 5.2e to show that the nonmachinable surcharge can be charged on Periodicals returned at First-Class Mail single-piece rates to read as follows:]

e. The publisher may request the return of copies of undelivered Periodicals by printing the endorsement “Address Service Requested” on the envelopes or wrappers, or on one of the outside covers of unwrapped copies, immediately preceded by the sender's name, address, and ZIP+4 or 5-digit ZIP Code. This endorsement obligates the publisher to pay return postage. Each returned piece is charged the single-piece First-Class Mail or Priority Mail rate applicable for the weight of the piece, plus the nonmachinable surcharge if it applies (see E130). When the address correction is provided incidental to the return of the piece, there is no charge for the correction.

* * * * *

5.3 Standard Mail

Undeliverable Standard Mail is treated as described in the chart below and under these conditions:

* * * * *

[Amend item 5.3g to show that the nonmachinable surcharge is included in the calculation of the weighted fee for returned pieces to read as follows:]

g. A weighted fee is charged when an unforwardable or undeliverable piece is returned to the sender and the piece is endorsed “Address Service Requested” or “Forwarding Service Requested.” The weighted fee is the single-piece First-Class Mail or Priority Mail rate applicable for the weight of the piece, plus the nonmachinable surcharge if it applies (see E130), multiplied by 2.472 and rounded up to the next whole cent (if the computation yields a fraction of a cent). The weighted fee is computed (and rounded if necessary) for each piece individually. Using “Address Service Requested” or “Forwarding Service Requested” obligates the sender to pay the weighted fee on all returned pieces.

[Redesignate current item 5.3h as 5.3i, and add new item 5.3h to show that the First-Class Mail nonmachinable surcharge is charged on some returned pieces to read as follows:]

h. Returned pieces endorsed “Return Service Requested,” are charged the single-piece First-Class Mail or Priority Mail rate applicable for the weight of the piece, plus the nonmachinable surcharge if it applies (see E130).

* * * * *

6.0 ENCLOSURES AND ATTACHMENTS

6.1 Periodicals

[Amend 6.1 to show that the nonmachinable surcharge can be charged on Periodicals returned at First-Class Mail single-piece rates to read as follows:]

Undeliverable Periodicals (including publications pending Periodicals authorization) with a nonincidental First-Class Mail attachment or enclosure are returned at the single-piece First-Class Mail or Priority Mail rate applicable for the weight of the piece, plus the nonmachinable surcharge if it applies (see E130). The weight of the attachment or enclosure is not included when computing the charges for return of the mailpiece. Undeliverable Periodicals (including publications pending Periodicals authorization) with an incidental First-Class Mail attachment or enclosure are treated as dead mail unless endorsed “Address Service Requested.”

6.2 Standard Mail

[Amend 6.2 to show that the nonmachinable surcharge can be charged on Standard Mail returned at First-Class Mail single-piece rates to read as follows:]

Undeliverable, unendorsed Standard Mail with a nonincidental First-Class Mail attachment or enclosure is returned at the single-piece First-Class Mail or Priority Mail rate applicable for the weight of the piece, plus the nonmachinable surcharge if it applies (see E130). The weight of the First-Class Mail attachment or enclosure is not included when computing the charges for return of the mailpiece. Undeliverable, unendorsed Standard Mail with an incidental First-Class Mail attachment or enclosure is treated as dead mail.

* * * * *

F030 Address Correction, Address Change, FASTforward, and Return Services

1.0 ADDRESS CORRECTION SERVICE

1.1 Purposes

[Add a new sentence after the first sentence in 1.1 to clarify the conditions under which address notices are provided to read as follows:]

* * * Address corrections and notices are not provided for customers who file a temporary change of address or for individuals at a business address (see F020.1.0). * * *

* * * * *

G General Information

G000 The USPS and Mailing Standards

* * * * *

G020 Mailing Standards

* * * * *

2.0 MAILER COMPLIANCE WITH STANDARDS

[Amend 2.1 to clarify that signing a postage statement certifies that the mail meets all standards for the rates claimed.]

2.1 Mailer Responsibility

A mailer must comply with all applicable postal standards. Despite any statement in this document or by any USPS employee, the burden rests with the mailer to comply with the laws and standards governing domestic mail. For mailings that require a postage statement, the mailer certifies compliance with all applicable postal standards when signing the corresponding postage statement. Questions on mail classification and special mail services may be directed to local USPS representatives (e.g., business mail entry managers). Rates and classification service centers (RCSCs) can help local post offices answer customer questions on mailing standards (G042 lists the areas served by the RCSCs).

* * * * *

G090 Experimental Classifications and Rates

G091 NetPost Mailing Online

* * * * *

4.0 POSTAGE AND FEES

4.1 Postage

[Revise 4.1 to show the new automation rate categories for First-Class Mail and Standard Mail.] Documents mailed during the experiment are eligible for the following rate categories only:

a. First-Class Mail automation letters and cards mixed AADC rates.

b. First-Class Mail automation flats mixed ADC rates.

c. First-Class Mail single-piece rates.

d. Regular Standard Mail automation letters mixed AADC rates.

e. Regular Standard Mail automation flats basic rates.

f. Nonprofit Standard Mail automation letters mixed AADC rates.

g. Nonprofit Standard Mail automation flats basic rates.

* * * * *

[Delete G094 in its entirety. The Ride-Along becomes a permanent classification; the standards are moved to new E260.]

* * * * *

L Labeling Lists

* * * * *

L800 Automation Rate Mailings

* * * * *

[Amend the title and the first sentence in the summary of L802 by adding “Bound Printed Matter” to read as follows:]

L802 BMC/ASF Entry—Periodicals, Standard Mail, and Bound Printed Matter

Summary

L802 describes the service area by individual 3-digit ZIP Code prefix for mixed automation rate Periodicals, Standard Mail, and Bound Printed Matter mailings entered at an ASF or BMC. * * *

[Amend the title and the first sentence in the summary of L803 by adding “Bound Printed Matter” to read as follows:]

L803 Non-BMC/ASF Entry—Periodicals, Standard Mail, and Bound Printed Matter

Summary

L803 describes the service area by individual 3-digit ZIP Code prefix for mixed automation rate Periodicals, Standard Mail, and Bound Printed Matter mailings. * * *

* * * * *

M Mail Preparation and Sortation

M000 General Preparation Standards

M010 Mailpieces

M011 Basic Standards

1.0 TERMS AND CONDITIONS

* * * * *

1.2 Presort Levels

* * * * *

[Amend 1.2e and f by inserting “Bound Printed Matter flats” to read as follows:]

e. 5-digit scheme carrier routes (sacks) for Periodicals flats and irregular parcels, Standard Mail flats and Bound Printed Matter flats: * * *

f. 5-digit scheme (pallets) for Periodicals flats and irregular parcels, Standard Mail flats, and Bound Printed Matter flats: * * *

1.3 Preparation Instructions

For purposes of preparing mail:

* * * * *

[Amend item 1.3b to show that a full letter tray can be anywhere between 75% and 100% full (the preferred default for presort software is 85%):]

b. A full letter tray is one in which faced, upright pieces fill the length of the tray between 75% and 100% full.

* * * * *

1.4 Mailing

Mailings are defined as:

* * * * *

[Amend item 1.4b to remove references to the upgradable preparation and to show that machinable and nonmachinable pieces cannot be part of the same mailing. Combine item 1.4c, First-Class Cards, with item 1.4b. Redesignate items 1.4d through 1.4f as 1.4c through 1.4e, respectively.]

b. First-Class Mail. Cards and letters must be prepared as separate mailings except that they may be sorted together if each meets separate minimum volume mailing requirements. The following types of First-Class Mail may not be part of the same mailing despite being in the same processing category:

(1) Automation rate and any other type of mail.

(2) Presorted rate and any other type of mail.

(3) Single-piece rate and any other type of mail.

(4) Machinable and nonmachinable pieces.

* * * * *

[Amend redesignated item 1.4d, Standard Mail, to remove references to the upgradable preparation, to show that machinable and nonmachinable pieces cannot be part of the same mailing, and to show that ECR letter rate pieces and ECR nonletter rate pieces cannot be part of the same mailing.]

d. Standard Mail. Except as provided in E620.1.2, the types of Standard Mail listed below may not be part of the same mailing. See M041, M045, M610, and M620 for copalletized, combined, or mixed-rate mailings.

(1) Automation Enhanced Carrier Route and any other type of mail.

(2) Automation rate and any other type of mail.

(3) Enhanced Carrier Route and any other type of mail.

(4) Enhanced Carrier Route letter rate pieces and Enhanced Carrier Route nonletter rate pieces.

(5) Presorted rate mail and any other type of mail.

(6) Machinable and nonmachinable pieces.

(7) Except as provided by standard, Regular mail may not be in the same mailing as Nonprofit mail, and Enhanced Carrier Route mail may not be in the same mailing as Nonprofit Enhanced Carrier Route mail.

* * * * *

M012 Markings and Endorsements

* * * * *

2.0 MARKINGS—FIRST-CLASS MAIL AND STANDARD MAIL

* * * * *

2.2 Exceptions to Markings

[Amend item 2.2d to update the required MLOCR markings:]

Exceptions are as follows:

* * * * *

d. MLOCR Prepared Automation Mailings. The basic marking must appear in the postage area on each piece as required in 2.1a. The other “AUTO” marking described in 2.1b must be replaced by the appropriate identifier/rate code marking described in P960 on those pieces that have the marking applied by an MLOCR. This seven-character marking provides a description of the Product Month Designator, MASS/FASTforward System Identifier, postage payment method, and the rate of postage affixed for metered and precanceled stamp mail or other postage information for permit imprint mail.

3.0 MARKINGS—PACKAGE SERVICES

* * * * *

[Revise 3.3 to read as follows:]

3.3 Additional Bound Printed Matter Markings

In addition to the basic marking in 3.1, each piece of Bound Printed Matter mailed at a presorted or carrier route rate must bear additional rate markings. The additional markings may be placed in the postage area as specified in 3.1. Alternatively, these markings may be placed in the address area on the line directly above or two lines above the address if the marking appears alone, or if no other information appears on the line with the marking except postal optional endorsement line information under M013 or postal carrier route package information under M014. The additional rate markings are:

a. For Presorted rate mail, the additional required marking is “Presorted” (or “PRSRT”). For presorted flats claiming the barcoded discount prepared under M820, the optional marking “AUTO” may be used in place of “Presorted” (or “PRSRT”). If the “AUTO” marking is not used, the automation rate flats must bear the “Presorted” (or “PRSRT”) rate marking.

b. For carrier route rate mail, the additional required marking is “Carrier Route Presort” (or “CAR-RT SORT”).

* * * * *

4.0 ENDORSEMENTS—DELIVERY AND ANCILLARY SERVICES

* * * * *

[Remove 4.5, OCR Read Area.]

* * * * *

M020 Packages

1.0 BASIC STANDARDS

* * * * *

[Amend the title of 1.6 to include Media Mail and Library Mail to read as follows:]

1.6 Package Size—Bound Printed Matter, Media Mail, and Library Mail

[Amend 1.6 to read as follows:]

Each logical package (the total group of pieces for a package destination) of Bound Printed Matter, Media Mail, and Library Mail must meet the applicable minimum and maximum package size standards in M045, M722, M730, M740, or M820. The pieces in the logical package must then be secured in a physical package or packages. Wherever possible, each physical package for a logical package destination should contain at least the minimum package size. The size of each physical package for a specific logical package destination may, however, contain the exact package minimum, more pieces than the package minimum, or fewer pieces than the package minimum depending on the size of the pieces in the mailing or the total quantity of the pieces to that destination. Unless otherwise noted, the maximum weight for packages in sacks is 20 pounds. Except for mixed ADC packages and for carrier route packages prepared in sacks, each physical package of Bound Printed Matter must contain at least two pieces. For carrier route rate Bound Printed Matter prepared in sacks, the last physical package to an individual carrier route may consist of a single addressed piece, provided that all other packages to that carrier route destination contain at least two addressed pieces, and that the total group of pieces to that carrier route (the logical package) meets the carrier route rate eligibility minimum in E712. Packages prepared on pallets must meet the additional packaging requirements under M045 and each physical package, including carrier route rate mail, must always contain at least two pieces.

* * * * *

[Amend the title in 2.0 to show that the standards apply to all classes of mail.]

2.0 ADDITIONAL STANDARDS

2.1 Cards and Letter-Size Pieces

Cards and letter-size pieces are subject to these packaging standards:

* * * * *

[Amend item 2.1c to remove references to the upgradable preparation for First-Class Mail and Standard Mail and to show that nonmachinable and “manual only” pieces must be packaged to read as follows:]

c. Packages must be prepared for mail in all less-than-full trays and 3-digit carrier routes trays; for nonmachinable Presorted First-Class Mail; for nonmachinable Presorted Standard Mail; for First-Class Mail and Standard Mail pieces where the mailer has requested “manual only” processing; and for nonautomation Periodicals.

* * * * *

2.2 Flat-Size Pieces

[Amend 2.2 to add references to Media Mail and Library Mail to read as follows:]

Packages of flat-size pieces must be secure and stable subject to the following:

a. If placed on pallets, the specific weight limits in M045.

b. If placed in sacks:

(1) For Periodicals and Standard Mail, the specific weight and height limits in 1.8.

(2) For Bound Printed Matter, the specific weight limits in M720.

(3) For Media Mail and Library Mail, the specific weight limits in M730 and M740, as applicable.

* * * * *

M030 Containers

M031 Labels

* * * * *

4.0 PALLET LABELS

* * * * *

[Amend the title and contents of 4.9 for clarity.]

4.9 Barcoded Status

Pallet labels must indicate whether the mail on the pallet is barcoded, or not barcoded, or both. Specific Line 2 label information is in M045, M920, M930, and M940.

* * * * *

5.0 SECOND LINE CODES

The codes shown below must be used as appropriate on Line 2 of sack, tray, and pallet labels.

[Amend the table in 5.0 to add a second line code for manual letter-size pieces and nonmachinable parcels and to revise the entries for carrier routes, letters, and machinable parcels. The entries should be inserted in alphabetical order to read as follows:]

Content type | Code
[Revise the code for Carrier Routes to add a new code:] Carrier Routes | CR-RT or CR-RTS
[Revise the code for Letters to add a new code:] Letters | LTR or LTRS
[Revise the entry for Machinable to apply to all classes and processing categories:] Machinable | MACH
[Add a new entry for manual processing:] Manual (cannot be processed on automated equipment or mailer requests manual processing) | MAN or MANUAL
Nonmachinable | NON MACH

M032 Barcoded Labels

1.0 BASIC STANDARDS—TRAY AND SACK LABELS

1.1 Use

[Amend 1.1 to reorganize the section and to show that barcoded tray labels are required for Enhanced Carrier Route high-density and saturation letters. Add new “e” for Barcoded Bound Printed Matter flats.]

Only tray labels may be used for trays; only sack labels may be used for sacks. Mailer-produced barcoded tray and sack labels must meet the standards in M032. Information on labels must be machine-printed. Revisions to preprinted barcoded labels (e.g., handwritten changes) are not permitted. Labels must be inserted completely into the label holder to ensure that they do not fall out during processing. The following types of mail must have barcoded tray or sack labels:

a. Automation First-Class Mail, Periodicals, and Standard Mail letter-size and flat-size pieces.

b. First-Class Mail flat-size pieces co-trayed under M910.

c. Periodicals and Standard Mail flat-size pieces co-sacked under M910 or M920.

d. Standard Mail Enhanced Carrier Route high-density and saturation letter-size pieces. (Barcoded tray labels are not required for letter-size pieces mailed at the nonletter rate.)

e. Barcoded Bound Printed Matter flat-size pieces.

* * * * *

Exhibit 1.3a 3-Digit Content Identifier Numbers

[Amend Exhibit 1.3a by adding new categories and Content Identifier Numbers. Also, in the human-readable content line for First-Class Mail and Standard Mail letters, replace “LTRS” with “LTR” and “CR-RTS” with “CR-RT.” The footnotes are unchanged.]

Class and mailing | CIN | Human-readable content line
FIRST-CLASS MAIL
[For “FCM Letters—Automation,” in the human-readable content line, replace “LTRS” with “LTR” and “CR-RTS” with “CR-RT” for all entries. Amend the human-readable content line for the 5-digit carrier routes tray for consistency:]
5-digit carrier routes trays | 264 | FCM LTR 5D CR-RT BC
[For “FCM Letters—Presorted (Basic Preparation),” change the title and human-readable content line information.] | FCM Letters—Presorted Nonmachinable (requires or requests manual processing):
5-digit trays | 267 | FCM LTR 5D MANUAL
3-digit trays | 269 | FCM LTR 3D MANUAL
ADC trays | 270 | FCM LTR ADC MANUAL
Mixed ADC trays | 268 | FCM LTR MANUAL WKG
[Delete the entry for “FCM Letters—Presorted(Nonautomation Processing).”] |  |
[For “FCM Letters—Presorted (Upgradable Preparation),” change the title and human-readable content line information to read as follows:]
FCM Letters—Presorted Machinable:
5-digit trays | 252 | FCM LTR 5D MACH
3-digit trays | 255 | FCM LTR 3D MACH
AADC trays | 258 | FCM LTR AADC MACH
Mixed AADC trays | 260 | FCM LTR MACH WKG
STANDARD MAIL
[For “Enhanced Carrier Route Letters—Automation,” in the human-readable content line, replace “LTRS” with “LTR” and “CR-RTS” with “CR-RT” for all entries. Amend the human-readable content line for the 5-digit carrier routes tray for consistency:]
5-digit carrier routes trays | 564 | STD LTR 5D CR-RT BC
[For “Enhanced Carrier Route Letters—Nonautomation,” change the title and human-readable content line information to show that saturation and high-density letters must be barcoded to read as follows:]
Enhanced Carrier Route Letters—Barcoded:
Saturation rate trays | 557 | STD LTR BC WSS (1)
High density rate trays | 557 | STD LTR BC WSS (1)
Basic rate trays | 557 | STD LTR BC LOT (1)
5-digit carrier routes trays | 564 | STD LTR 5D CR-RT BC
3-digit carrier routes trays | 565 | STD LTR 3D CR-RT BC
[Add the following entry for ECR letters that are not barcoded but are machinable (for mailers who choose not to barcode their machinable pieces):]
Enhanced Carrier Route Letters—Nonautomation (Not Barcoded but Machinable):
Saturation rate trays | 569 | STD LTR MACH WSS (1)
High density rate trays | 569 | STD LTR MACH WSH (1)
Basic rate trays | 569 | STD LTR MACH LOT (1)
5-digit carrier routes trays | 567 | STD LTR 5D CR-RT MACH
3-digit carrier routes trays | 568 | STD LTR 3D CR-RT MACH
[Add the following entry for ECR letters that are not machinable (regardless of whether the pieces are barcoded):]
Enhanced Carrier Route Letters—Nonautomation (Nonmachinable):
Saturation rate trays | 608 | STD LTR MAN WSS (1)
High density rate trays | 608 | STD LTR MAN WSH (1)
Basic rate trays | 608 | STD LTR MAN LOT (1)
5-digit carrier routes trays | 609 | STD LTR 5D CR-RT MAN
3-digit carrier routes trays | 611 | STD LTR 3D CR-RT MAN
[For “STD Letters—Automation,” in the human-readable content line, replace “LTRS” with “LTR” for all entries.]
[For “STD Letters—Presorted (Basic Preparation)” change the title and the human-readable content line information to read as follows:]
STD Letters—Presorted Nonmachinable (requires or requests manual processing):
5-digit trays | 604 | STD LTR 5D MANUAL
3-digit trays | 606 | STD LTR 3D MANUAL
ADC trays | 607 | STD LTR ADC MANUAL
Mixed ADC trays | 605 | STD LTR MANUAL WKG
[Delete the entry for “STD Letters—Presorted (Nonautomation Processing).”]
[For “STD Letters—Presorted (Upgradable Preparation),” change the title and the human-readable content lines information to read as follows:]
STD Letters—Presorted Machinable:
5-digit trays | 552 | STD LTR 5D MACH
3-digit trays | 555 | STD LTR 3D MACH
AADC trays | 558 | STD LTR AADC MACH
Mixed AADC trays | 560 | STD LTR MACH WKG
PACKAGES SERVICES
[Add the following entries for “Bound Printed Matter Flats—Automation” to read as follows:]
Bound Printed Matter Flats—Automation:
5-digit sacks | 635 | PSVC FLTS 5D BC
3-digit sacks | 636 | PSVC FLTS 3D BC
SCF sacks | 637 | PSVC FLTS SCF BC
ADC sacks | 638 | PSVC FLTS ADC BC
Mixed ADC sacks | 639 | PSVC FLTS BC WKG
[Replace the entries for Media Mail and Library Mail Flats to read as follows:]
Media Mail and Library Mail Flats—Presorted:
5-digit sacks | 649 | PSVC FLTS 5D NON BC
3-digit sacks | 650 | PSVC FLTS 3D NON
ADC sacks | 651 | PSVC FLTS ADC NON BC
Mixed ADC sacks | 653 | PSVC FLTS NON BC WKG
[Replace the entries for Media Mail and Library Mail Irregular Parcels to read as follows:]
Media Mail and Library Mail Irregular Parcels—Presorted:
5-digit scheme sacks | 690 | PSVC IRREG 5D SCH
5-digit sacks | 690 | PSVC IRREG 5D
3-digit sacks | 691 | PSVC IRREG 3D
ADC sacks | 692 | PSVC IRREG ADC
Mixed ADC sacks | 694 | PSVC IRREG WKG
[Replace the entries for Media Mail and Library Mail Machinable Parcels to read as follows:]
Media Mail and Library Mail Machinable Parcels—Presorted:
5-digit scheme sacks | 680 | PSVC MACH 5D SCH
5-digit scheme | 680 | PSVC MACH 5D
ASF sacks | 682 | PSVC MACH ASF
BMC sacks | 683 | PSVC MACH BMC
Mixed BMC sacks | 684 | PSVC MACH WKG
[Add the following entry for “Parcel Post—Irregular (Nonmachinable) Parcels” to read as follows:]
3-digit sacks | 691 | PSVC IRREG 3D

* * * * *

2.0 ADDITIONAL STANDARDS—BARCODED TRAY LABELS

* * * * *

2.4 Barcode

The label barcode must meet these specifications:

[Amend item 2.4b to replace references to upgradable mail with references to machinable mail.]

b. Information. The barcode must represent:

(1) The 5-digit ZIP Code destination of the tray (for trays with a 3-digit destination, this is the 3-digit ZIP Code prefix followed by two zeros);

(2) The 3-digit content identifier number (CIN) applicable to the content of the tray in Exhibit 1.3a; and

(3) The applicable 2-digit USPS processing code. The 2-digit processing code “01” is used for automation rate and machinable letters. The 2-digit processing code “01” also is used for First-Class Mail automation rate flats and for First-Class Mail co-trayed automation rate and Presorted rate flats. The processing code “07” is used for all other mail.

M033 Sacks and Trays

* * * * *

2.0 FIRST-CLASS MAIL, PERIODICALS, AND STANDARD MAIL

2.1 Letter Tray Preparation

[Revise 2.1 in its entirety to reorganize and clarify the standards for letter trays to read as follows:]

Letter trays are prepared as follows:

a. Subject to availability of equipment, standard managed mail (MM) trays must be used for all letter-size mail, except that extended MM (EMM) trays must be used when available for letter-size mail that exceeds the inside dimensions of MM trays defined in 1.3. When EMM trays are not available for those larger pieces, they must be placed in MM trays, angled back, or placed upright perpendicular to the length of the tray in row(s) to preserve their orientation.

b. Pieces must be “faced” (oriented with all addresses in the same direction with the postage area in the upper right).

c. Each tray prepared must be filled before filling the next tray, with the contents in multiple trays relatively balanced. When preparing full trays, mailers must fill all possible 2-foot trays first; if there is mail remaining for the presort destination, then mailers must use a combination of 1-foot and 2-foot trays that results in the fewest total number of trays.

d. For presort destinations that do not require full trays, pieces are placed in a less-than-full tray.

e. Mailers must use as few trays as possible without jeopardizing rate eligibility. For instance, a mailer will never have two 1-foot trays to a single destination; instead, that mail must be placed in a single 2-foot tray. A 1-foot tray is prepared only if it is a full tray with no overflow; or if there is less than 1 foot of mail for that destination; or if the overflow from a full 2-foot tray is less than 1 foot of mail.

f. Each tray must bear the correct tray label.

g. Each tray must be sleeved and strapped under 1.5 and 1.6.

h. If a mailing is prepared using an MLOCR/barcode sorter and is submitted with standardized documentation, then pieces do not have to be grouped by 3-digit ZIP Code prefix (or by 3-digit scheme, if applicable) in AADC trays, or by AADC in mixed AADC trays.

* * * * *

M040 Pallets

M041 General Standards

* * * * *

5.0 PREPARATION

* * * * *

5.2 Required Preparation

These standards apply to:

[Amend item 5.2a to show that letter trays on pallets can be measured by linear feet in addition to the number of layers of trays.]

a. Periodicals, Standard Mail, and Package Services (except for Parcel Post mailed at BMC Presort, OBMC Presort, DSCF, and DDU rates). A pallet must be prepared to a required sortation level when there are 500 pounds of packages, sacks, or parcels or 72 linear feet or 6 layers of letter trays. For packages of Periodicals flats and irregular parcels and packages of Standard Mail flats on pallets that are prepared under the standards for package reallocation to protect the SCF pallet (M045.4.0), not all mail for a 5-digit scheme carrier routes, 5-digit scheme, 5-digit carrier routes, or 5-digit pallet or for a merged 5-digit scheme, merged 5-digit, or 3-digit pallet is required to be on that corresponding pallet level. For packages of Standard Mail flats on pallets prepared under the standards for package reallocation to protect the BMC pallet (M045.5.0), not all mail for a required ASF pallet must be on an ASF pallet. Mixed ADC or mixed BMC pallets of sacks, trays, or machinable parcels, as appropriate, must be labeled to the BMC or ADC (as appropriate) serving the post office where mailings are entered into the mailstream. The processing and distribution manager of that facility may issue a written authorization to the mailer to label mixed BMC or mixed ADC pallets to the post office or processing and distribution center serving the post office where mailings are entered. These pallets contain all mail remaining after required and optional pallets are prepared to finer sortation levels under M045, as appropriate.

* * * * *

5.3 Minimum Load

These standards apply to:

[Revise item 5.3a to show that letter trays on pallets can be measured by linear feet in addition to the number of layers of trays.]

a. Periodicals, Standard Mail, and Package Services (except for Parcel Post mailed at BMC Presort, OBMC Presort, DSCF, and DDU rates). In a single mailing, the minimum load per pallet is 250 pounds of packages, parcels, or sacks; or 36 linear feet or three layers of letter trays. In a mailing or mailing job presented for acceptance at a single postal facility, one overflow pallet with less than the required minimum may be prepared for mail destinating in the service area of the entry facility; that pallet must be properly labeled under M045. Exceptions: There is no minimum load for pallets entered at a destination delivery unit if the mail on those pallets is for that unit's service area. For mail entered at an SCF, the SCF manager must authorize in writing preparation of any 5-digit, 3-digit, or SCF pallet containing less than the minimum required load if the mail on those pallets is for that SCF's service area.

* * * * *

5.6 Mail on Pallets

These standards apply to mail on pallets:

* * * * *

[Redesignate items 5.6d through 5.6h as items 5.6e through 5.6i, respectively. Add new item 5.6d to show that letter trays on pallets are measured by linear feet or by the number of layers of trays.]

d. For determining minimum pallet volume, mail in letter trays is measured in full layers of trays or in linear feet. A 2-foot tray equals 2 linear feet; a 1-foot tray equals 1 linear foot.

* * * * *

M045 Palletized Mailings

* * * * *

3.0 PALLET PRESORT AND LABELING

* * * * *

3.2 Standard Mail Packages, Sacks, Irregular Parcels, or Trays on Pallets

Mailers must prepare pallets in the sequence listed below, except that mailings of sacks and trays must be prepared beginning with 3.2c (because scheme sort is not permitted). Pallets must be labeled according to the Line 1 and Line 2 information listed below and under M031. At the mailer's option, packages of Standard Mail flats may be palletized using the advanced presort options under M920, M930, or M940.

* * * * *

[Amend item 3.2c to show that pallets of carrier route letters must show on Line 2 of the pallet label whether the pieces are barcoded or not barcoded to read as follows:]

c. 5-Digit Carrier Routes. Required for sacks and packages; optional for trays. May contain only carrier route rate mail for the same 5-digit ZIP Code.

(1) Line 1: use city, state abbreviation, and 5-digit ZIP Code destination (see M031 for military mail).

(2) Line 2: For flats and irregulars, “STD FLTS” or “STD IRREG”; followed by “CARRIER ROUTES” or “CR-RTS.” For trays, “STD LTRS”; followed by “CARRIER ROUTES” or “CR-RTS”; followed by “BC” if the pallet contains barcoded letters; followed by “MACH” if the pallet contains machinable letters; followed by “MAN” if the pallet contains nonmachinable letters.

* * * * *

[Amend items 3.2f through 3.2j to show that pallets that trays of letters must indicate on Line 2 of the pallet label whether the pieces are barcoded (“BC”), machinable (“MACH”), or nonmachinable (“MAN”):]

f. 3-Digit. Optional. May contain carrier route rate, automation rate, and/or Presorted rate mail.

(1) Line 1: use L002, Column A.

(2) Line 2: For flats and irregulars, “STD FLTS 3D” or “STD IRREG 3D”; followed by “BARCODED” or “BC” if the pallet contains automation rate mail; followed by “NONBARCODED” or “NBC” if the pallet contains Presorted rate and/or carrier route rate mail. For letters, “STD LTRS 3D”; followed by “BC” if the pallet contains barcoded letters; followed by “MACH” if the pallet contains machinable letters; followed by “MAN” if the pallet contains nonmachinable letters.

g. SCF. Required. May contain carrier route rate, automation rate, and/or Presorted rate mail.

(1) Line 1: use L002, Column C.

(2) Line 2: For flats and irregulars, “STD FLTS SCF” or “STD IRREG SCF”; followed by “BARCODED” or “BC” if the pallet contains automation rate mail; followed by “NONBARCODED” or “NBC” if the pallet contains Presorted rate and/or carrier route rate mail. For letters, “STD LTRS SCF”; followed by “BC” if the pallet contains barcoded letters; followed by “MACH” if the pallet contains machinable letters; followed by “MAN” if the pallet contains nonmachinable letters.

h. ASF. Required, except that an ASF sort may not be required if using package reallocation for flats to protect the BMC pallet under 5.0. May contain carrier route rate, automation rate, and/or Presorted rate mail. Sort ADC packages, trays, or sacks to ASF pallets based on the “label to” ZIP Code for the ADC destination of the package, tray, or sack in L004 (letters or flats) or L603 (irregular parcels). Sort AADC trays to ASF pallets based on the “label to” ZIP Code for the AADC destination of the tray in L801. See E650.5.0 for additional requirements for DBMC rate eligibility.

(1) Line 1: use L602.

(2) Line 2: For flats and irregulars, “STD FLTS ASF” or “STD IRREG ASF”; followed by “BARCODED” or “BC” if the pallet contains automation rate mail; followed by “NONBARCODED” or “NBC” if the pallet contains Presorted rate and/or carrier route rate mail. For letters, “STD LTRS ASF”; followed by “BC” if the pallet contains barcoded letters; followed by “MACH” if the pallet contains machinable letters; followed by “MAN” if the pallet contains nonmachinable letters.

i. BMC. Required. May contain carrier route rate, automation rate, and/or Presorted rate mail. Sort ADC packages, trays, or sacks to BMC pallets based on the “label to” ZIP Code for the ADC destination of the package, tray, or sack in L004 (letters or flats) or L603 (irregular parcels). Sort AADC trays to BMC pallets based on the “label to” ZIP Code for the AADC destination of the tray in L801. See E650.5.0 for additional requirements for DBMC rate eligibility.

(1) Line 1: use L601.

(2) Line 2: For flats and irregulars, “STD FLTS BMC” or “STD IRREG BMC”; followed by “BARCODED” or “BC” if the pallet contains automation rate mail; followed by “NONBARCODED” or “NBC” if the pallet contains Presorted rate and/or carrier route rate mail. For letters, “STD LTRS BMC”; followed by “BC” if the pallet contains barcoded letters; followed by “MACH” if the pallet contains machinable letters; followed by “MAN” if the pallet contains nonmachinable letters.

j. Mixed BMC (for sacks and trays on pallets only). Optional. May contain carrier route rate, automation rate, and/or Presorted rate mail.

(1) Line 1: use “MXD” followed by the information in L601, Column B, for the BMC serving the 3-digit ZIP Code prefix of the entry post office (label to plant serving entry post office if authorized by the processing and distribution manager).

(2) Line 2: For flats and irregulars, “STD FLTS” or “STD IRREG”; followed by “BARCODED” or “BC” if the pallet contains automation rate mail; followed by “NONBARCODED” or “NBC” if the pallet contains Presorted rate and/or carrier route rate mail; followed by “WKG.” For letters, “STD LTRS”; followed by “BC” if the pallet contains barcoded letters; followed by “MACH” if the pallet contains machinable letters; followed by “MAN” if the pallet contains nonmachinable letters; followed by “WKG.”

[Revise title of 3.3 to read as follows and amend items a, b, c, and e to add BPM in the first sentence in front of flats to show that this sort level is for Bound Printed Matter only:]

3.3 Package Service Flats—Packages and Sacks on Pallets

* * * * *

[Revise the title of 3.4 to read as follows:]

3.4 Package Services Irregular Parcels—Packages and Sacks on Pallets

* * * * *

[Revise the title of 3.5 to read as follows:]

3.5 Machinable Parcels—Standard Mail and Package Services

* * * * *

[Remove 3.6, Presorted Media Mail and Library Mail.]

* * * * *

[Amend 12.0 by adding “and 3-digit” following each mention of 5-digit scheme or 5-digit and revise to read as follows:]

12.0 PARCEL POST DSCF RATES—PARCELS ON PALLETS

12.1 Basic Preparation, Parcels on Pallets

Unless prepared under 12.2, or in sacks under M710, mail must be prepared for the DSCF rate as follows:

a. General. Parcels for each SCF area must be sorted to 5-digit scheme, 5-digit, or 3-digit (nonmachinable) destinations on pallets. For purposes of this section, the term “pallets” includes preparation of parcels directly on pallets and in pallet boxes on pallets. Except when prepared under 12.2, each 5-digit scheme, 5-digit, and 3-digit pallet must meet a minimum volume requirement under one of the criteria in 12.2b. Machinable and nonmachinable pieces may be combined on the same pallet or in the same overflow sack when sorted to 5-digit scheme or 5-digit destinations. In a single mailing mailers may prepare some pallets under the minimum volume requirement in 12.1b(1) and some pallets under the minimum volume requirement in 12.1b(2). A mailing entered at a destination SCF facility containing pallets prepared under 12.1 also may include mail that is sacked for the DSCF rate under M710. Double stacking is permitted if the requirements of M041 are met.

b. Minimum volume. The minimum volume per 5-digit scheme, 5-digit, and 3-digit pallet can be met in one of the following ways:

(1) Pieces may be placed on 5-digit scheme, 5-digit, and 3-digit pallets, each containing at least 50 pieces and 250 pounds.

(2) Pieces may be placed on 5-digit scheme, 5-digit, and 3-digit pallets, each having a minimum height of 36 inches of mail (excluding the height of the pallet) (see M041).

c. Overflow. After filling a pallet(s) to a 5-digit scheme, 5-digit, or 3-digit destination, any remaining pieces that do not meet the minimum pallet requirements may be prepared in one of the following ways. One or both methods may be used in a single mailing:

(1) Placed in 5-digit scheme, 5-digit, or 3-digit overflow sacks (no minimum number of pieces per sack) that are labeled in accordance with the 5-digit scheme, 5-digit or 3-digit sacking requirements for the DSCF rate in M710. Overflow pieces sacked in this manner are eligible for the DSCF rates.

(2) Placed on a 5-digit scheme, 5-digit, or 3-digit pallet labeled under 12.1d that does not meet the minimums for the DSCF rate. Overflow pieces palletized in this manner are not eligible for the DSCF rates but are eligible for the DBMC rates.

d. 5-digit scheme pallet labeling:

(1) Line 1: use L606, Column B.

(2) Line 2: “PSVC PARCELS 5D SCH.”

e. 5-digit pallet labeling:

(1) Line 1: city, state, and 5-digit ZIP Code destination of contents.

(2) Line 2: “PSVC PARCELS 5D.”

f. 3-digit pallet labeling:

(1) Line 1: use L002, Column C.

(2) Line 2: “PSVC PARCELS 3D.”

g. Separation. If sacks prepared under M710 are included in the same mailing as pallets prepared under this section, at the time of acceptance the mailer must separate sacks that are overflow from palletized mail from those sacks that are prepared under the provisions of M710.

12.2 Alternate Preparation, Parcels on Pallets

DSCF rate mailings not prepared under 12.1 may be prepared as follows:

a. General. All DSCF rate mail in the mailing must be sorted to 5-digit-scheme, 5-digit, or 3-digit (nonmachinable) destinations under 12.2 (i.e., mail prepared under 12.1 and mail sacked under M710 must not be included in a mailing prepared under 12.2). For purposes of this section, the term “pallets” includes preparation of parcels directly on pallets and preparation of parcels in pallet boxes on pallets. Machinable and nonmachinable pieces may be combined on the same pallet when sorted to 5-digit scheme or 5-digit destinations. Double stacking is permitted if the requirements of M041 are met.

b. Minimum volume. To qualify for the DSCF rate, no pallet may contain fewer than 35 pieces and 200 pounds, and for the entire mailing the average number of DSCF rate pieces per 5-digit scheme, 5-digit, or 3-digit (nonmachinable) must be at least 50.

c. Overflow. After filling pallets to a 5-digit scheme, 5-digit or 3-digit destinations, any remaining pieces that do not meet the minimum pallet requirements may be prepared in one of the following ways. One or both methods may be used in a single mailing:

(1) Placed in 5-digit scheme, 5-digit, or 3-digit overflow sacks (no minimum number of pieces per sack) that are labeled in accordance with the DSCF sacking requirements in M710. Overflow pieces sacked in this manner are eligible for the DSCF rates.

(2) Placed on a 5-digit scheme, 5-digit, or 3-digit pallet labeled under 12.2d that does not meet the minimums for the DSCF rate. Overflow pieces palletized in this manner are not eligible for the DSCF rates but are eligible for the DBMC rates.

d. 5-digit scheme pallet labeling:

(1) Line 1: use L606, Column B.

(2) Line 2: “PSVC PARCELS 5D SCH.”

(3) In the mailer area below Line 3: use the pallet ID number.

e. 5-digit pallet labeling:

(1) Line 1: city, state, and 5-digit ZIP Code destination of contents.

(2) Line 2: “PSVC PARCELS 5D.”

(3) In the mailer area below Line 3: use the pallet ID number.

f. 3-digit pallet labeling:

(1) Line 1: use L002, Column C.

(2) Line 2: “PSVC PARCELS 3D.”

(3) In the mailer area below Line 3: use the pallet ID number.

g. Documentation. A list of each 5-digit scheme, 5-digit, and 3-digit pallet in the mailing that qualifies for the DSCF rate must be submitted. The pallets in the mailing that qualify for the DSCF rate must be renumbered sequentially, and this pallet identification number must be printed below Line 3 on the pallet label. The documentation must list each pallet in sequential order by pallet identification number. For each pallet, the listing must show: the pallet identification number; the applicable 5-digit scheme, 5-digit, or 3-digit destination of the pallet; the total weight of pieces on the pallet; the total number of pieces on the pallet; and the running total pieces (i.e., the number equal to the number of pieces for that pallet plus the sum of the pieces on all pallets listed before it). This documentation must not include pieces prepared in overflow sacks at the DSCF rates, pieces prepared on overflow pallets at the DBMC rates, or pieces claimed at any other rate in the mailing.

* * * * *

M050 Delivery Sequence Changes

1.0 BASIC STANDARDS

* * * * *

[Amend 1.2 to reinstate the option of placing pieces that cannot be sequenced in ascending order by ZIP+4 sector segments.]

1.2 Missing Addresses

If mailpieces cannot be sequenced because an exact match for a name or address cannot be obtained, then these pieces may be included in a sequenced mailing only if they are placed behind or after the sequenced mail. These pieces must be sequenced alphabetically by complete street name, numerically for numbered streets, and then either in ascending order by ZIP+4 Code sector segments, or numerically in ascending order by primary address.

* * * * *

4.0 DOCUMENTATION

4.1 General

[Amend the first paragraph of 4.1 to clarify that signing a postage statement certifies that the mail meets the requirements for the rates claimed to read as follows:]

The postage statement must be annotated in the “Carrier Route Sequencing Date” block on page 1. The mailer must annotate the postage statement to show the earliest (oldest) date of the method (in 4.1a through 4.1e) used to obtain sequencing information for the mailing. The mailer's signature on the postage statement certifies that this standard has been met when the corresponding mail is presented to the USPS. The mailer must maintain documentation to substantiate compliance with the standards for carrier route sequencing. Unless submitted with each corresponding mailing, the mailer must be able to provide the USPS with documentation (if requested) of accurate sequencing or delivery statistics for each carrier route to which pieces are mailed. Acceptable forms of documentation are:* * *

* * * * *

M100 First-Class Mail (Nonautomation)

* * * * *

M130 Presorted First-Class Mail

1.0 BASIC STANDARDS

* * * * *

[Amend the title and contents of 1.5 to account for the new preparation for nonmachinable pieces.]

1.5 Nonmachinable Pieces

Nonmachinable cards and letters must use the preparation sequence and tray labeling in 3.0. Nonmachinable flats must use the preparation sequence and tray labeling in 4.0.

[Redesignate 1.6, Co-Traying With Automation Rate Mail, as 1.7. Add new 1.6 for the manual only option to read as follows:]

1.6 Manual Only Option

Mailers who prefer that the USPS not automate letter-size pieces (including cards) must use the preparation sequence and tray labeling for nonmachinable pieces in 3.0. The manual only option is not available for flats.

[Replace section 2.0 with the preparation for cards and machinable letters to read as follows (this preparation is very similar to the current upgradable preparation). Machinable pieces are packaged only to maintain their orientation in the tray.]

2.0 PREPARATION—MACHINABLE LETTER-SIZE PIECES

2.1 Packaging

Machinable pieces are not packaged, except for (see M020):

a. Card-size pieces.

b. All pieces in a less-than-full origin 3-digit tray.

c. All pieces in a less-than-full mixed AADC tray.

2.2 Tray Preparation and Labeling

Preparation sequence, tray size, and labeling:

a. 5-digit: optional; full trays only; no overflow.

(1) Line 1: use city, state, and 5-digit ZIP Code on mail, preceded for military mail by prefixes under M031.

(2) Line 2: “FCM LTR 5D MACH.”

b. 3-digit: required; full trays only, except for one less-than-full tray for each origin 3-digit(s); no overflow.

(1) Line 1: use L002, Column A.

(2) Line 2: “FCM LTR 3D MACH.”

c. AADC: required; full trays only; no overflow.

(1) Line 1: use L801, Column B.

(2) Line 2: “FCM LTR AADC MACH.”

d. Mixed AADC: required; no minimum.

(1) Line 1: use “MXD” followed by city, state, and ZIP of facility serving 3-digit ZIP Code prefix of entry post office, as shown in L002, Column C.

(2) Line 2: “FCM LTR MACH WKG.”

[Replace section 3.0, Upgradable Preparation, with the preparation instructions for nonmachinable and manual only pieces to read as follows:]

3.0 PREPARATION—NONMACHINABLE LETTER-SIZE PIECES

3.1 Packaging

Packaging is required. Mailers who prefer that the USPS not automate letter-size pieces must identify each package with a facing slip on which “MANUAL ONLY” is printed or with a “MANUAL ONLY” optional endorsement line (see M013). Preparation sequence, package size, and labeling:

a. 5-digit: required (10-piece minimum); red Label D or optional endorsement line (OEL); labeling is not required for pieces in full 5-digit trays.

b. 3-digit: required (10-piece minimum); green Label 3 or OEL.

c. ADC: required (10-piece minimum); pink Label A or OEL.

d. Mixed ADC: required (no minimum); tan Label MXD or OEL.

3.2 Exception to Packaging

Under certain conditions, nonmachinable pieces may not need to be packaged (see M020.1.9).

3.3 Tray Preparation and Labeling

Preparation sequence, tray size, and labeling:

a. 5-digit: required; full trays only; no overflow.

(1) Line 1: use 5-digit city, state, and ZIP Code on mail, preceded for military mail by prefixes under M031.

(2) Line 2: “FCM LTR 5D MANUAL.”

b. 3-digit: required; full trays only, except for one less-than-full tray for each origin 3-digit(s); no overflow.

(1) Line 1: use L002, Column A.

(2) Line 2: “FCM LTR 3D MANUAL.”

c. ADC: required; full trays only; no overflow.

(1) Line 1: use L004, Column B.

(2) Line 2: “FCM LTR ADC MANUAL.”

d. Mixed ADC: required; no minimum.

(1) Line 1: use “MXD” followed by city, state, and ZIP of facility serving 3-digit ZIP Code prefix of entry post office, as shown in L002, Column C.

(2) Line 2: “FCM LTR MANUAL WKG.”

[Revise the title of 4.0 to read as follows:]

4.0 PREPARATION—FLATS

* * * * *

[Redesignate 4.2 and 4.3 as 4.3 and 4.4, respectively. Add new 4.2 to show that flats do not have to be packaged under certain conditions:]

4.2 Exception to Packaging

Under certain conditions, flat-size pieces may not need to be packaged (see M020.1.9).

* * * * *

M200 Periodicals (Nonautomation)

M210 Presort Rates

[Remove 5.0, Combining Multiple Publications or Editions. This section has moved to M230.]

* * * * *

M220 Carrier Route Rates

[Remove 5.0, Combining Multiple Publications or Editions. This section has moved to M230.]

* * * * *

[Add new M230 to read as follows:]

M230 Combining Multiple Editions or Publications of the Same Publisher

1.0 DESCRIPTION

A combined mailing is a mailing in which two or more Periodicals publications or editions are merged into a single mailstream, during production or after finished copies are produced, and all copies of all the publications or editions are presorted together into packages to achieve the finest presort level possible for the combined mailing.

2.0 VOLUME

More than one Periodicals publication, or edition of a publication, may be combined to meet the volume standard per tray, sack, or package for the rate claimed.

3.0 EACH PIECE

Each piece must meet the basic standards in E211 and the specific standards for the rate claimed.

4.0 DOCUMENTATION

Presort documentation required under P012 must also show the total number of addressed pieces and copies of each publication or edition mailed to each carrier route, 5-digit, and 3-digit destination. The publisher must also provide a list, by 3-digit ZIP Code prefix, of the number of addressed pieces and copies of each publication or edition qualifying for each destination rate.

5.0 SEPARATE POSTAGE STATEMENTS

A separate postage statement must be prepared for the per pound postage computations for each publication or edition that is part of the combined mailing. The title and issue date of the publications with which each publication or edition was combined must be noted on, or attached to, the postage statements. The per piece postage computations for all other than preferred rate publications must be calculated on the postage statement for the publication containing the higher (or highest) amount of advertising. The per piece postage computations for all preferred rate publications must be calculated on the postage statement for the publication containing the higher (or highest) amount of advertising. The nonadvertising adjustment must be computed on the appropriate postage statement for each rate category based on the publication (or edition, if applicable) containing the higher (or highest) amount of advertising matter for that rate category.

* * * * *

M600 Standard Mail (Nonautomation)

M610 Presorted Standard Mail

1.0 BASIC STANDARDS

* * * * *

[Redesignate 1.5 and 1.6 as 1.6 and 1.7, respectively. Add new 1.5 to account for the new preparation for nonmachinable pieces to read as follows:]

1.5 Nonmachinable Pieces

Nonmachinable cards and letters must use the preparation sequence and tray labeling in 3.0.

[Revise the title and contents of redesignated 1.6 to read as follows:]

1.6 Manual Only Option

Mailers who prefer that the USPS not automate letter-size pieces (including cards) must use the packaging and tray preparation sequence for nonmachinable pieces in 3.0. The manual only option is not available for flats.

* * * * *

[Replace section 2.0 with the preparation for machinable cards and letters (this preparation is very similar to the current upgradable preparation). Machinable pieces are packaged only to maintain their orientation in the tray.]

2.0 PREPARATION—MACHINABLE LETTER-SIZE PIECES

2.1 Packaging

Machinable pieces are not packaged, except for (see M020):

a. Card-size pieces.

b. All pieces in a less-than-full origin or entry 3-digit tray.

c. All pieces in a less-than-full mixed AADC tray.

2.2 Tray Preparation and Labeling

Only mail eligible for the 3/5 rate (i.e., 150 or more pieces for the 3-digit area) may be prepared in 5-digit and 3-digit trays. Preparation sequence, tray size, and labeling:

a. 5-digit: optional (full trays); no overflow.

(1) Line 1: use city, state, and 5-digit ZIP Code on mail, preceded for military mail by correct prefix under M031.

(2) Line 2: “STD LTR 5D MACH.”

b. 3-digit: required (no minimum).

(1) Line 1: use L002, Column A.

(2) Line 2: “STD LTR 3D MACH.”

c. Origin 3-digit(s): required (no minimum); optional for entry 3-digit(s) (no minimum).

(1) Line 1: use L002, Column A.

(2) Line 2: “STD LTR 3D MACH.”

d. AADC: required (full trays); no overflow; group pieces by 3-digit ZIP Code prefix.

(1) Line 1: use L801.

(2) Line 2: “STD LTR AADC MACH.”

e. Mixed AADC: required (no minimum); group pieces by AADC.

(1) Line 1: use L802 (mail entered at an ASF or BMC) or L803.

(2) Line 2: “STD LTR MACH WKG.”

[Replace 3.0, Upgradable Preparation, with the new preparation for nonmachinable pieces:]

3.0 PREPARATION—NONMACHINABLE LETTER-SIZE PIECES

3.1 Packaging

Packaging is required. Mailers who prefer that the USPS not automate their pieces must identify each package with a facing slip on which “MANUAL ONLY” is printed or with a “MANUAL ONLY” optional endorsement line (see M013). Preparation sequence, package size, and labeling:

a. 5-digit: required (10-piece minimum); red Label D or optional endorsement line (OEL); labeling is not required for pieces in full 5-digit trays.

b. 3-digit: required (10-piece minimum); green Label 3 or OEL.

c. ADC: required (10-piece minimum); pink Label A or OEL.

d. Mixed ADC: required (no minimum); tan Label MXD or OEL.

3.2 Exception to Packaging

Under certain conditions, nonmachinable pieces may not need to be packaged (see M020.1.9).

3.3 Tray Preparation and Labeling

Preparation sequence, tray size, and labeling:

a. 5-digit: required (full trays); no overflow.

(1) Line 1: use city, state, and 5-digit ZIP Code on mail, preceded for military mail by correct prefix under M031.

(2) Line 2: “STD LTR 5D MANUAL.”

b. 3-digit: required (no minimum).

(1) Line 1: use L002, Column A.

(2) Line 2: “STD LTR 3D MANUAL.”

c. Origin 3-digit(s): required (one-package minimum); optional for entry 3-digit(s) (no minimum).

(1) Line 1, use L002, Column A.

(2) Line 2: “STD LTR 3D MANUAL.”

d. ADC: required (full trays); no overflow.

(1) Line 1, use L004.

(2) Line 2: “STD LTR ADC MANUAL.”

e. Mixed ADC: required (no minimum).

(1) Line 1: use “MXD” followed by city, state, and ZIP of ADC serving 3-digit ZIP Code prefix of entry post office, as shown in L004.

(2) Line 2: “STD LTR MANUAL WKG.”

* * * * *

M620 Enhanced Carrier Route Standard Mail

* * * * *

3.0 PREPARATION—LETTER-SIZE PIECES

[Revise current 3.1 and 3.2 into a single section 3.1 and amend the Line 2 information to show the barcoded status:]

3.1 Required Tray Preparation

Preparation sequence, tray size, and labeling:

a. Carrier route: required; full trays only, no overflow.

(1) Line 1: use city, state, and 5-digit ZIP Code on package, preceded for military mail by correct prefix under M031.

(2) Line 2:

(a) Saturation: “STD LTR BC WSS,” followed by route type and number.

(b) High density: “STD LTR BC WSH,” followed by route type and number.

(c) Basic: “STD LTR BC LOT,” followed by route type and number.

b. 5-digit carrier routes: required if full tray, optional with minimum one 10-piece package.

(1) Line 1: use city, state, and 5-digit ZIP Code on package, preceded for military mail by prefix under M031.

(2) Line 2: “STD LTR 5D CR-RT BC.” c. 3-digit carrier routes: optional with minimum one 10-piece package for each of two or more 5-digit areas.

(1) Line 1: use city, state, and ZIP shown in L002, Column A, that corresponds to 3-digit ZIP Code prefix on package.

(2) Line 2: “STD LTR 3D CR-RT BC.”

[Add new 3.2 to show the Line 2 information for trays containing mail that is machinable but is not barcoded.]

3.2 Tray Line 2 for Machinable Nonbarcoded Pieces

For trays that contain letter-size pieces that are machinable but not barcoded, use “MACH” on Line 2 in place of “BC.”

[Add new 3.3 to show the Line 2 information for trays containing mail that is nonmachinable (barcoded or not):]

3.3 Tray Line 2 for Nonmachinable Pieces

For trays that contain letter-size pieces that are nonmachinable, use “MAN” on Line 2 in place of “BC.”

[Add new 3.4 to show the Line 2 information for trays containing mail with a simplified address:]

3.4 Tray Line 2 for Pieces with Simplified Address

For trays that contain letter-size pieces with a simplified address, use “MAN” on Line 2 in place of “BC.”

4.0 SACK PREPARATION—FLATS

4.1 Required Sack Minimums

A sack must be prepared when the quantity of mail for a required presort destination reaches either 125 pieces or 15 pounds of pieces, whichever occurs first, subject to these conditions:

[Add new item d to show an exception to the sack minimum for saturation rate pieces. This standard was moved from E630.4.1.]

d. Sacks with fewer than 125 pieces or less than 15 pounds of pieces may be prepared to a carrier route when the saturation rate is claimed for the contents and the applicable density standard is met.

* * * * *

M700 Package Services

M710 Parcel Post

* * * * *

2.0 DSCF RATE

[Amend 2.1 to add DSCF rate 3-digit nonmachinable parcels to read as follows:]

2.1 General

To qualify for the DSCF rate, pieces must be for the same SCF area under L005 and must be prepared as follows:

a. Sorted to optional 5-digit scheme destinations under L606, Column B, and 5-digit destinations, either in sacks under 2.2 or directly on pallets or in pallet boxes on pallets under M041 and M045. Pieces must be part of a mailing of at least 50 Parcel Post pieces. They must be entered at the designated SCF under L005 that serves the 5-digit ZIP Code destinations of the pieces except when palletized and entry is required at a BMC (see Exhibit E751.6.0). The DSCF rate is not available for palletized mail for facilities that are unable to handle palletized mailings. Refer to the Drop Shipment Product available from the National Customer Support Center (NCSC) (see G043) and Exhibits E751.7.0 and E751.8.0 to determine if the facility serving the 5-digit destination can handle pallets. There is a charge for the Drop Shipment Product.

b. Any remaining nonmachinable parcels (as defined in C700.2.0) sorted to 3-digit ZIP Code prefixes in L002, Column C. Machinable parcels may not be sorted to the 3-digit level.

* * * * *

[Amend 2.2 by redesignating “e” as “f” and adding new “e” and revising “f” to add sack preparation requirements for DSCF rate nonmachinable parcels to read as follows:]

e. 3-digit nonmachinable sack labeling: Line 1, use L002, Column A; for Line 2, “PSVC IRREG 3D.”

f. See M045 for option to place 5-digit scheme and 5-digit DSCF sacks and 3-digit nonmachinable sacks on an SCF pallet.

* * * * *

M720 Bound Printed Matter

M721 Single-Piece Bound Printed Matter

1.0 BASIC STANDARDS

1.1 General

[Amend 1.1 by adding a sentence at the end for barcoded single-piece rate Bound Printed Matter to read as follows:]

* * * Bound Printed Matter claiming a barcoded discount must meet the applicable standards in E712.

* * * * *

M730 Media Mail

[Revise 1.0 to read as follows:]

1.0 BASIC STANDARDS

1.1 General

There are no presort, sacking, or labeling standards for single-piece Media Mail. All mailings of Presorted Media Mail are subject to the standards in 2.0 through 4.0 and to these general requirements:

a. Each mailing must meet the applicable standards in E710, E713, and in M010, M020, and M030.

b. All pieces in a mailing must be within the same processing category as described in C050. A Media Mail irregular parcel is a piece that is not a machinable parcel as defined in C050.4.1 or a flat as defined in C050.3.1. Pieces that meet the size and weight standards for a machinable parcel but are not individually boxed or packaged to withstand processing on BMC parcel sorters under C010 also are irregular parcels.

c. All pieces must be sorted to the finest extent possible under 2.0 through 4.0 or palletized under M045.

d. Each piece claimed at Media Mail rates must be marked “Media Mail” under M012. Each piece claimed at Presorted Media Mail rates also must be marked “Presorted” or “PRSRT” under M012.

1.2 Documentation

A complete, signed postage statement, using the correct USPS form or an approved facsimile, must accompany each mailing. Documentation of postage is not required if the correct rate is affixed to each piece or if each piece is of identical weight, and the pieces are separated by rate level at the time of mailing.

[Revise 2.0 to read as follows:]

2.0 PREPARATION—FLATS

2.1 Packaging

A package must be prepared when the quantity of addressed pieces for a required presort level reaches a minimum of 10 pieces. Smaller volumes are not permitted. The maximum weight of each physical package is 20 pounds, except that 5-digit packages placed in 5-digit sacks may weigh a maximum of 40 pounds. Each physical package must contain at least two addressed pieces.

2.2 Package Preparation

Packages must be prepared and labeled in the following required sequence:

a. 5-digit: optional, but required for 5-digit rate eligibility; red Label D or optional endorsement line (OEL).

b. 3-digit: required; green Label 3 or OEL.

c. ADC: required; pink Label A or OEL.

d. Mixed ADC: required (no minimum); tan Label MXD or OEL.

2.3 Sacking

A sack must be prepared when the quantity of mail for a required presort destination reaches the minimums specified in 2.4 or 1,000 cubic inches. Smaller volumes are not permitted (except in mixed ADC sacks).

2.4 Sack Preparation

Sacks must be prepared and labeled in the following sequence:

a. 5-digit: optional, but required for 5-digit rate eligibility (10-piece minimum).

(1) Line 1: use city, state, and 5-digit ZIP Code on packages, preceded for military mail by correct prefix in M031.

(2) Line 2: “PSVC FLTS 5D NON BC.”

b. 3-digit: required (20-piece minimum).

(1) Line 1: use L002, Column A.

(2) Line 2: “PSVC FLTS 3D NON BC.”

c. ADC: required (20-piece minimum).

(1) Line 1: use L004, Column B.

(2) Line 2: “PSVC FLTS ADC NON BC.”

d. Mixed ADC: required (no minimum).

(1) Line 1: use “MXD” followed by city, state, and ZIP Code of ADC serving 3-digit ZIP Code prefix of entry post office, as shown in L004, Column B.

(2) Line 2: “PSVC FLTS NON BC WKG.”

[Add new 3.0 to read as follows:]

3.0 PREPARATION—IRREGULAR PARCELS

3.1 Packaging

A package must be prepared when the quantity of addressed pieces for a required presort level reaches a minimum of 10 pieces, except that packaging is not required for pieces placed in 5-digit scheme sacks and 5-digit sacks when such pieces are enclosed in an envelope, full-length sleeve, full-length wrapper, or polybag and the minimum package volume is met. The maximum weight of each physical package is 20 pounds, except that 5-digit packages placed in 5-digit sacks may weigh a maximum of 40 pounds. Each physical package must contain at least two addressed pieces. Packaging is also subject to these conditions:

a. Identical-weight pieces that weigh 1 pound or less must be prepared using the 10-piece minimum; those that weigh more than 1 pound must be prepared using the 10-pound minimum.

b. For nonidentical-weight pieces, mailers must either use the minimum that applies to the average piece weight for the entire mailing (divide the net weight of the mailing by the number of pieces; the resulting average single-piece weight determines whether the 10-piece or 10-pound minimum applies), or package by the actual piece count or mail weight for each sack, if documentation can be provided with the mailing that shows (specifically for each sack) the number of pieces in each package and their total weight.

c. Mailers must note on the postage statement which sacking method was used.

3.2 Package Preparation

Packages must be prepared and labeled in the following sequence:

a. 5-digit: optional, but required for 5-digit rate eligibility; red Label D or optional endorsement line (OEL).

b. 3-digit: required; green Label 3 or OEL.

c. ADC: required; pink Label A or OEL.

d. Mixed ADC: required (no minimum); tan Label MXD or OEL.

3.3 Sacking

A sack must be prepared when the quantity of mail for a required presort destination reaches 10 addressed pieces or 20 pounds, whichever occurs first. At the mailer's option, a sack may be prepared when the quantity of mail reaches 1,000 cubic inches. Smaller volumes are not permitted (except in mixed ADC sacks). Optional 5-digit scheme sacks may be prepared only when there are at least 10 addressed pieces or 20 pounds. Smaller volumes are not permitted (except in mixed ADC sacks). Sacking is also subject to these conditions:

a. Identical-weight pieces weighing 2 pounds or less must be sacked using the 10-piece minimum; those that weigh more must be sacked using the 20-pound or 1,000 cubic inch minimum.

b. For nonidentical-weight pieces, mailers must use either the minimum that applies to the average piece weight for the entire mailing (divide the net weight of the mailing by the number of pieces; the resulting average single-piece weight determines whether the 10-piece or 20-pound minimum applies). Alternatively, mailers may sack by the actual piece count, mail weight for each destination, or 1,000 cubic inch minimum, provided that documentation can be provided with the mailing that shows (specifically for each sack) the number of pieces in each sack and their total weight.

c. Mailers must note on the postage statement which sacking method was used.

3.4 Sack Preparation

Sacks must be prepared and labeled in the following sequence:

a. 5-digit scheme: optional.

(1) Line 1: use L606, Column B.

(2) Line 2: “PSVC IRREG 5D SCHEME” or “PSVC IRREG 5D SCH.”

b. 5-digit: optional, but required for 5-digit rate eligibility.

(1) Line 1: use city, state, and 5-digit ZIP Code on packages, preceded for military mail by correct prefix in M031.

(2) Line 2: “PSVC IRREG 5D.”

c. 3-digit: required.

(1) Line 1: use L002, Column A.

(2) Line 2: “PSVC IRREG 3D.”

d. ADC: required.

(1) Line 1: use L004, Column B.

(2) Line 2: “PSVC IRREG ADC.”

e. Mixed ADC: required (no minimum).

(1) Line 1: use “MXD” followed by city, state, and ZIP Code of ADC serving 3-digit ZIP Code prefix of entry post office, as shown in L004, Column B.

(2) Line 2: “PSVC IRREG WKG.”

[Add new 4.0 to read as follows:]

4.0 PREPARATION—MACHINABLE PARCELS

4.1 Sacking

A sack must be prepared when the quantity of mail for a required presort destination reaches 10 addressed pieces or 20 pounds, whichever occurs first. At the mailer's option, a sack may be prepared when the quantity of mail reaches 1,000 cubic inches. Smaller volumes are not permitted (except in mixed BMC sacks). Sacking also is subject to these conditions:

a. Identical-weight pieces that weigh 2 pounds or less must be sacked using the 10-piece minimum; those that weigh more must be sacked using the 20-pound or 1,000 cubic inch minimum.

b. For nonidentical-weight pieces, mailers must use either the minimum that applies to the average piece weight for the entire mailing (divide the net weight of the mailing by the number of pieces; the resulting average single-piece weight determines whether the 10-piece or 20-pound minimum applies). Alternately, mailers may sack by the actual piece count, mail weight for each package destination, or 1,000 cubic inch minimum, provided that documentation can be provided with the mailing that shows (specifically for each sack) the number of pieces and their total weight.

c. Mailers must note on the postage statement which sacking method was used.

4.2 Sack Preparation

Sacks must be prepared and labeled in the following sequence:

a. 5-digit scheme: optional.

(1) Line 1: use L606, Column B.

(2) Line 2: “PSVC MACH 5D SCHEME” or “PSVC MACH 5D SCH.”

b. 5-digit: optional, but required for 5-digit rate eligibility.

(1) Line 1: use city, state, and 5-digit ZIP Code on parcels, preceded for military mail by correct prefix in M031.

(2) Line 2: “PSVC MACH 5D.”

c. BMC: required.

(1) Line 1: use L601, Column B.

(2) Line 2: “PSVC MACH BMC.”

d. Mixed BMC: required (no minimum).

(1) Line 1: “MXD” followed by information in L601, Column B, for BMC serving 3-digit ZIP Code of entry post office.

(2) Line 2: “PSVC MACH WKG.”

M740 Library Mail

[Revise 1.0 to read as follows:]

1.0 BASIC STANDARDS

1.1 General

There are no presort, sacking, or labeling standards for single-piece Library Mail. All mailings of Presorted Library Mail are subject to the standards in 2.0 through 4.0 and to these general standards:

a. Each mailing must meet the applicable standards in E710, E714, and in M010, M020, and M030.

b. All pieces in a mailing must be within the same processing category as described in C050. A Library Mail irregular parcel is a piece that is not a machinable parcel as defined in C050.4.1 or a flat as defined in C050.3.1. Pieces that meet the size and weight standards for a machinable parcel but are not individually boxed or packaged to withstand processing on BMC parcel sorters under C010 are also considered irregular parcels.

c. All pieces must be sorted to the finest extent possible under 2.0 through 4.0 or palletized under M045.

d. Each piece claimed at Library Mail rates must be marked “Library Mail” under M012. Each piece claimed at Presorted Library Mail rates also must be marked “Presorted” or “PRSRT” under M012.

1.2 Documentation

A complete, signed postage statement, using the correct USPS form or an approved facsimile, must accompany each mailing. Documentation of postage is not required if the correct rate is affixed to each piece or if each piece is of identical weight, and the pieces are separated by rate level at the time of mailing.

[Revise 2.0 to read as follows:]

2.0 PREPARATION—FLATS

2.1 Packaging

A package must be prepared when the quantity of addressed pieces for a required presort level reaches a minimum of 10 pieces. Smaller volumes are not permitted. The maximum weight of each physical package is 20 pounds, except that 5-digit packages, placed in 5-digit sacks may weigh a maximum of 40 pounds. Each physical package must contain at least two addressed pieces.

2.2 Package Preparation

Packages must be prepared and labeled in the following sequence:

a. 5-digit: optional, but required for 5-digit rate eligibility; red Label D or optional endorsement line (OEL).

b. 3-digit: required; green Label 3 or OEL.

c. ADC: required; pink Label A or OEL.

d. Mixed ADC: required (no minimum); tan Label MXD or OEL.

2.3 Sacking

A sack must be prepared when the quantity of mail for a required presort destination reaches the minimums specified in 2.4 or 1,000 cubic inches. Smaller volumes are not permitted (except in mixed ADC sacks).

2.4 Sack Preparation

Sacks must be prepared and labeled in the following sequence:

a. 5-digit: optional, but required for 5-digit rate eligibility (10-piece minimum).

(1) Line 1, use city, state, and 5-digit ZIP Code on packages, preceded for military mail by correct prefix in M031.

(2) Line 2: “PSVC FLTS 5D NON BC.”

b. 3-digit: required (20-piece minimum).

(1) Line 1: use L002, Column A.

(2) Line 2: “PSVC FLTS 3D NON BC.”

c. ADC: required (20-piece minimum).

(1) Line 1: use L004, Column B.

(2) Line 2: “PSVC FLTS ADC NON BC.”

d. Mixed ADC: required (no minimum).

(1) Line 1: use “MXD” followed by city, state, and ZIP Code of ADC serving 3-digit ZIP Code prefix of entry post office, as shown in L004, Column B.

(2) Line 2: “PSVC FLTS NON BC WKG.”

[Add new 3.0 to read as follows:]

3.0 PREPARATION—IRREGULAR PARCELS

3.1 Packaging

A package must be prepared when the quantity of addressed pieces for a required presort level reaches a minimum of 10 pieces, except that packaging is not required for pieces placed in 5-digit scheme sacks and 5-digit sacks when such pieces are enclosed in an envelope, full-length sleeve, full-length wrapper, or polybag and the minimum package volume is met. The maximum weight of each physical package is 20 pounds, except that 5-digit packages placed in 5-digit sacks may weigh a maximum of 40 pounds. Each physical package must contain at least two addressed pieces. Packaging is also subject to these conditions:

a. Identical-weight pieces that weigh 1 pound or less must be prepared using the 10-piece minimum; those that weigh more than 1 pound must be prepared using the 10-pound minimum.

b. For nonidentical-weight pieces, mailers must use either the minimum that applies to the average piece weight for the entire mailing (divide the net weight of the mailing by the number of pieces; the resulting average single-piece weight determines whether the 10-piece or 10-pound minimum applies) or package by the actual piece count or mail weight for each sack, if documentation can be provided with the mailing that shows (specifically for each sack) the number of pieces and their total weight.

c. Mailers must note on the postage statement which sacking method was used.

3.2 Package Preparation

Packages must be prepared and labeled in the following sequence:

a. 5-digit: optional, but required for 5-digit rate eligibility; red Label D or optional endorsement line (OEL).

b. 3-digit: required; green Label 3 or OEL.

c. ADC: required; pink Label A or OEL.

d. Mixed ADC: required (no minimum); tan Label MXD or OEL.

3.3 Sacking

A sack must be prepared when the quantity of mail for a required presort destination reaches 10 addressed pieces or 20 pounds, whichever occurs first. At the mailer's option, a sack may be prepared when the quantity of mail reaches 1,000 cubic inches. Smaller volumes are not permitted (except in mixed ADC sacks). Sacking is also subject to these conditions:

a. Identical-weight pieces weighing 2 pounds or less must be sacked using the 10-piece minimum; those that weigh more must be sacked using the 20-pound or 1,000 cubic inch minimum.

b. For nonidentical-weight pieces, mailers must use either the minimum that applies to the average piece weight for the entire mailing (divide the net weight of the mailing by the number of pieces; the resulting average single-piece weight determines whether the 10-piece or 20-pound minimum applies). Alternatively, mailers may sack by the actual piece count, mail weight for each package destination, or 1,000 cubic inch minimum, if documentation can be provided with the mailing that shows (specifically for each sack) the number of pieces and their total weight.

c. Mailers must note on the postage statement which sacking method was used.

3.4 Sack Preparation

Sacks must be prepared and labeled in the following sequence:

a. 5-digit scheme: optional.

(1) Line 1: use L606, Column B.

(2) Line 2: “PSVC IRREG 5D SCHEME” or “PSVC IRREG 5D SCH.”

b. 5-digit: optional, but required for 5-digit rate eligibility.

(1) Line 1: use city, state, and 5-digit ZIP Code on packages, preceded for military mail by correct prefix in M031.

(2) Line 2: “PSVC IRREG 5D.”

c. 3-digit: required.

(1) Line 1: use L002, Column A.

(2) Line 2: “PSVC IRREG 3D.”

d. ADC: required.

(1) Line 1: use L004, Column B.

(2) Line 2: “PSVC IRREG ADC.”

e. Mixed ADC: required (no minimum).

(1) Line 1: use “MXD” followed by city, state, and ZIP Code of ADC serving 3-digit ZIP Code prefix of entry post office, as shown in L004, Column B.

(2) Line 2: “PSVC IRREG WKG.”

[Add new 4.0 to read as follows:]

4.0 PREPARATION—MACHINABLE PARCELS

4.1 Sacking

A sack must be prepared when the quantity of mail for a required presort destination reaches 10 addressed pieces or 20 pounds, whichever occurs first. At the mailer's option, a sack may be prepared when the quantity of mail reaches 1,000 cubic inches. Smaller volumes are not permitted (except in mixed BMC sacks). Sacking also is subject to these conditions:

a. Identical-weight pieces that weigh 2 pounds or less must be sacked using the 10-piece minimum; those that weigh more must be sacked using the 20-pound or 1,000 cubic inch minimum.

b. For nonidentical-weight pieces, mailers must use either the minimum that applies to the average piece weight for the entire mailing (divide the net weight of the mailing by the number of pieces; the resulting average single-piece weight determines whether the 10-piece or 20-pound minimum applies). Alternately, mailers may sack by the actual piece count, mail weight for each package destination, or 1,000 cubic inch minimum, provided that documentation can be provided with the mailing that shows (specifically for each sack) the number of pieces and their total weight.

c. Mailers must note on the postage statement which sacking method was used.

4.2 Sack Preparation

Sacks must be prepared and labeled in the following sequence:

a. 5-digit scheme: optional.

(1) Line 1: use L606, Column B.

(2) Line 2: “PSVC MACH 5D SCHEME” or “PSVC MACH 5D SCH.”

b. 5-digit: optional, but required for 5-digit rate eligibility.

(1) Line 1: use city, state, and 5-digit ZIP Code on parcels, preceded for military mail by correct prefix in M031.

(2) Line 2: “PSVC MACH 5D.”

c. BMC: required.

(1) Line 1: use L601, Column B.

(2) Line 2: “PSVC MACH BMC.”

d. Mixed BMC: required (no minimum).

(1) Line 1: “MXD” followed by information in L601, Column B, for BMC serving 3-digit ZIP Code of entry post office.

(2) Line 2: “PSVC MACH WKG.”

M800 All Automation Mail

M810 Letter-Size Mail

1.0 BASIC STANDARDS

* * * * *

1.2 Mailings

The requirements for mailings are as follows:

* * * * *

[Amend items 1.2b and 1.2d to replace the automation basic rate with the new AADC and mixed AADC rates.]

* * * * *

b. First-Class. A single automation rate First-Class Mail mailing may include pieces prepared at carrier route, 5-digit, 3-digit, AADC, and mixed AADC rates.

* * * * *

d. Standard Mail. Automation carrier route pieces must be prepared as a separate mailing (and meet a separate minimum volume requirement) from pieces prepared at 5-digit, 3-digit, AADC, and mixed AADC rates.

1.3 Documentation

[Amend 1.3 to remove references to the basic rate.]

A complete postage statement must accompany each mailing. Each mailing also must be accompanied by presort and rate documentation produced by PAVE-certified or MAC-certified software or by standardized documentation under P012. Exception: For mailings of fewer than 10,000 pieces, presort and rate documentation is not required if postage at the correct rate is affixed to each piece or if each piece is of identical weight and the pieces are separated by rate when presented for acceptance. Mailers may use a single postage statement and a single documentation report for all rate levels in a single mailing. Standard Mail mailers may use a single postage statement and a single documentation report (with a separate summary for carrier route and a separate summary for all other rate levels) for both an automation carrier route mailing and a mailing containing pieces prepared at other automation rates when both mailings are submitted for entry at the same time. Combined mailings of more than one Periodicals publication also must be documented under M210 and M220. First-Class Mail and Standard Mail mailings prepared under the value added refund procedures or as combined mailings must meet additional standardized documentation requirements under P014 and P960.

* * * * *

2.0 FIRST-CLASS MAIL AND STANDARD MAIL

* * * * *

2.3 Tray Line 2

[In 2.3, amend the introduction and items b and c to change “LTRS” to “LTR,” to change “CR-RTS” to “CR-RT,” and to add “5D” to the 5-digit carrier routes tray:]

* * * * *

Line 2: “FCM LTR” or “STD LTR” and:

* * * * *

b. 5-digit carrier routes: “5D CR-RT BC.”

c. 3-digit carrier routes: “3D CR-RT BC.”

* * * * *

M820 Flat-Size Mail

[Amend Summary to include Bound Printed Matter to read as follows:]

Summary

M820 describes the preparation standards for flat-size automation rate First-Class Mail, Periodicals, Standard Mail, and Bound Printed Matter.

1.0 BASIC STANDARDS

1.1 Standards

[Amend the first sentence of 1.1 by adding text for Bound Printed Matter flats to read as follows:]

Flat-size Bound Printed Matter pieces claiming the barcoded discount and flat-size automation rate First-Class Mail, Periodicals, and Standard Mail must be prepared under M820 and the eligibility standards for the rate claimed.* * *

1.2 Mailings

[Amend 1.2 to replace the First-Class Mail automation basic rate with the new ADC and mixed ADC rates to read as follows:]

All pieces in a mailing must meet the standards in C820 and must be sorted together to the finest extent required. First-Class Mail mailings may include pieces prepared at automation 5-digit, 3-digit, ADC, and mixed ADC rates. Periodicals mailings may include pieces prepared at automation 5-digit, 3-digit, and basic rates. Standard Mail mailings may include pieces prepared at automation 3/5 and basic rates. The definitions of a mailing and permissible combinations are in M011. Bound Printed Matter mailings may include presorted pieces claiming the barcode discount.

* * * * *

1.4 Marking

[Amend the last sentence of 1.4 by adding reference P700 to read as follows:]

* * * Pieces not claimed at an automation rate must not bear “AUTO” unless single-piece rate postage is affixed or a corrective single-piece rate marking is applied under P100, P600, or P700.

* * * * *

[Add new 6.0 for Bound Printed Matter to read as follows:]

6.0 BOUND PRINTED MATTER

6.1 Package Preparation

Packages must be prepared and labeled in the following sequence:

a. 5-digit: (minimum 10 pieces or 10 pounds, fewer not permitted, maximum weight 20 pounds); red Label D or optional endorsement line (OEL).

b. 3-digit: (minimum 10 pieces or 10 pounds, fewer not permitted, maximum weight 20 pounds); green Label 3 or OEL.

c. ADC: (minimum 10 pieces or 10 pounds, fewer not permitted, maximum weight 20 pounds); pink Label A or OEL.

d. Mixed ADC: (no minimum, maximum weight 20 pounds); tan Label MXD or OEL.

6.2 Sack Preparation and Labeling

A sack must be prepared when the quantity of mail for a required presort destination reaches 20 addressed pieces. Preparation sequence, tray size, and labeling:

a. 5-digit: required.

(1) Line 1: use city, state, and 5-digit ZIP Code on packages.

(2) Line 2: “PSVC FLTS 5D BC.”

b. 3-digit: required.

(1) Line 1: use L002, Column A.

(2) Line 2: “PSVC FLTS 3D BC.”

c. SCF: optional.

(1 ) Line 1: use L005, Column B.

(2) Line 2: “PSVC FLTS SCF BC.”

d. ADC: required.

(1) Line 1: use L004.

(2) Line 2: “PSVC FLTS ADC BC.”

e. Mixed ADC: required.

(1) Line 1: use “MXD” followed by origin facility in L802 or L803 as appropriate.

(2) Line 2: “PSVC FLTS BC WKG.”

* * * * *

P Postage and Payment Methods

P000 Basic Information

P010 General Standards

P011 Payment

1.0 PREPAYMENT AND POSTAGE DUE

* * * * *

[Amend 1.5 to replaced references to the nonstandard surcharge to the nonmachinable surcharge.]

1.5 Shortpaid Mail—Basic Standards

Mail of any class, including mail indicating special services (except Express Mail, registered mail, and nonmachinable First-Class Mail), that is received at either the office of mailing or office of address without enough postage is marked to show the total (rounded off) deficiency of postage and fees. Individual such pieces (or quantities fewer than 10) are delivered to the addressee on payment of the charges marked on the mail. For quantity mailings of 10 or more pieces, the mailer is notified so that the postage charges may be adjusted before dispatch.

* * * * *

[Amend title and text of 1.8 to show that the nonstandard surcharge is replaced by the nonmachinable surcharge to read as follows:]

1.8 Shortpaid Nonmachinable Mail

Shortpaid nonmachinable First-Class Mail is returned to the sender for additional postage.

* * * * *

P012 Documentation

* * * * *

[Amend title and text of 2.0 to add Bound Printed Matter flats to read as follows:]

2.0 STANDARDIZED DOCUMENTATION—FIRST-CLASS MAIL, PERIODICALS, STANDARD MAIL AND BOUND PRINTED MATTER FLATS

2.1 Basic Standards

For First-Class Mail, Periodicals, Standard Mail, and Bound Printed Matter Flats, * * *

2.2 Format and Content

For First-Class Mail, Periodicals, Standard Mail, and Bound Printed Matter Flats, * * *

* * * * *

2.3 Rate Level Column Headings

The actual name of the rate level (or corresponding abbreviation) is used for column headings required by 2.2 and shown below:

[Amend 2.3a to add the AADC and mixed AADC rates for automation letters and the ADC and mixed ADC rates automation for flats]

a. Automation First-Class Mail, Periodicals, and Standard Mail:

Rate | Abbreviation
* * * * * * *
AADC [First-Class Mail letters/cards and Standard Mail letters] | AB
ADC [First-Class Mail flats] | AB
Mixed AADC [First-Class Mail letters/cards and Standard Mail letters] | MB
Mixed ADC [First-Class Mail flats] | MB
[Amend the entry for basic as follows:]
Basic [flats] | BB
* * * * * * *

* * * * *

3.0 DETAILED ZONE LISTING FOR PERIODICALS

3.1 Definition and Retention

[Amend the first sentence of 3.1 by making minor edits and adding DADC rates to read as follows:]

The publisher must be able to present documentation to support the actual number of copies of each edition of an issue, by entry point, mailed to each zone, at DDU, DSCF, DADC, and In-County rates.* * *

3.2 Characteristics

Report the number of copies mailed to each 3-digit ZIP Code prefix at applicable zone rates using one of the following formats:

* * * * *

[Amend the first sentence of item 3.2b by making minor edits and adding DADC to read as follows:]

Report copies by zone (In-County DDU, In-County others, Outside-County DDU, Outside-County DSCF, and Outside-County DADC) and by 3-digit ZIP Code prefix, listed in ascending numeric order, for each zone.* * *

3.3 Zone Abbreviations

Use the actual rate name or the authorized zone abbreviation in the listings in 2.0 and 3.2:

[Amend the table in 3.3 to include the zone abbreviation, “ADC” and rate equivalent, “outside-county, DADC” to read as follows:]

Zone abbreviation | Rate equivalent
* * * * *
SCF | Outside-County, DSCF.
ADC | Outside-County, DADC.
1-2 or 1/2 | zones 1 and 2.
* * * * *

4.0 POSTAGE STATEMENT

* * * * *

[Revise 4.2 for clarity adding relocated P950.5.5 and 6.11. Add new 4.3 to clarify what is required for facsimile postage statements.]

4.2 Completing Postage Statements

Any mailing claiming a discount, and all permit imprint mailings must be accompanied by a postage statement completed and signed by the mailer. The mailer may submit a computer-generated facsimile (see 4.3). A change made to any postage statement requires the mailer (agent) to correct the postage statement accordingly and document the correction.

[Add new 4.3 as follows.]

4.3 Facsimile Postage Statements

Facsimile postage statements must contain data and elements in locations as close as possible to where they appear on the USPS form. Data fields that do not pertain to information and rates claimed in the mailing and other extraneous information that appears on the USPS form do not have to be included. Facsimiles must include all other information pertaining to the mailing, including the class of mail (or subclass as appropriate), postage payment method (e.g., permit imprint), and four-digit form number (hyphen and suffix, optional). All parts, and line numbers within each part, must reflect those on the USPS form(s). In some cases, this can include fields from multiple USPS forms onto a single facsimile. For example: Part A, lines A5, A6, and total—Part A from Form 3602-R, and Part F, lines F1, F2 and total—Part F from Form 3602-RS, can be consolidated onto a single Form 3602 (Facsimile). Most importantly, the facsimile must fully and exactly reproduce the “Certification” and “USPS Use Only” fields that appear on the USPS form. A facsimile postage statement produced by software certified by the USPS Presort Accuracy Validation and Evaluation (PAVE) or Manifest Analysis and Certification (MAC) program is considered a USPS-approved form for these standards. Others may be approved by the entry office postmaster. Periodicals mailers authorized centralized postage payment (CPP) procedures receive approval from the New York RCSC.

* * * * *

P013 Rate Application and Computation

* * * * *

1.0 BASIC STANDARDS

* * * * *

[Revise 1.2 by adding new d and e, as follows.]

1.2 Expression

For these standards, express:

a. Piece counts in whole numbers.

b. Weights in decimal pounds (e.g., 1.125 pounds) rounded as shown below.

c. Postage in decimal dollars (e.g., $0.162) rounded as shown below.

d. Intermediate postage figures on all permit imprint and Periodicals statements (rounded off) to four decimal places. On all postage affixed statements (rounded off) to three decimal places. An intermediate postage figure is defined as follows: For First Class Mail, Standard Mail, and Packages Services mailings, any figure on any line of a postage statement, with the exception of the “Total Postage” line, is an intermediate figure. For Periodicals mailings, any figure on any line of a Form 3541, with the exception of the “Total Outside County Postage,” “Total In-County Postage,” and “Total Foreign Postage” lines is an intermediate figure.

e. Total postage figures (rounded off) to two decimal places. A total postage figure is defined as follows: For First Class Mail, Standard Mail, and Packages Services mailings any figure on a “Total Postage” line. For Periodicals mailings, any figure on a “Total Outside County Postage,” “Total In-County Postage,” and “Total Foreign Postage” line.

* * * * *

2.0 RATE APPLICATION—EXPRESS MAIL, FIRST-CLASS MAIL, AND PRIORITY MAIL

* * * * *

2.4 Priority Mail

[Amend 2.4 by replacing “5 pound” with “1 pound” to read as follows:]

Except under 2.5, Priority Mail rates are charged per pound or fraction thereof; any fraction of a pound is rounded up to the next whole pound. For example, if a piece weighs 1.2 pounds, the weight (postage) increment is 2 pounds. The minimum postage amount per addressed piece is the 1-pound rate. The Priority Mail rate up to 1 pound is based solely on weight; for pieces weighing more than 1 pound, the rates are based on weight and zone.

2.5 Flat Rate Envelope

[Amend 2.5 by changing “2-pound” to “1-pound” to read as follows:]

Each addressed Express Mail flat rate envelope is charged the Express Mail rate applicable to a 1/2-pound piece, regardless of its actual weight. Each addressed Priority Mail flat rate envelope is charged the Priority Mail rate applicable to a 1-pound piece, regardless of its actual weight.

2.6 Keys and Identification Devices

[Amend 2.6 by adding “zone rate” to the 2-pound weight to read as follows:]

Keys and identification devices weighing 13 ounces or less are charged First-Class Mail rates per ounce or fraction thereof in accordance with 2.3, plus the fee in R100.10.0. Keys and identification devices weighing more than 13 ounces but not more than 1 pound are mailed at the 1-pound Priority Mail flat rate plus the fee in R100.10.0. Keys and identification devices weighing more than 1 pound but not more than 2 pounds are subject to the 2-pound Priority Mail rate for zone 4 plus the fee in R100.10.0.

* * * * *

5.0 RATE APPLICATION—PACKAGE SERVICES

* * * * *

5.2 Parcel Post

[Amend 5.2 by changing “2 pounds” to “1 pound” in the last sentence to read as follows:]

* * * The minimum postage rate per addressed piece is that for an addressed piece weighing 1 pound.

5.2 Single-Piece Bound Printed Matter

[Amend 5.3 by changing “1.5 pounds” to “1 pound” in the last sentence to read as follows:]

* * * The minimum postage rate per addressed piece is that for an addressed piece weighing 1 pound.

* * * * *

7.0 COMPUTING POSTAGE—PERIODICALS

* * * * *

[Revise 7.7 to clarify total postage reporting by separate Outside-County and In-County charges.]

7.7 Total Postage

Total Outside-County postage is the sum of the per pound and per piece charges, and any Ride-Along charge, less all discounts, rounded off to the nearest whole cent. Total In-County postage is the sum of the per pound and per piece charges, and any Ride-Along charge, less all discounts, rounded off to the nearest whole cent. For mailings that include foreign copies, total foreign postage is the sum of the per piece charges, less a discount, rounded off to the nearest whole cent.

8.0 COMPUTING POSTAGE—STANDARD MAIL

* * * * *

[Revise 8.3 to include affixing any surcharge]

8.3 Computing Affixed Postage

To compute postage to be affixed to each piece, multiply the weight of the piece (in pounds) by the applicable rate per pound; add the applicable per piece charge and any surcharge; and round the sum up to the next tenth of a cent. The applicable minimum per piece charge must be affixed if it is more than the total computed per piece postage.

[Renumber current 8.4 as 8.5. Add new 8.4 to show how to compute affixed postage for heavy automation and Enhanced Carrier Route letters.]

8.4 Computing Affixed Postage—Heavy Letters

To compute postage to be affixed to each piece, multiply the weight of the piece (in pounds) by the applicable rate per pound; add the applicable per piece charge, subtract the heavy letter discount (see 8.6. through 8.8); and round the sum up to the next tenth of a cent.

* * * * *

[Add new 8.6 to show how to calculate the discount for heavy automation letters:]

8.6 Discount for Heavy Automation Letters

Automation letters that weigh more than 3.3 ounces but not more than 3.5 ounces are charged postage equal to the automation piece/pound rate for that piece and receive a discount equal to the corresponding automation nonletter piece rate (3.3 ounces or less) minus the corresponding automation letter piece rate (3.3 ounces or less). For automation ECR pieces, postage is calculated using the regular basic piece/pound rate and the regular basic nonletter piece rate. If a destination entry rate is claimed, the discount is calculated using the corresponding rates.

[Add new 8.7 to show how to calculate the discount for heavy automation-compatible ECR letters:]

8.7 Discount for Heavy ECR Letters

Pieces that otherwise qualify for the high density or saturation letter rate and weigh more than 3.3 ounces but not more than 3.5 ounces pay postage equal to the piece/pound rate and receive a discount equal to the nonletter piece rate (3.3 ounces or less) minus the letter piece rate (3.3 ounces or less). If a destination entry rate is claimed, the discount is calculated using the corresponding rates.

[Add new 8.8 to show how to calculate the discount for heavy ECR automation basic letters:]

8.8 Discount for Heavy ECR Basic Automation Letters

Pieces that otherwise qualify for the automation basic rate and weigh more than 3.3 ounces but not more than 3.5 ounces pay postage equal to the regular basic piece/pound rate and receive a discount equal to the regular basic nonletter piece rate (3.3 ounces or less) minus the automation basic piece rate (3.3 ounces or less). If a destination entry rate is claimed, the discount is calculated using the corresponding rates.

* * * * *

P014 Refunds and Exchanges

* * * * *

2.0 POSTAGE AND FEES REFUNDS

* * * * *

2.7 Unallowable Refunds

* * * * *

[Revise P014.2.7 by adding a new e., to include text relocated from P950.4.4.]

e. Postage for any failure to provide service caused by any event that occurs before a PVDS shipment is deposited and accepted into the mailstream and becomes mail at a destination postal facility.

* * * * *

5.0 EXPRESS MAIL POSTAGE REFUND

* * * * *

5.2 Conditions for Refund

[Revise 5.2 to read as follows:]

A refund request must be made within 90 days after the date of mailing as shown in the “Date In” box on Label 11. Except as provided in D500.1.6, a mailer may file for a postage refund only under one of the following circumstances.

a. The item was not delivered or made available for claim as guaranteed under the applicable service purchased.

b. The item was not delivered or made available for claim by the guaranteed delivery time applicable to the service purchased, and delivery was not attempted by the guaranteed delivery time applicable to the service purchased.

5.3 Refunds Not Given

[Amend 5.3 to read as follows:]

A refund claim will not be given if the guaranteed service was not provided due to any of the circumstances in D500.1.6.

* * * * *

P020 Postage Stamps and Stationery

P021 Stamped Stationery

* * * * *

3.0 OTHER STATIONERY

[Amend title of 3.1 to by adding “s” to “Card” to read as follows:]

3.1 Stamped Cards

[Amend 3.1 by adding availability of stamped cards to read as follows:]

Stamped cards are available as single stamped cards, double (reply) stamped cards, and in sheets of 40 for customer imprinting. Single and double stamped cards are 3-½ inches high by 5-½ inches long. Sheets must be cut to this size so that the stamp is in the upper right corner of each card. The USPS does not offer personalized stamped cards (cards imprinted with a return address).

* * * * *

P100 First-Class Mail

* * * * *

4.0 PRESORTED RATE

* * * * *

4.2 Affixed Postage

Unless permitted by other standards or by Business Mailer Support, USPS headquarters, when precanceled postage or meter stamps are used, only one payment method may be used in a mailing and each piece must bear postage under one of these conditions:

* * * * *

[Amend 4.2b to change the “nonstandard” surcharge to the “nonmachinable” surcharge to read as follows:]

b. A precanceled stamp or the full postage at the lowest First-Class first ounce rate applicable to the mailing job, and full postage on metered pieces for any additional ounce(s) or nonmachinable surcharge; postage documentation may be required by standard.

* * * * *

5.0 AUTOMATION RATES

* * * * *

5.2 Postage Affixed, Generally

Unless permitted by other standards or by Business Mailer Support, USPS headquarters, when precanceled postage or meter stamps are used, only one payment method may be used in a mailing and each piece must bear postage under one of these conditions:

[Amend item 5.2b to change the “nonstandard” surcharge to the “nonmachinable” surcharge to read as follows:]

* * * * *

b. Flat-size pieces must bear enough postage to include the nonmachinable surcharge if applicable.

* * * * *

P200 Periodicals

1.0 BASIC INFORMATION

* * * * *

1.5 Postage Statement and Documentation

[Amend the second sentence of 1.5 by adding “DADC” to read as follows:]

* * * The postage statement must be supported by documentation as required by P012 unless each piece in the mailing is of identical weight and the pieces are separated when presented for acceptance by rate, by zone (including separation by In-County and Outside-County rates), and by entry discount (i.e., DDU, DSCF, and DADC).* * *

* * * * *

[Redesignate 1.8 through 1.12 as 1.9 through 1.13, respectively. Add new 1.8 to read as follows:]

1.8 Waiving Nonadvertising Rates

Instead of marking a copy of each issue to show the advertising and nonadvertising portions, the publisher may pay postage at the advertising zoned rates on both portions of all issues or editions of a Periodicals publication (except a requester publication). This option is not available if the rate for advertising is lower than the rate for nonadvertising. When the amount of advertising exceeds 75%, the copies provided to the postmaster must be marked “Advertising over 75%.” When the amount of advertising is 75% or under, the copies provided to the postmaster must be marked “Advertising not over 75%” on the first page. The entire weight of the copy must be entered on the postage statement in the column provided for the advertising portion. The words “Over 75%” or “Not over 75%” must be annotated on the postage statement and the word “Waived” must be written in the space provided for the weight of the nonadvertising portion.

* * * * *

2.0 MONTHLY POSTAGE STATEMENT

* * * * *

[Remove 2.3, Waiving Nonadvertising Rates, and redesignate 2.4 as 2.3.]

* * * * *

P600 Standard Mail

* * * * *

2.0 PRESORTED AND ENHANCED CARRIER ROUTE RATES

2.1 Identical-Weight Pieces

[Amend 2.1 to include a reference to surcharges to read as follows:]

Mailings of identical-weight pieces may have postage affixed to each piece at the exact rate for which the piece qualifies, or each piece in the mailing may have postage affixed at the lowest rate applicable to pieces in the mailing or mailing job. Alternatively, a nondenominated precanceled stamp may be affixed to every piece in the mailing or mailing job, or each piece may bear a permit imprint. If exact postage is not affixed, all additional postage and surcharges must be paid at the time of mailing with an advance deposit account or with a meter strip affixed to the required postage statement. If exact postage is not affixed, documentation meeting the standards in P012 must be submitted to substantiate the additional postage unless the pieces are identical weight and separated by rate when presented for acceptance.

[Amend 2.2 to show that when affixing postage, heavy letters must have full postage affixed to every piece in the mailing.]

2.2 Nonidentical-Weight Pieces

Postage for nonidentical-weight pieces subject to the minimum per piece rates may be paid by meter stamps, precanceled stamps, or precanceled stamped envelopes. Mailings of nonidentical-weight pieces subject to the piece/pound rates may have postage paid by permit imprint (if the mailer is authorized by Business Mailer Support) or by meter or precanceled stamps (if each piece has the full postage affixed). Alternatively, except for heavy automation and Enhanced Carrier Route letters, the mailer may affix the per piece rate to each piece and pay the pound rate for the mailing through an advance deposit account. Under this alternative, the mailer must provide a postage statement for each payment method and mark each piece “Pound Rate Pd via Permit,” in the postage meter indicium or ad plate or other means that ensures a legible endorsement. For mailings of nonidentical-weight pieces, “nonidentical” must be shown as the weight of a single piece on the applicable postage statement; other entries must be completed as directed.

* * * * *

P900 Special Postage Payment Systems

P910 Manifest Mailing System (MMS)

* * * * *

3.0 KEYLINE

* * * * *

Exhibit 3.3a Rate Category Abbreviations—First-Class Mail

[Amend Exhibit 3.3a by removing the entry for automation basic and adding entries for the new AADC, ADC, mixed AADC, and mixed ADC rates.]

Code | Rate category
AB | Automation AADC.
AB | Automation ADC.
MB | Automation Mixed AADC.
MB | Automation Mixed ADC.

Exhibit 3.3b Rate Category Abbreviations—Standard Mail

[Amend Exhibit 3.3a by adding entries for the new AADC and mixed AADC rates and revising the entries for automation basic and basic:]

Code | Rate category
BB | Automation Basic
BS | Basic
AB | Automation AADC
MB | Automation Mixed AADC

* * * * *

[P950 is revised in its entirety to clarify standards for PVDS. In addition, current P950.4.4, which contained standards regarding refunds, is relocated to P014.2.7. With the elimination of four (separate) Standard Mail Consolidated Postage Statements, and the addition of a single Form 3602-C, Consolidated Postage Statement Supplement used with typical Standard Mail postage statements, the separate postage reporting standards in P950 are no longer needed. Also removed was redundant information that appears elsewhere. This revision does not substantially change PVDS standards.]

P950 Plant-Verified Drop Shipment (PVDS)

Summary

P950 describes the purpose, program participation, liability, and options.

1.0 DESCRIPTION

1.1 Purpose

Plant-verified drop shipment (PVDS) enables origin verification and postage payment for shipments transported by a mailer (or third party) at the mailer's expense on the mailer's own or contracted vehicle, to destination USPS facilities for acceptance as mail. The mailings may be prepared for deposit at a destination entry rate, or they may be claimed at the applicable rates from the destination entry facility.

1.2 Function

Under PVDS:

a. Mailings are verified at origin by USPS employees assigned to a detached mail unit (DMU) at a mailer's plant or at the business mail entry unit (BMEU) at the origin post office serving the mailer's plant. The shipments are then released for transportation to destination USPS facilities.

b. For Periodicals, postage is paid at a valid original entry or additional entry post office, serving the mailer's plant, unless an alternative postage payment method is authorized.

c. For Standard Mail and Package Services, postage and fees are paid under a valid permit at the post office serving the mailer's plant, or as designated by the district manager.

d. The shipment is deposited at the destination USPS facility, by the mailer or the mailer's agent, where it is verified and accepted as mail by USPS employees and released for processing.

1.3 Other Mailings

The following mailings must be verified, accepted, and paid for at the destination USPS facility:

a. Periodicals mailings not verified at origin under PVDS or under the Centralized Postage Payment System (see P200). The destination USPS facility must be a valid original entry or additional entry post office if mailings are submitted there for postal verification.

b. Standard Mail and Package Services mailings not verified and paid for at origin under PVDS. Mailers must have a valid permit (and fees) at the destination USPS facility for postage payment.

1.4 Dates

The postage statement may be submitted before or at the time a shipment is presented to the origin post office DMU or BMEU. The date shown by the mailer and the post office round stamp date on the postage statement and Form 8125 represents the date the origin post office DMU or BMEU verified the shipment and cleared it for dispatch by the mailer to the destination USPS facility. It does not necessarily represent the date the USPS accepts the PVDS at the USPS destination facility as mail.

2.0 PROGRAM PARTICIPATION

2.1 Mailer Responsibility

A mailer participating in PVDS must comply with P950. If the mailer does not meet these requirements, the mailer may be prohibited from participating in PVDS by the local postmaster. Any mailer denied a request for PVDS may file an appeal under G020.

2.2 Verification at Mailer's Plant

Before PVDS verification can be performed at the mailer's plant, the mailer must have either a USPS plant load authorization for that plant or a postage payment agreement with the USPS that establishes a detached mail unit (DMU) at that plant. The DMU must be separate from the mailer's activities, in an enclosed, secure, and safe work area with a telephone. The work area must be approved by the USPS. The mailer may submit a letter to the postmaster serving the plant and request PVDS verification at the plant. The postmaster may agree to the mailer's request to verify PVDS shipments at the plant on an as-needed basis, if an approved DMU is established and staffing can be accommodated.

2.3 Verification at Origin BMEU

PVDS verification can be performed at the origin business mail entry unit (BMEU) under these conditions:

a. There is no detached mail unit (DMU) at the mailer's plant.

b. The mailer is in the service area of the post office where the PVDS is to be verified and where postage is to be paid, unless another postal facility is designated by the district manager.

c. Each vehicle contains only one mailer's shipment(s), each physically separated.

d. A completed postage statement and Form 8125 accompanies each PVDS (or segment, if the PVDS is contained in more than one vehicle).

e. If an alternate method of paying postage with permit imprint is used, in addition to d., (additional) required documentation must accompany each PVDS (or segment, if the PVDS is contained in more than one vehicle).

f. The PVDS can be physically verified at the origin BMEU. Shipments to be verified may not be wrapped or otherwise prepared if a presort and postage verification cannot be performed without destroying the physical integrity of the shipment.

g. The BMEU has enough space and staff to handle verification, and scales to calculate per piece and gross weights are available. If the post office serving the mailer's plant lacks resources, another postal facility may be designated by the district manager.

h. The mailer must transport all shipments to the post office, unload them for verification. When cleared for dispatch, reload the shipments back onto the mailer's vehicle for transportation to the destination USPS facility.

2.4 Periodicals

Periodicals postage must be paid at the post office verifying the copies or as designated by the district. Advertising postage is zoned from the destination USPS facility where deposited and accepted as mail (or from the facility where the Express Mail or Priority Mail drop shipment destinates). The publisher must ensure that sufficient funds are on deposit to pay for all shipments before their release. (A publisher authorized under an alternative postage payment system must pay postage under corresponding standards.)

2.5 Standard Mail and Package Services

The mailer must pay any applicable permit fees, mailing fees, and postage for Standard Mail and Package Services PVDS at either the post office serving the mailer's plant or the post office that does BMEU verification as designated by the district. If permit imprints are used to pay postage, the mailer must ensure that sufficient funds are on deposit to pay for all shipments before their release. For Nonprofit Standard Mail rates, a valid authorization must be on file at the post office where postage is paid. No permit, fees, or authorizations are required at the destination USPS facility where PVDS mailings are deposited.

2.6 Postage Statement—Periodicals

The mailer must submit a Form 3541 for each edition of each issue of each publication prepared for deposit at each destination USPS facility, when the corresponding copies are presented to the DMU or the post office BMEU for verification. When required by the USPS, the mailer must submit consolidated postage statements and a postage statement register.

2.7 Postage Statement—Standard Mail

At the time mail is presented for verification, the mailer must submit an appropriate Form 3602 representing all the pieces from the mailing job and Form 3602-C (or postage statement register) for all PVDS verified at the mailer's DMU or the post office BMEU. The mailer must enter the required information on Form 3602-C for each PVDS to be deposited at each destination USPS facility, in lieu of providing a separate Form 3602 for each PVDS.

2.8 Postage Statement—Package Services

At the time mail is presented for verification, the mailer must submit an appropriate postage statement for each PVDS mailing destined for each destination USPS facility, When required by the USPS, the mailer must submit consolidated postage statements and a postage statement register.

2.9 Form 8125 and Form 8125-C

Form 8125 is used to report a single PVDS that the mailer will transport from origin to a destination USPS facility. Computer-generated Form 8125-C, (format available at www.usps.com), provides for reporting multiple PVDS mailings that are prepared by an individual mailer and that are cleared at origin on the same day for entry at a single destination USPS facility on the same vehicle. See 2.11. The mailer must submit a completed Form 8125 (signed and dated by the DMU or BMEU) for each PVDS, to the destination USPS facility. The form must be submitted in duplicate, or in triplicate if the mailer desires a signed and dated copy returned to its representative when depositing the mail at the destination USPS facility. Form 8125 is not required for PVDS sent via Express Mail or Priority Mail drop shipment.

2.10 Facsimile Forms 8125 and 8125-C

Facsimile Forms 8125 may be used in lieu of the USPS form. Formats must be approved in advance by the district manager of Business Mail Entry or designee. Formats must include all required information, including the correct title (preceded by the word “facsimile”) and edition date, in locations as close as possible to where they appear on the USPS form. Data fields that do not pertain to information relating to the PVDS, and other extraneous information that appear on the USPS form, do not have to be included. Form 8125-C must always be computer-generated. Form 8125-C, may omit the “Number of Pieces” and “Piece Weight” columns for mailings prepared in sacks, trays, or on pallets if there is sufficient information for the origin post office and destination USPS facility to identify the mailings and to compare the information on the form, with the physical mail. The mailer must report the number of pieces in each mailing on Form 8125-C if the mailings consist of individual mailpieces that are not prepared in containers (e.g., bedloaded parcels). For mailings consisting of identical weight pieces, mailers should report the piece weight where possible.

2.11 Mailer Transport of PVDS

Using any means of transportation, including Express Mail or Priority Mail drop shipment, the mailer must transport PVDS mailings from origin to the destination USPS facility. The mailer must not transport PVDS mailings on the same vehicle with shipments not entered as PVDS. For Standard Mail and Package Services PVDS, the mailer must meet the scheduling standards for mail deposit at destination USPS facilities. If a vehicle contains mail paid at Parcel Select rates, the applicable standards for scheduling of deposits and unloading of vehicles apply to any other mail on the same vehicle for the same destination USPS facility. Any material classified as hazardous under C023 may not be carried in the same vehicle as PVDS mailings.

2.12 Separation of PVDS Mailings

When a vehicle contains more than one PVDS for a single destination USPS facility, the shipments must be separated to allow reconciliation with each accompanying Form 8125. Vehicles containing shipments for multiple destination USPS facilities, must be kept physically separated. Where applicable, a single Form 8125 that identifies all the mail for a single facility must be prepared for a shipment of copalletized or combined mailings.

3.0 LIABILITY

The mailer assumes all responsibility and liability for any loss or damage to PVDS before they are deposited and accepted as mail at destination USPS facilities, including third party transportation.

4.0 STANDARD MAIL DOCUMENTATION

4.1 SAME DAY

All mailings or segments of the same job submitted for verification and release on the same day under PVDS must be reported on a single postage statement and Form 3602-C (or postage statement register), or on computer media under Multiple Entry Point Processing System (MEPPS).

4.2 Documentation

In addition to the documentation required in P012, the mailer must also submit the documentation below at the time the first mailing identified on Form 3602-C is presented for verification:

a. Form 3602-C, which serves as the postage statement register, along with the appropriate postage statement. All mailing volumes, weights, and postage for each rate category are entered on the postage statement and is used to debit the mailer's account for permit imprint mailings and to enter data on postage-affixed mailings.

b. A separate Form 8125 for each PVDS listed on Form 3602-C (or postage statement register). Each PVDS must be identified with a unique statement number (e.g., the date and a sequential three-digit suffix) on the Form 3602-C (or postage statement register) and the corresponding Form 8125, as appropriate.

c. A separate postage statement showing the mailing post office as the same office as post office of PVDS origin for any portion of a job accepted by the local verifying office under a standard plant load arrangement. Plant load mailings are not considered a PVDS, and are not reported on Forms 3602-C and 8125.

5.0 PACKAGE SERVICES PVDS OPTION

5.1 General Standards

Under this option, in addition to the individual postage statements required for each Package Services mailing, the mailer may be required to submit postage statement registers and consolidated postage statements for PVDS mailings. A single, unique USPS mailing number must be on all related individual postage statements and postage statement register listing these individual statements, and the associated consolidated postage statement. When a mailer is required to submit consolidated postage statements, the information on these statements is used to debit the mailer's account.

5.2 Individual Postage Statements

The mailer must produce and submit a complete postage statement for each mailing for each destination USPS facility when the mailing is presented for verification and postage payment. In addition to the information required on all individual postage statements, if the mailer is required to submit consolidated postage statements (for three or more entry post offices) for debiting of the advance deposit account, each individual postage statement must include a uniquely assigned postage statement sequence number that must not exceed nine digits. The numbers must be sequential within a job or mailing cycle for mailings verified, paid for, and cleared for dispatch on the same day. The statements must also include a unique USPS mailing number corresponding to the number on the related postage statement register and consolidated postage statement.

5.3 Postage Statement Register

A postage statement register is a computer-generated line item listing of all individual postage statements for PVDS permit imprint mailings verified and released for dispatch on a single day from a job or mailing cycle. All postage statements listed on a postage statement register, must be represented by a corresponding consolidated postage statement. The total postage charge on the postage statement register must be identical with the total postage charge on the corresponding consolidated statement. The following information must appear on each postage statement register:

a. At the top of the first page the endorsement “Register of Postage Statements”; name and location of the mailing agent; date mailings are verified and cleared for dispatch; the permit imprint number; the unique USPS mailing number corresponding to the number on related postage statements; and the related consolidated statement.

b. Each line item must include (based on the individual postage statement on that line) the unique postage statement sequence number; destination USPS facility; and, for that statement, total postage, weight, and number of pieces.

c. The sum of the total postage charges must appear with total weight, and total pieces must be listed from each postage statement. The total postage charge on the register must match total postage charge on the related consolidated statement.

d. If necessary, manual corrections may be made to the postage statement register listing the data from any revised individual statement. These corrections must be documented by the DMU, and the corrected register must be signed and dated by both the mailer and the USPS representative approving the changes. The changes on the register must be reflected on the associated consolidated postage statement.

5.4 Submitting Register

The mailer must submit the postage statement register to the DMU before or when presenting the first individual mailing on the register to the DMU for verification and dispatch.

5.5 Consolidated Postage Statement

The consolidated postage statement assembles data from the individual postage statements representing permit imprint mailings verified, paid for, and released for dispatch on a single day from a job or mailing cycle. The consolidated statements are used to debit the mailer's account. The following information must be identical for each individual statement consolidated onto a single (consolidated) postage statement:

a. Mailing date.

b. Name and location of mailing agent.

c. Processing category.

d. Permit imprint number.

e. Job or mailing cycle description.

f. Unique USPS mailing number corresponding to the number on related individual postage statements.

5.6 Consolidated Postage Statement

The consolidated postage statement must be a computer-generated facsimile similar in format to the appropriate USPS postage statement. The mailer must sign and date the consolidated statement. Certain data elements not on the individual postage statements must be reflected on the consolidated statement, including the range of unique individual statement sequence numbers, the number of individual statements represented, and the endorsement “Consolidated Postage Statement.” Other data elements on individual statements, such as each post office of deposit for PVDS mailings, are not shown on the consolidated statement. Each individual statement must contain a USPS mailing number that corresponds to the USPS mailing number on the related consolidated statement.

5.7 Calculating and Reporting Data

Each field on the consolidated postage statement represents the sum total of the figures in that field from the individual postage statements. The figures reported on the consolidated statement must be rounded in accordance with P013. All fields containing data on the individual statements must be rolled up to the consolidated statement. The total postage on the consolidated statement must be the sum of the total postage for all individual postage statements. This total is used to debit the mailer's account.

5.8 Submitting Statement

The mailer must submit the consolidated postage statement to the DMU at or before the time the last individual postage statement it represents is submitted to the DMU for the day's mailing.

P960 First-Class or Standard Mail Mailings With Different Payment Methods

* * * * *

3.0 PRODUCING THE COMBINED MAILING

3.1 Mailer Quality Control

Before merging different pieces into a combined presorted mailing, the mailer must have quality control procedures to ensure that:

* * * * *

[Amend item i to clarify which markings must appear on mailpieces:]

i. When markings are applied by an MLOCR, they properly show the applicable identifier/rate code described in 3.2 that specifies the product month designator, MASS/FASTforward system identifier, the method of postage payment, and the rate of postage affixed for metered and precanceled stamp mail or other postage information for permit imprint mail. These markings must be linked by the computer system to the rate entered by the mailer when the pieces are run through the MLOCR.

[Amend 3.2 to show how markings are applied to pieces in a combined mailing and to add new codes for First-Class Mail and Standard Mail:]

3.2 Rate and Postage Marking

The following markings must be applied to each piece in the mailing when markings are applied by an MLOCR. These seven-character markings provide the automation rate marking information and additional information including the product month designator, MASS/FASTforward (FF) system identifier, manufacturer code, and rate marking information. The product month designator is the first character position and represents the product month of the ZIP+4 file installed with the system's lookup engine responsible for the ZIP+4 assignment. Each product month is designated by a character “A” through “L” (with “A” meaning January, “B” meaning February, etc.). The MASS/FF System Identifier is characters 2 through 4 and represents the certified system identifier responsible for the ZIP+4 assignment. There is a one-to-one relationship between the certified system serial number and the assigned identifier. The manufacturer code is the fifth character and is assigned at the manufacturer's discretion with one exception: the character “Z” is assigned when the mailpiece contains a delivery point barcode in the address block and the MLOCR does not perform a lookup but simply reproduces the address block barcode. The rate marking is represented in the last two characters according to the chart below. The applicable marking must appear on each mailpiece in one of the locations authorized under M012.

a. First-Class Mail.

Rate marking: Letters | Rate marking: Flats | Rate and postage category
P1 | F1 | Barcoded 1-ounce Permit Imprint.
P2 | F2 | Barcoded 2-ounce Permit Imprint.
P3 | F3 | Barcoded 3-ounce Permit Imprint.
P4 | F4 | Barcoded 4-ounce Permit Imprint.
| F5 | Barcoded 5-ounce Permit Imprint.
| F6 | Barcoded 6-ounce Permit Imprint.
| F7 | Barcoded 7-ounce Permit Imprint.
| F8 | Barcoded 8-ounce Permit Imprint.
| F9 | Barcoded 9-ounce Permit Imprint.
| FA | Barcoded 10-ounce Permit Imprint.
| FB | Barcoded 11-ounce Permit Imprint.
| FC | Barcoded 12-ounce Permit Imprint.
| FD | Barcoded 13-ounce Permit Imprint.
M5 | MF | Barcoded 5-Digit Meter Postage Affixed.
M3 | MT | Barcoded 3-Digit Meter Postage Affixed.
MA | MD | Barcoded AADC Meter Postage Affixed.
MM | MX | Barcoded Mixed AADC Meter Postage Affixed.
MP | MP | Presorted Meter Postage Affixed.
S1 |  | Precanceled $0.15 Stamp Affixed (card)
S1 |  | Precanceled $0.23 Stamp Affixed.
S2 |  | Precanceled $0.25 Stamp Affixed.

b. Standard Mail (letters only).

Rate marking | Rate and postage category
PI | Barcoded Regular Permit Imprint.
NI | Barcoded Nonprofit Permit Imprint.
M5 | Barcoded 5-Digit Meter Regular Postage Affixed.
N5 | Barcoded 5-Digit Meter Nonprofit Postage Affixed.
M3 | Barcoded 3-Digit Meter Regular Postage Affixed.
N3 | Barcoded 3-Digit Meter Nonprofit Postage Affixed.
MA | Barcoded AADC Meter Regular Postage Affixed.
NA | Barcoded AADC Meter Nonprofit Postage Affixed.
MM | Barcoded Mixed AADC Meter Regular Postage Affixed.
NM | Barcoded Mixed AADC Meter Nonprofit Postage Affixed.
M8 | Presorted ⅗ Meter Regular Postage Affixed.
N8 | Presorted ⅗ Meter Nonprofit Postage Affixed.
M9 | Presorted Basic Meter Regular Postage Affixed.
N9 | Presorted Basic Meter Nonprofit Postage Affixed.
SR | Precanceled Regular Rate Stamp Affixed.
SN | Precanceled Nonprofit Stamp Affixed.

* * * * *

S Special Services

S000 Miscellaneous Services

S010 Indemnity Claims

* * * * *

2.0 GENERAL FILING INSTRUCTIONS

* * * * *

2.12 Payable Express Mail Claims

[Amend items 2.12a, 2.12a(4), and 2.12b, by replacing $500 with $100. No other changes to text.]

* * * * *

S020 Money Orders and Other Services

1.0 ISSUING MONEY ORDERS

* * * * *

1.2 Purchase Restrictions

A postal customer may buy multiple money orders at the same time, in the same or differing amounts, subject to these restrictions:

[Amend item 1.2a by increasing the maximum amount of a single money order from $700 to $1,000 to read as follows:]

a. The maximum amount of any single money order is $1,000.

* * * * *

S500 Special Services for Express Mail

1.0 AVAILABLE SERVICES

* * * * *

1.5 Insurance and Indemnity

Express Mail is insured against loss, damage, or rifling, subject to these standards:

* * * * *

[Amend item 1.5c by changing “$500” to “$100” to read as follows:]

c. Merchandise insurance coverage is provided against loss, damage, or rifling and is limited to a maximum liability of $100. (Additional insurance under 1.6 may be purchased up to a maximum coverage of $5,000 for merchandise valued at more than $100.) Nonnegotiable documents are insured against loss, damage, or rifling, up to $100 per piece, subject to the maximum limit per occurrence as defined in S010.

* * * * *

1.6 Additional Insurance

[Amend the first sentence of 1.6 by replacing “$500” with “$100” to read as follows:]

Additional insurance, up to a maximum coverage of $5,000, may be purchased for merchandise valued at more than $100 sent by Express Mail. * * *

* * * * *

S900 Special Postal Services

S910 Security and Accountability

S911 Registered Mail

1.0 BASIC INFORMATION

1.1 Description

[Add the following sentence at the end of 1.1 to read as follows:]

* * * Delivery status information for a registered mail item can be determined via the Internet at www.usps.com by entering the article number shown on the mailing receipt.

* * * * *

S912 Certified Mail

1.0 BASIC INFORMATION

1.1 Description

[Add the following sentence after the first sentence in 1.1. The remainder of the text is unchanged.]

* * * Delivery status information for a certified mail item can be determined via the Internet at www.usps.com by entering the article number shown on the mailing receipt. * * *

* * * * *

S918 Delivery Confirmation

1.0 BASIC INFORMATION

* * * * *

1.2 Eligible Matter

[Amend 1.2 by adding First-Class Mail parcels and limiting Package Services to parcels to read as follows:]

Delivery Confirmation service is available for First-Class Mail parcels, Priority Mail items, Standard Mail pieces subject to the residual shape surcharge (electronic option only), and Package Services parcels. For the purposes of adding Delivery Confirmation service, a First-Class Mail or Package Services parcel must meet the definition in C100.5.0 or C700.1.0h, as appropriate.

* * * * *

S919 Signature Confirmation

1.0 BASIC INFORMATION

* * * * *

1.2 Eligible Matter

[Amend 1.2 by adding First-Class Mail parcels and limiting Package Services to parcels to read as follows:]

Signature Confirmation is available for First-Class Mail parcels, Priority Mail items, and Package Services parcels. For the purposes of adding Signature Confirmation service, a First-Class Mail or Package Services parcel must meet the definition in C100.5.0 or C700.1.0h, as appropriate.

* * * * *

S922 Business Reply Mail (BRM)

* * * * *

3.0 POSTAGE, PER PIECE CHARGES, AND ACCOUNTING FEES

3.1 Postage

[Amend 3.1 by changing “5 pounds” to “1 pound.” No other changes to text.]

* * * * *

The adopted rates and fees for the R Module follow:

BILLING CODE 7710-12-P

An appropriate amendment to 39 CFR to reflect these changes will be published.

Neva Watson,
Attorney, Legislative.

[FR Doc. 02-8928 Filed 4-9-02; 3:08 pm]

BILLING CODE 7710-12-C